ENVIRONMENTAL PROTECTION AGENCY

40 CFR Parts 9, 122, 123, 124, 127, 403, 501, and 503

[EPA-HQ-OECA-2009-0274; FRL-9930-70-OECA]

RIN 2020-AA47

National Pollutant Discharge Elimination System (NPDES) Electronic Reporting Rule

AGENCY: Environmental Protection Agency (EPA).

ACTION: Final rule.

SUMMARY: The Environmental Protection Agency (EPA) is publishing this final regulation that requires the electronic reporting and sharing of Clean Water Act National Pollutant Discharge Elimination System (NPDES) program information instead of the current paper-based reporting of this information. This action will save time and resources for permittees, states, tribes, territories, and the U.S. Government while increasing data accuracy, improving compliance, and supporting EPA's goal of providing better protection of the nation's waters. By modernizing this Clean Water Act reporting program, permittees and regulators will use existing, available information technology to electronically report information and data related to the NPDES permit program. This regulation will help provide greater clarity on who is and who is not in compliance and enhances transparency by providing a timelier, complete, more accurate, and nationally-consistent set of data about the NPDES program. By providing improved data in a more accessible form, this final rulemaking will improve the ability of EPA and authorized NPDES programs to target the most serious water quality and compliance problems. Furthermore, by reducing the time and resources devoted to outdated data management activities, the rule could allow authorized NPDES programs to shift limited resources to important water quality and public health protection activities. The transition from paper to electronic reporting will require close coordination and cooperation between EPA and authorized NPDES programs. This regulation provides important flexibility while still implementing electronic reporting in a timely and effective fashion.

DATES: The final rule is effective on December 21, 2015. The incorporation by reference of certain publications listed in this rule was approved by the Director of the Federal Register as of February 7, 2000. In accordance with 40 CFR part 23, this regulation shall be considered issued for purposes of judicial review at 1 p.m. Eastern time on November 5, 2015. The start dates for electronic reporting are provided in 40 CFR 127.16.

ADDRESSES: EPA has established a docket for this action under Docket ID No. EPA-HQ-OECA-2009-0274. All documents in the docket are listed on the www.regulations.gov Web site. Although listed in the index, some information is not publicly available, e.g., confidential business information or other information whose disclosure is restricted by statute. Certain other material, such as copyrighted material, is not placed on the Internet and will be publicly available only in hard copy form. Publicly available docket materials are available either electronically through www.regulations.gov or in hard copy at the EPA Docket Center, EPA West Building, Room 3334, 1301 Constitution Avenue NW., Washington, DC. The Public Reading Room is open from 8:30 a.m. to 4:30 p.m., Monday through Friday, excluding legal holidays. The telephone number for the Public Reading Room is (202) 566-1744. For additional information about EPA's public docket, please visit the EPA Docket Center homepage at http://www.epa.gov/dockets.

FOR FURTHER INFORMATION CONTACT: For additional information, please contact Messrs. John Dombrowski (202-566-0742) or Carey A. Johnston (202-566-1014), Office of Compliance (mail code 2222A), Environmental Protection Agency, 1200 Pennsylvania Avenue NW., Washington, DC 20460; email addresses: dombrowski.john@epa.gov or johnston.carey@epa.gov.

SUPPLEMENTARY INFORMATION:

How is this document organized?

The outline of this document follows the following format:

I. General Information

II. Legal Authority

III. Legislative and Regulatory Background

IV. Rulemaking History

V. Summary of Decisions in the Final Rule

VI. Economic Analysis

VII. Regulatory Implementation

VIII. Statutory and Executive Order Reviews

I. General Information

A. Executive Summary

1. Purpose of the Regulatory Action

The final rule substitutes electronic reporting for paper-based reports and, over the long term, saves time and resources for permittees, states, tribes, territories, and EPA, while improving compliance and better protecting the Nation's waters. The final rule requires permittees and regulators to use existing, available information technology to electronically report information and data related to the NPDES permit program in lieu of filing paper-based reports. Authorized NPDES programs may adopt EPA data systems or elect to use their own data systems to collect NPDES program information as the initial recipient. All authorized programs are required to electronically transmit the federally-required data (identified in appendix A to 40 CFR part 127) to EPA.

The purpose and need for this rule was highlighted in the development of the Clean Water Act Enforcement Action Plan (Plan). Announced by EPA Administrator Lisa Jackson in October 2009, the Plan was a collaborative effort by EPA and state environmental agencies to explore opportunities to improve water quality by emphasizing and adopting new approaches that will improve how the NPDES permitting and enforcement program is administered. The goals of the Plan include improving transparency of the information on compliance and enforcement activities in each state, connecting this information to local water quality, and providing the public with real-time, easy access to this information. The final NPDES Electronic Reporting Rule will make achievement of these goals possible by requiring electronic reporting of facility and operational data, as well as discharge monitoring, compliance, and enforcement data.

In addition to substituting electronic reporting for paper-based reports, the final rule requires authorized NPDES programs to share the minimum set of NPDES program data (appendix A to 40 CFR part 127) with EPA for all facilities including nonmajor facilities. Historically, EPA and authorized NPDES programs have focused on major facilities as a way of prioritizing resources for permitting, enforcement and data sharing. Over time, there has been a growing recognition that these nonmajor sources significantly impact water quality as well. Storm water discharges, concentrated animal feeding operations, mines, and raw sanitary sewage overflows could all be significant contributors to water quality impairment; however, they have not been treated as NPDES major facilities. The final rule is intended to improve data quality collected from major and nonmajor facilities, thereby providing the states, tribes, territories, and EPA with more complete and comparable data on all NPDES permittees. These data will improve the ability of existing state and federal programs to target the most serious water quality and compliance problems, thus supporting EPA's goal of protecting the nation's waters. A broader and more in-depth discussion of the purpose and need for this rulemaking is provided in Section III of the proposed rule (30 July 2013; 78 FR 46013).

2. Summary of the Key Provisions

This final rule requires NPDES regulated entities to electronically submit NPDES compliance monitoring reports and notices [e.g., Discharge Monitoring Reports (DMRs), Notices of Intent to discharge in compliance with a general permit, other general permit waivers, certifications, and notices of termination of coverage, and program reports] to their authorized NPDES program or to EPA through the National Environmental Information Exchange Network. Importantly, while the final rule changes the mode of transmission of these data (i.e., electronic rather than paper-based reporting), it does not change the information required from NPDES-permitted facilities under existing regulations and practices.

States, tribes, and territories that are authorized to implement the NPDES program are the sources of certain key information regarding the regulated facilities. For example, states have information from NPDES permit applications, which includes information concerning facility location, outfalls, effluent limits, and permit conditions, as well as information from their compliance monitoring activities, violation determinations, and enforcement actions. Under this final regulation, NPDES permitting authorities are required to share important components of this information electronically with EPA. The list of data elements that must be electronically collected, managed, and shared is provided in this final rule (appendix A to 40 CFR part 127). By “NPDES program,” this rule refers not only to the discharge permit program, but also the pretreatment program and the biosolids program, both of which are implemented in some ways without NPDES permits.

Separate from this rulemaking, EPA intends to make this more complete set of data available electronically to the public, to promote transparency and accountability by providing communities and citizens with easily accessible information on facility and government performance. This can serve to elevate the importance of compliance information and environmental performance within regulated entities, providing opportunity for them to quickly address any noncompliance. The ease of reviewing and assessing electronically submitted data will help provide greater clarity on who is and who is not in compliance. Currently, some noncompliance information is not easily reviewable by the authorized NPDES programs or accessible to EPA and these noncompliance events are sometimes not resolved in a timely manner. The result of this uneven response to noncompliance by regulators means that some facilities in noncompliance will not take immediate action, which gives them a financial edge over other facilities in states where there is a timelier response to noncompliance. This rule opens the opportunity for two-way communication between authorized NPDES programs or EPA and regulated facilities to immediately address data quality issues and to provide compliance assistance or take other action when potential problems are identified. Complete and accurate data also will allow comparison of performance across authorized NPDES programs as well as EPA's performance.

Key provisions of this final rule are identified in the implementation schedule in Section VII of the preamble. This includes the schedule of milestones for NPDES program data submission from states, tribes, and territories regarding their implementation activities, programs and permits as well as electronic NPDES program data submissions from regulated entities.

3. Costs and Benefits

To fully implement this final regulation, there will be initial investment costs associated with needed changes to information technology and infrastructure. For example, EPA has developed a data system called the [Integrated Compliance Information System for the National Pollutant Discharge Elimination System (ICIS-NPDES) and two NPDES electronic reporting systems to collect NPDES program data (NetDMR and NPDES eReporting Tool (NeT)]. While all authorized NPDES programs are welcome to use EPA's data systems, authorized NPDES programs also have the flexibility to develop their own data systems that meet the regulatory requirements of 40 CFR part 3 (including, in all cases, subpart D), 40 CFR 122.22, and 40 CFR part 127. EPA will continue to closely work with authorized NPDES programs to make EPA's systems available and assist the development of their data systems in a cost-effective manner.

The initial cost of implementing the final rule is $77.9 million in undiscounted dollars (see Table 4-11: Total Initial Implementation Costs of the Rule, DCN 0197). While most of these costs are incurred within the first year after the effective date of the rule, this estimate includes certain recurring activities that should cease once full implementation is achieved. Five years after rule promulgation, assuming all regulated facilities have converted to electronic reporting (other than 1 percent that are assumed to receive waivers from electronic reporting), the cost is estimated to be $20.3 million per year in undiscounted dollars (see Table 4-10: Annual Cost of Data Entry and Operations for the Updated System after Implementation, DCN 0197). However, one year after rule promulgation, annual savings greatly outweigh annual costs, by approximately $23.9 million per year [calculated by subtracting the projected costs in year one from the projected savings; see Table 4-16: Schedule of Savings and Costs (3% Discount Rate), DCN 0197]. Cumulative savings over a ten-year period (using a 3 percent discount rate) are $406 million while cumulative costs are $250 million. As a result the overall economic effect of this rule is a net cumulative savings of $156 million over the ten years of the projection.

The final rule will save money for states, tribes, and territories authorized to administer the NPDES program as well as EPA and most NPDES permittees, while resulting in a more complete, more accurate, and nationally-consistent set of data about the NPDES program. With full implementation (expected to be five years after the effective date of the final rule), the anticipated annual net savings are expected to be $22.6 million for NPDES programs, $0.5 million for regulated entities, and $1.2 million for EPA, assuming a 3% discount rate [calculated by subtracting the projected costs in year five from the projected savings in year five; see Table 4-16: Schedule of Savings and Costs (3% Discount Rate), DCN 0197]. The economic analysis supporting this rule provides a more detailed description of the costs and savings (see DCN 0197).

The electronic submittal of data will help support EPA's goal of protecting and restoring water quality and will result in significant cost savings for the authorized NPDES programs, as well as savings for the permittees and EPA, when the rule is fully implemented. The final rule will also reduce the reporting burden currently borne by the authorized NPDES programs, improve overall facility compliance, allow better allocation and use of limited program resources, and enhance transparency and public accountability by allowing EPA to provide the public with timely information on potential sources of water pollution.

The final rule will also lighten the reporting burden currently placed on the authorized NPDES programs. Upon successful implementation, the final rule would provide authorized NPDES programs with regulatory relief from reporting associated with the non-compliance reporting [see 40 CFR 123.45—(a) Quarterly Non-Compliance Report (QNCR), (b) Semi-Annual Statistical Summary Report, and (c) Annual Non-Compliance Report (ANCR)] and the biosolids report submitted to EPA annually by authorized NPDES programs with the Federal biosolids program (40 CFR 501.21).

4. Compliance Dates for Final Rule

The implementation schedule for the final rule is divided in two phases. Prior to the deadline for each phase, EPA will work with authorized NPDES programs to collect the necessary facility, permit, inspection, and enforcement action information that supports electronic reporting. For example, EPA will work with authorized NPDES programs which opt to use EPA's national NPDES data system (i.e., ICIS-NPDES) to ensure that the necessary facility and permit data are entered no later than nine months after the effective date of the final rule to allow for the electronic reporting of DMR data and Sewage Sludge/Biosolids Annual Program Report data, which are scheduled for the first phase. Likewise, EPA will also work with authorized NPDES programs to collect the necessary data to support electronic reporting for the second phase. Regulated entities must report electronically prior to this compliance schedule if required to do so in their permit or any other enforcement instrument issued by the relevant NPDES program. This rule reinforces existing electronic reporting efforts by authorized programs and regulated entities. The rule also grandfathers any existing requirements to report electronically.

The key compliance dates are set out below and set out in further details in Section VII and in the final rule (see 40 CFR 127.16).

• Phase 1 Data: Authorized NPDES programs must electronically transmit to EPA basic facility and permit information (see list of data elements in “ICIS Addendum to the Appendix of the 1985 Permit Compliance System Policy Statement,” 28 December 2007, DCN 0007, also known as Water Enforcement National Database or “WENDB”) for all permits as well as other data necessary for implementation of Phase 1 data collection within nine months after the effective date of the final rule. One year after the effective date of the final rule, authorized NPDES programs must start electronically transmitting to EPA their state performance data (subject to applicable waivers), which includes information generated from compliance monitoring (e.g., inspections), violation determinations, and enforcement actions. Additionally, one year after the effective date of the final rule, NPDES regulated entities that are required to submit DMRs (including majors and nonmajors, individually permitted facilities and facilities covered by general permits) must do so electronically. EPA and authorized NPDES programs will begin electronically receiving these DMRs from all DMR filers and start sharing these data with each other. One year after the effective date of the final rule, all NPDES regulated entities in states where EPA is the authorized NPDES biosolids program (currently 42 of 50 states and all other tribal lands and territories) must electronically submit their Sewage Sludge/Biosolids Annual Program Report to EPA.

• Phase 2 Data: Authorized NPDES programs have five years to begin electronically collecting, managing, and sharing the remaining set of information in appendix A in 40 CFR part 127. This information includes: General permit reports [e.g. Notice of Intent to be covered (NOI); Notice of Termination (NOT); No Exposure Certification (NOE); Low Erosivity Waiver and Other Waivers from Stormwater Controls (LEW)]; Sewage Sludge/Biosolids Annual Program Report (where the state is the authorized NPDES biosolids program); and all other remaining NPDES program reports (e.g., CAFO Annual Report, Pretreatment Program Annual Report). Authorized NPDES programs will also share with EPA all data necessary for implementation of Phase 2 data collection three months before the Phase 2 deadline as defined in the data element analysis for the final rule (see DCN 0200). Additionally, one year after the effective date of the final rule, authorized NPDES programs will submit an implementation plan (IP) for meeting the Phase 2 data requirements for EPA to review. EPA will inform the state if its IP is inadequate.

• NPDES Noncompliance Report (NNCR) and Other State Reporting: EPA will replace a number of currently required state reports (e.g., QNCR and ANCR) with the new NNCR when EPA has a timely, complete, more accurate, and nationally-consistent set of data about the NPDES program. Full implementation of the NNCR and phase out of certain state reports will only be possible one full year after full implementation of Phase 2 data collection (i.e., six years after the effective date of this rule). A complete set of Phase 1 and 2 data are necessary to develop and produce the NNCR.

As with any new regulation, some authorized NPDES programs may need to update their regulations or statutes to make clear that electronic reporting is required for the reports listed in Table 1 of appendix A and that these electronic submissions must be compliant with 40 CFR part 127 (including appendix A) and 40 CFR part 3 (including, in all cases, subpart D) [Cross-Media Electronic Reporting Regulation (CROMERR)—authentication and encryption standards]. Existing EPA regulations at 40 CFR 123.62(e) require that any updates to the authorized NPDES program take place within one year of the effective date of the final rule (if no state statute change is required) and within two years of the effective date of the final rule (if a state statute change is required). Accordingly, all authorized NPDES programs should complete any necessary updates to their state regulations within one year and statutes within two years of the effective date of the final rule.

B. Does this action apply to me?

Entities potentially affected by this action include all NPDES-permitted facilities, whether covered by an individual permit or general permit, industrial users located in cities without approved local pretreatment programs, and governmental entities that have received NPDES program authorization or are implementing portions of the NPDES program in a cooperative agreement with EPA. These entities include:

Category | Examples of regulated entities
NPDES-permitted facilities | Publicly-owned treatment works (POTW) facilities, treatment works treating domestic sewage (TWTDS), municipalities, counties, stormwater management districts, state-operated facilities, Federally-operated facilities, industrial facilities, construction sites, and concentrated animal feeding operations (CAFOs).
Facilities seeking coverage under NPDES general permits | Stormwater management districts, construction sites, CAFOs, POTWs, TWTDS, municipalities, counties, stormwater management districts, and state-operated facilities.
Industrial users located in cities without approved local pretreatment programs | Industrial facilities discharging to POTWs and for which the designated pretreatment Control Authority is EPA or the authorized state, tribe, or territory rather than an approved local pretreatment program.
State and territorial government | States and territories that have received NPDES program authorization from EPA, that are implementing portions of the NPDES program in a cooperative agreement with EPA, or that operate NPDES-permitted facilities.
Tribal government | Tribes that have received NPDES program authorization from EPA, that are implementing portions of the NPDES program in a cooperative agreement with EPA, or that operate NPDES-permitted facilities.
Federal government | Federal facilities with a NPDES permit and EPA Regional Offices acting for those states, tribes, and territories that do not have NPDES program authorization or that do not have program authorization for a particular NPDES subprogram (e.g., biosolids or pretreatment).

This table is not intended to be an exhaustive list, but rather provides some examples of the types of entities regulated by this action. Other types of entities not listed in this table may also be regulated.

II. Legal Authority

Pursuant to the Clean Water Act (CWA), 33 U.S.C. 1251 et seq., the U.S. Environmental Protection Agency (EPA) is promulgating the National Pollutant Discharge Elimination System (NPDES) Electronic Reporting Rule, which adds a new part to title 40 (40 CFR part 127) as well as making changes to existing regulations. The U.S. Environmental Protection Agency is promulgating the NPDES Electronic Reporting Rule under authority of the CWA sections 101(f), 304(i), 308, 402, and 501. EPA notes that the Congressional Declaration of Goals and Policy of the CWA specifies in section 101(f) that “It is the national policy that to the maximum extent possible the procedures utilized for implementing this chapter shall encourage the drastic minimization of paperwork and interagency decision procedures, and the best use of available manpower and funds, so as to prevent needless duplication and unnecessary delays at all levels of government.”

Harnessing information technology that is now a common part of daily life is an important step toward reaching the goals of the CWA. EPA is promulgating this rule under the authority of CWA section 304(i) that authorizes EPA to establish minimum procedural and other elements of state programs under section 402, including reporting requirements and procedures to make information available to the public. In addition, EPA is promulgating this rule under section 308 of the CWA. Section 308 of the CWA authorizes EPA to require access to information necessary to carry out the objectives of the Act, including sections 301, 305, 306, 307, 311, 402, 404, 405, and 504. Section 402 of the CWA establishes the NPDES permit program for the control of the discharge of pollutants into the nation's waters. EPA is promulgating this rule under CWA sections 402(b) and (c), which require each authorized state, tribe, or territory to ensure that permits meet certain substantive requirements, and provide EPA information from point sources, industrial users, and authorized programs in order to ensure proper oversight. Finally, EPA is promulgating this rule under the authority of section 501, which authorizes EPA to prescribe such regulations as are necessary to carry out provisions of the Act.

Under section 509(b)(1) of the CWA, judicial review of this regulation can be had only by filing a petition for review in the U.S. Court of Appeals within 120 days after the regulation is considered issued for purposes of judicial review. Under section 509(b)(2), the requirements in this regulation may not be challenged later in civil or criminal proceedings brought by EPA to enforce these requirements.

III. Legislative and Regulatory Background

A. The Clean Water Act

The 1948 Federal Water Pollution Control Act and subsequent amendments are now commonly referred to as the Clean Water Act (CWA). The CWA establishes a comprehensive program for protecting and restoring our nation's waters. The CWA established the NPDES permit program to authorize and control the discharges of pollutants to waters of the United States [CWA section 402]. This final rule, which is intended to reduce resource burdens associated with the paper-based system and increase the timeliness, accuracy, completeness, and usefulness of the information received by EPA, the states, tribes, territories, and the public, echoes the goals of CWA section 101(f).

Implementation of information technology that is now a common part of daily life is an important step toward reaching the goals of the CWA. EPA is promulgating this rule under the authority of CWA section 304(i) that authorizes EPA to establish minimum procedural and other elements of state programs under section 402, including reporting requirements and procedures to make information available to the public. In addition, EPA is promulgating this rule under the authority of section 308 of the CWA. Section 308 of the CWA authorizes EPA to require information to carry out the objectives of the Act, including sections 301, 305, 306, 307, 311, 402, 404, 405, and 504. Section 402 of the CWA establishes the NPDES permit program for the control of the discharge of pollutants into the nation's waters. EPA is promulgating this rule under CWA sections 402(b) and (c), which require each authorized state, tribe, or territory to ensure that permits meet certain substantive requirements, and provide EPA information from point sources, industrial users, and the authorized program in order to ensure proper oversight. Finally, EPA is promulgating this rule under the authority of section 501 of the Act, authorizing EPA to prescribe such regulations as are necessary to carry out provisions of the Act.

B. National Pollutant Discharge Elimination System

As authorized by the CWA, the NPDES permit program protects the nation's waters by controlling the discharge of pollutants into waters of the United States. Such discharges are illegal unless authorized by an NPDES permit. The NPDES permit program requires all point source discharges of pollutants (other than dredged or fill material regulated under Section 404 of the CWA) to waters of the United States to have a permit, the term of which may not exceed five years. The term “NPDES-regulated facilities,” as used in this rule, refers broadly to entities regulated under the Clean Water Act, including permittees under CWA section 402 along with the biosolids program, indirect dischargers, and non-discharging entities with permits. NPDES permits may be issued by EPA or by a state, tribe, or territory authorized by EPA to implement the NPDES program. As of May 1, 2015, EPA has authorized 46 states and the Virgin Islands to implement the base NPDES program as well as the general permits program; as of that same date, no tribe was currently authorized to implement the NPDES program. There are several subprograms of the NPDES program that states, tribes, and territories may also receive authorization from EPA to administer, including the pretreatment and the biosolids programs. As of May 1, 2015, 36 states are authorized to implement the pretreatment program and eight states are authorized to implement the biosolids program as part of the NPDES program.

Authorization to discharge may be provided under an individual NPDES permit, which is developed after a process initiated by the facility's submission of a permit application (40 CFR 122.21), or under a general NPDES permit (for example, most oil and gas extraction facilities and most construction sites operate under NPDES general permits). See 40 CFR 122.28(a)(2). Authorization to discharge under a general NPDES permit typically occurs following the submission of an NOI by the facility seeking authorization to discharge under the permit [40 CFR 122.28(b)(2)] and approval of that NOI by the permitting authority. Submission of an NOI is not required for specified types of discharges under certain circumstances [40 CFR 122.28(b)(2)(v)]. Most NPDES-permitted sources are regulated under general permits.

EPA has developed criteria to determine which sources should be considered “major” facilities (see DCN 0195). The distinction was made initially to assist EPA, states, tribes, and territories in setting priorities for permitting, compliance, and enforcement activities. Historically, EPA has placed greater priority on major facilities and has required NPDES-authorized states, tribes, and territories to provide more information about these dischargers. EPA's previous regulations establish annual, semi-annual, and quarterly reporting requirements, which mostly focused on major facilities. These previous reporting requirements provided violation information and facilitated EPA's assessment of the effectiveness of authorized programs and EPA regional program activities (e.g., permitting, compliance monitoring, and enforcement). This information has guided EPA in the management and oversight of program activities. More background information regarding the NPDES program is in the docket supporting this rulemaking (see DCN 0005).

C. Evolution of the NPDES Program and Data Sharing

In order to support development of appropriate permit limits and conditions, issuance of effective permits, compliance monitoring, and appropriate enforcement actions, EPA has developed requirements along with policies, guidance, and expectations to track, measure, evaluate, and report on these efforts on a nationwide basis. Over the past 30 years, these efforts to establish significant pollutant controls focused primarily on major facilities and resulted in important pollutant discharge reductions from traditional major sources.

Although major municipal and industrial point sources continue to be significant sources of pollution, permitting experience with more diffuse sources shows that these point sources also contribute significant amounts of pollutants to our nation's waters. About 40,000 nonmajor facilities have individual permits which have requirements similar to the permits for major facilities (e.g., requirements to submit DMRs) (source: ICIS-NPDES). As the understanding of water quality issues has evolved, the universe of regulated nonmajor sources has also expanded. In order to efficiently manage the growing universe of regulated facilities, sources that are sufficiently similar are often regulated under general permits rather than individual permits. In many cases, nonmajor facilities use pollutant control measures based on best management practices in operational activities rather than on implementation of pollutant control technologies, which are measured with numeric effluent limits on pollutant discharges and reported on DMRs. Several hundred thousand nonmajor facilities are covered by NPDES general permits; therefore, the number of nonmajor dischargers covered by general permits is very large compared to the number of major or nonmajor dischargers covered by individual permits. The universe of nonmajor dischargers also includes some large volume dischargers (e.g., MS4s) that had not previously been regulated with the same types of individual permits used to regulate discharges from major facilities.

The most recent state water quality assessment reports submitted under CWA section 305(b) and compiled by EPA in the National Water Quality Inventory Reports indicate the growing significance and link between nonmajor sources and impairments in water quality of U.S. waters, particularly from precipitation-induced or “wet weather” point sources of pollutants.¹ These sources include discharges of stormwater associated with construction, concentrated animal feeding operations (CAFOs), overflows from combined sewer systems (CSSs) and sanitary sewer systems (SSSs), and urban stormwater pollution from Municipal Separate Storm Sewer Systems (MS4s). Stormwater discharges include a variety of pollutants, such as sediment, oil and grease, chemicals, nutrients, metals, and pathogens. Discharges from CAFOs often include bacteria, nutrients, organic matter, pathogens, and trace metals. Overflows from combined and separate sanitary sewer systems pose a significant threat to public health and the environment due to high concentrations of bacteria from fecal contamination, as well as disease-causing pathogens. Common pollutants discharged from MS4s include oil and grease from roadways, pesticides from lawns, sediment from construction sites, and carelessly discarded trash, such as cigarette butts, paper wrappers, and plastic bottles. The pollution controls for wet-weather sources are often best management practices (BMPs) rather than traditional end-of-pipe controls. These wet-weather sources are high priorities for EPA and authorized NPDES programs and have been for almost over two decades.

¹ The link provides access to the 2004 Water Quality Report to Congress, which was the last hard-copy version of this report. Since 2004 these data are made available directly via the ATTAINS database (link provided at above site). The ATTAINS database provides state information showing the water quality impairments and the likely causes of impairments. In particular, “Urban-Related Runoff/Stormwater” ranks high among the list of impairment causes. See: http://ofmpub.epa.gov/waters10/attains_nation_cy.control.

In the past, states, tribes, and territories generally did not consistently share information with EPA on most wet-weather sources. Therefore, EPA and the public do not have complete information on these pollution sources. Electronic reporting from all NPDES permittees will efficiently provide these data and will assist EPA and authorized NPDES programs in focusing their limited resources on the most significant water pollution sources and violations, whether from major or nonmajor facilities.

Transitioning to electronic reporting and data sharing will bring the NPDES program into the 21st century. Tracking data electronically is less expensive, more efficient, more accurate, and better able to support program management decisions than paper tracking (see July 30, 2013; 78 FR 46015-17, DCN 0015). In particular, Congress and the public expect environmental program managers at every level of government—local, state, tribal, territorial, and federal—to design and implement programs that deliver environmental and public health results. To target the most important pollution problems, better ensure environmental protection and public health, and enable more integrated program assessment and planning at the national level, the data that are electronically collected, managed, and shared between authorized NPDES programs and EPA should have the following characteristics:

I. The data should be current. Recent data are more likely to be representative of current conditions. Although historical data may be useful in identifying trends and patterns, outdated data are not as reliable for drawing conclusions as to the current level of discharge, the compliance status at permitted facilities, or for making plans for improvements.

II. The data should generally be comparable in format, reporting units, frequency, etc. In order to aggregate and compare data across the states, tribes, and territories for national program planning and reporting purposes, it is important that the data from the individual states, tribes, and territories be reported in a similar format (e.g., reporting units are the same and the metrics being measured are defined identically) and with the same minimum frequency. For example, for EPA to assess the volume of waste discharged by POTWs nationally, those providing the data would need to consistently provide data to EPA, share the same definition of POTWs, the same definition of volume (per day, per week, per month) and express the measure in the same units (gallons, million gallons, cubic feet, liters, etc.). However, authorized NPDES programs can certainly institute more stringent reporting requirements than EPA (if shared data remain nationally consistent).

III. The data should be accurate and complete. Incomplete, inaccurate data can lead to wrong conclusions. For example, the significant noncompliance rate for major facilities is a key indicator of the effectiveness of the NPDES compliance and enforcement program. This rate is derived in large part from effluent data self-reported in DMRs to EPA, the states, tribes, and territories by major facilities. These data are then entered into or provided to ICIS-NPDES by the states, tribes, territories, or EPA. Incomplete compliance data in ICIS-NPDES prevent EPA from adequately assessing industry, state, and national noncompliance rates and identifying any potential corrective actions. Consequently, program planning and authorized program evaluation resulting from such incomplete data can be unreliable.

Similarly, incomplete data may result in inaccurate conclusions as to noncompliance rates for nonmajor permittees. EPA found through the Annual Noncompliance Report (ANCR) (see DCN 0016) ² for NPDES Nonmajor Permittees that the reported noncompliance rate for serious violations is much higher for those authorized NPDES programs with detailed compliance data in EPA's national data systems than it is for authorized NPDES programs that only provide summary data. These findings suggest that instances of noncompliance may be higher than reported by states, tribes, and territories that do not routinely provide facility-specific compliance data to EPA's national data systems. The final rule will ensure that DMR information from facilities and ANCR data from authorized NPDES programs would be received electronically, allowing the data system to identify violations and thereby reducing the burden on states, tribes, territories, and EPA to independently identify effluent violations.

² 2008 ANCR, available at http://www.epa-echo.gov/echo/ancr/us/docs/ancr_report_2008.pdf.

IV. The data should be nationally consistent. EPA needs nationally consistent data to make program evaluation and subsequent planning transparent and replicable. The basis for EPA's planning and conclusions about the status of program implementation needs to be readily available to those affected, including the regulated community, the general public, Congress, federal, state, tribal, and territorial agencies. For example, the data that EPA needs to evaluate the performance of an authorized program should be readily available to EPA (and readily available from EPA to the state, tribe, or territory) and the state, tribe, or territory should be able to easily duplicate EPA's analysis.

These factors demonstrate the need for a shared definition and central management of the information necessary to manage the NPDES program, ready access to that information by states, tribes, territories, and EPA, and assurance that the data across the authorized NPDES programs are complete, more accurate, and timely reported. The final rule provides parameters for the shared data, ensures the accessibility of that information, and provides the basis for ensuring that the data are nationally consistent, complete, more accurate, and timely.

D. EPA's Next Generation Compliance Strategy

EPA's Next Generation Compliance is an integrated strategy to improve regulations and permits with new monitoring and information technology and expanded transparency.³ It is designed to motivate the regulated community to increase compliance, inform the public about performance, and help ensure the public has access to information about their communities that allows them to more fully engage in environmental protection efforts.

³ See http://www2.epa.gov/compliance/next-generation-compliance.

In addition to converting reporting from a paper to electronic format, the electronic system guides the user through the reporting process with integrated compliance assistance and data quality checks. From a compliance perspective, electronic reporting will allow regulated entities, governmental agencies, and the public to more quickly identify violations, and then more quickly address them.

Electronic reporting is a key component of the Next Generation Compliance Strategy (see DCN 0192). This strategy and rulemaking record shows that the shift from paper reporting toward electronic reporting is easier, more efficient, and costs less for the facility and for regulatory agencies. Electronic systems are used in the modern era for almost every kind of transaction. For the user, these systems offer speed, convenience, expanded information choices and filing capabilities. For government, they offer the ability to increase transparency and an opportunity to improve the ability to spot pollution and compliance issues and respond quickly to emerging problems. Under EPA policy, electronic reporting is now the default assumption for new regulations (see DCN 0193).

IV. Rulemaking History

A. Proposed Rule

Since 2002, EPA and the authorized NPDES programs have worked together to update the information and data that states, tribes, territories, and EPA need to successfully implement, manage, and oversee the NPDES program. Various iterations of critical data elements were discussed by the state and EPA members of the Permit Compliance System (PCS) Steering Committee, the PCS Modernization Executive Council, and the Expanded PCS Steering Committee, which added representatives from the Environmental Council of the States (ECOS) and the Association of Clean Water Administrators (ACWA).⁴ Those efforts led to the April 2007 issuance by EPA of a draft ICIS-NPDES Policy Statement that included the list of NPDES data elements that states, tribes, and territories would report to EPA (see DCN 0056).

⁴ Formerly known for 50 years as the Association of State and Interstate Water Pollution Control Agencies (ASIWPCA).

After receiving numerous comments on the draft ICIS-NPDES Policy Statement from the states, EPA began to develop a federal regulation that would require electronic reporting of specific NPDES information from the regulated permittees, states, tribes, and territories (see DCN 0215 and 0216). In 2010, EPA initiated an effort to carefully review the data needs and uses, identify the types of information and specific data elements that would allow EPA to meet those needs and uses, and evaluate whether some information should be sought directly from NPDES-regulated facilities or from states, tribes, and territories. This was done with full acknowledgement that for certain activities (such as permit issuance, inspections, compliance determinations, and issuance of enforcement actions), the states, tribes, and territories are the unique source of the identified NPDES information. During the summer of 2010, EPA conducted a series of concurrent technical analyses of various data types and facility types, which examined the feasibility of electronic reporting, various regulatory options, the existing regulatory data and reporting requirements, key considerations, and preliminary information regarding costs and benefits (see DCN 0018, 0019, 0020, 0021, 0022). After significant deliberations and consultations with states, EPA published the proposed rule on 30 July 2013 (78 FR 46006) and opened a 135 day public comment period.

EPA received 170 public comments on the proposed rule from a variety of stakeholder groups. The comments were generally supportive of electronic reporting as modern and efficient, but raised issues regarding aspects of the proposed implementation and operation of the rule. Table 1 provides an overview of the public comments EPA received during the proposed rule comment period. The largest number of public comments (by pages) came from state government agencies with industrial stakeholders contributing most of the remaining comments. Many of the industrial comments came from the agricultural sector.

Table 1—Number of Proposal Public Comments
Commenter type | Number of submissions | Number of comment pages
Anonymous or Individual Person | 32 | 44
Environmental Advocacy Organization | 3 | 22
Government (Local) | 28 | 114
Government (State) | 39 | 308
Government (Federal) | 2 | 5
Industry (Misc.) | 39 | 188
Industry (Agriculture) | 25 | 163
Industry (Software Vendors) | 2 | 6
Total | 170 | 850

EPA considered all of these comment submissions and identified the key issues raised by commenters. EPA has responded to these comments in the comment response document supporting this rulemaking (see DCN 0218).

B. Supplemental Notice of Proposed Rulemaking (SNPR)

On 1 December 2014, EPA published a supplemental notice to the 2013 proposed NPDES Electronic Reporting Rule and opened a 60-day public comment period (79 FR 71066). EPA used this document to identify many of the issues raised by commenters during the public comment period for the proposed rule, clarify misunderstandings about the proposal, and discuss possibilities for how EPA might modify the rule to address issues raised by stakeholders.

EPA received 58 public comments on the supplemental notice to the proposed rule from a variety of stakeholder groups. The comments were again generally supportive of electronic reporting as modern and efficient and provided meaningful comments on alternative means for implementing the final rule. Table 2 provides an overview of the public comments EPA received during the SNPR comment period. As with the proposed rule, the largest number of public comments (by pages) came from state government agencies.

Table 2—Number of Supplemental Notice of Proposed Rulemaking Public Comments
Commenter type | Number of submissions | Number of comment pages
Anonymous or Individual Person | 1 | 1
Environmental Advocacy Organization | 2 | 9
Government (Local) | 4 | 12
Government (State) | 28 | 179
Government (Federal) | 1 | 6
Industry (Misc.) | 17 | 75
Industry (Agriculture) | 4 | 19
Industry (Software Vendors) | 1 | 4
Total | 58 | 305

EPA considered all of these comment submissions and has responded to these comments in the comment response document supporting this rulemaking (see DCN 0218).

C. Outreach

Section VI of the proposed rule details EPA's extensive outreach efforts prior to the proposed rule. EPA continued this outreach during the public comment period on the proposed rule (DCN 0111). In particular, EPA held over 30 webinars and meetings with over 1,200 people to discuss the proposed rule. In addition to two public comment periods, EPA has conducted additional stakeholder meetings to further discuss and refine particular aspects of the rule prior to promulgation.

Many states expressed concerns with the proposed rule. EPA held teleconferences with authorized NPDES programs to obtain their individual views on various aspects of the proposed rule. EPA met with over twenty five states, ECOS, ACWA, and New England Interstate Water Pollution Control Commission to take into account their individual comments and concerns about the rule (see DCN 0128 to 0142, 0181, 0219 to 0229). Additionally, EPA separately contacted each authorized NPDES program to individually assess its readiness for these new electronic reporting requirements. This extensive outreach helped inform the implementation process of the final rule and the additional flexibilities that authorized states, tribes, and territories need for a measured and orderly conversion from paper to electronic reporting. As noted elsewhere in this preamble, EPA has extended the time for full implementation of this final rule from two years to five years. EPA has also provided authorized NPDES programs with more flexibility in how they administer electronic reporting waivers. EPA will continue its outreach to NPDES regulated entities and authorized NPDES programs during the implementation of this final rule.

V. Summary of Decisions in the Final Rule

This section identifies the regulatory changes made by this final rule and the significant decisions made by EPA in response to public comments. EPA has responded to all public comments in the comment response document supporting this rulemaking (see DCN 0218).

A. Overview of Existing Regulations Modified by the Final Rule

EPA is amending the following NPDES regulations to require electronic reporting by NPDES-regulated facilities, to require electronic reporting of NPDES information by the states, tribes, and territories to EPA, and to eliminate some existing reporting requirements, particularly those for states, tribes, and territories. In addition to the creation of a new 40 CFR part 127, the final rule adds or modifies the following existing regulations:

• 40 CFR 122.22. Signatories to permit applications and reports;

• 40 CFR 122.26(b)(15), (c)(1)(ii), and (g)(1)(iii). Stormwater discharges (applicable to State NPDES programs, see 40 CFR 123.25);

• 40 CFR 122.28(b)(2). General Permits (applicable to State NPDES programs, see 40 CFR 123.25);

• 40 CFR 122.34(g)(3). Reporting [as related to small Municipal Separate Storm Sewer Systems (MS4s)];

• 40 CFR 122.41(l)(4)(i). Monitoring reports [Discharge Monitoring Reports];

• 40 CFR 122.41(l)(6). Twenty-four hour reporting [Noncompliance which may endanger health or the environment];

• 40 CFR 122.41(l)(7). Other noncompliance;

• 40 CFR 122.41(l)(9). Identification of the Initial Recipient for the Electronic Reporting of NPDES Program Data [a new standard condition added by this final rule];

• 40 CFR 122.41(m)(3). Notice [as related to Bypass sewer overflows];

• 40 CFR 122.42(c). Municipal separate storm sewer systems [as related to medium or large MS4s];

• 40 CFR 122.42(e)(4). Annual reporting requirements for CAFOs;

• 40 CFR 122.43. Establishing permit conditions (applicable to State NPDES programs, see 40 CFR 123.25);

• 40 CFR 122.44(i). Monitoring requirements;

• 40 CFR 122.48(c). Requirements for recording and reporting of monitoring results (applicable to State NPDES programs, see 40 CFR 123.25);

• 40 CFR 122.63(f). Minor modifications of permits [a new option that explicitly states that NPDES programs may use the minor modification process to incorporate electronic reporting into NPDES permits];

• 40 CFR 122.64(c). Termination of permits (applicable to State NPDES programs, see 40 CFR 123.25);

• 40 CFR 123.22. Program description;

• 40 CFR 123.24(b)(3). Memorandum of Agreement with the Regional Administrator;

• 40 CFR 123.25(a). Requirements for permitting;

• 40 CFR 123.26. Requirements for compliance evaluation programs;

• 40 CFR 123.41(a). Sharing of information;

• 40 CFR 123.43(d). State data transmission of information from states to EPA;

• 40 CFR 123.45. Noncompliance and program reporting by the Director; [this replaces several state reports of noncompliance with the NNCR];

• 40 CFR 403.10(f). State Pretreatment Program requirements;

• 40 CFR 403.12(e). Periodic reports on continued compliance [Pretreatment program reports for Categorical Industrial Users];

• 40 CFR 403.12(h). Reporting requirements for Industrial Users not subject to categorical Pretreatment Standards [Pretreatment program reports for Significant Industrial Users not subject to EPA categorical pretreatment standards];

• 40 CFR 403.12(i). Annual POTW reports [Pretreatment program report];

• 40 CFR 501.21. Program Reporting to EPA (State Sludge Management Program) [the final rule eliminates the state annual biosolids report to EPA];

• 40 CFR 503.18. Reporting [Sewage Sludge/Biosolids Annual Program Report for land application];

• 40 CFR 503.28. Reporting [Sewage Sludge/Biosolids Annual Program Report for surface disposal]; and

• 40 CFR 503.48. Reporting [Sewage Sludge/Biosolids Annual Program Report for incineration].

EPA has grouped the existing NPDES reporting requirements into “NPDES Data Groups,” which are defined and listed in 40 CFR 127.2(c) and in Table 1 to appendix A of 40 CFR part 127. As defined in 40 CFR 127.2(c), the term “NPDES data group” means the group of related data elements identified in Table 1 in appendix A to 40 CFR part 127. These NPDES data groups have similar regulatory reporting requirements and have similar data sources. The final rule uses the NPDES Data Groups to identify the minimum set of data elements for each type of NPDES reporting (e.g., DMRs, NOIs, program reports) and to help permittees and regulated entities identify the initial recipient, as defined below in Section B.1, of electronic NPDES data submissions.

B. Implementation

1. Initial Recipient Status

Under the final rule, NPDES-regulated entities are required to submit NPDES program data to the designated initial recipient, as defined in 40 CFR 127.2(b). For this rule, the term “initial recipient” means the governmental entity, either the state or EPA, who first receives the NPDES program data listed in appendix A to 40 CFR part 127. The initial recipient designation is made separately for each state and by each NPDES data group, which is defined in 40 CFR 127.2(c). EPA is using the initial recipient term to help NPDES regulated entities properly identify the recipient for their electronic NPDES program data submissions. The initial recipient provision will also help ensure that authorized NPDES programs and EPA are properly sharing these NPDES program data with each other. EPA is required by the rule to maintain the initial recipient list for each state and by each NPDES data group and publish this list on its Web site and in the Federal Register. Identification of the initial recipient for each NPDES data group is included as a new NPDES permit standard condition as is the URL to the above Web site [see 40 CFR 122.41(l)(9)]. EPA will work with authorized NPDES programs that would like more flexibility with the initial recipient designation (e.g., a state may want to be designated for NOIs for CAFOs but not MS4s).

As necessary, the initial recipient designation can switch back and forth between the authorized state, tribe, or territory NPDES programs and EPA. EPA's goal is to help all authorized NPDES programs be the initial recipient for any data group (e.g., DMRs) for which they would like to first receive the data.

• As of the effective date of the final rule, the Initial Recipient determination is an `opt-out' process for authorized state, tribe, or territory NPDES programs. Per § 127.27(a), an authorized NPDES program must notify EPA within 120 days of the effective date of the final rule if it wishes EPA to be the Initial Recipient for a particular NPDES data group. If EPA receives no such notification, EPA will designate the authorized state, tribe, or territorial NPDES program as the Initial Recipient for all NPDES data groups.

• An authorized NPDES program can initially elect for EPA to be the initial recipient and then, at a later date, seek EPA approval to change the initial recipient status for one or all of the NPDES data groups from EPA to the authorized state, tribe, or territory. To make this switch, the authorized state, tribe, or territory must send a request to EPA. This request shall identify the specific NPDES data groups for which the state, tribe, or territory would like to be the initial recipient of electronic NPDES information, include a description of how its data system will be compliant with 40 CFR part 3 (including, in all cases, subpart D) and 40 CFR part 127, and the date or dates when the state, tribe, or territory will be ready to start receiving this information. Section 127.27 outlines the process for requesting the designation of initial recipient. After EPA approval of the request, EPA will update the initial recipient list and will publish the revised initial recipient listing on its Web site and in the Federal Register.

• An authorized NPDES program can initially elect to be the Initial Recipient for one or all of the NPDES data groups and then at a later date request that EPA become the initial recipient for one or all of the NPDES data groups. To make this switch the authorized state, tribe, or territory will send a request to EPA. After coordination with the state, EPA will update the initial recipient list and will publish the revised initial recipient listing on its Web site and in the Federal Register [see § 127.27(a)].

• There is also a process in § 127.27(d) for ensuring that authorized NPDES programs share the minimum set of NPDES program data with EPA (see Appendix A to 40 CFR part 127). This process will switch the initial recipient status from the authorized state, tribe, or territory to EPA if the authorized NPDES program is not sharing the minimum set of NPDES program data with EPA. As noted in the proposed § 127.27(d)(4), EPA will work with the Director of the authorized NPDES program to remediate all issues identified by EPA that prevent the authorized NPDES program from being the initial recipient. When all issues identified by EPA are determined by EPA to be satisfactorily resolved, EPA is required to update the initial recipient listing in § 127.27(c) in order to list the authorized state, tribe, or territory as the initial recipient.

An authorized NPDES program will continue to retain its responsibilities to facilitate electronic reporting even if it elects for EPA be the Initial Recipient for a particular NPDES data group. For example, an authorized NPDES program will still be expected to continue to provide support to NPDES regulated entities to facilitate electronic reporting (e.g., provide registration support, electronic reporting system training and user support) even when the authorized NPDES programs elects for EPA to be the initial recipient. EPA will assist authorized NPDES programs by providing training and support to authorized NPDES programs so that they can fully understand and use EPA's electronic reporting systems and thereby provide effective support to NPDES regulated entities.

It is important to note the interaction between the CROMERR requirements and the Initial Recipient requirements in the final rule.⁵ For example, if the initial recipient status for a particular state for a particular data group switches from the state to EPA, then the NPDES-regulated entities in that data group in that state would need to ensure they register with the appropriate CROMERR-compliant system. In this example, NPDES-regulated entities will switch from using the state electronic reporting systems to EPA's electronic reporting systems (e.g., NetDMR, NeT). This means that these regulated entities will need to register and obtain the necessary signing credentials for EPA's electronic reporting systems. Similarly, if the initial recipient status for a particular state for a particular data group switches from EPA to the state, then those NPDES-regulated entities in that data group in that state would switch from using an EPA electronic reporting system to a state electronic reporting system. Under this scenario, regulated entities will need to register and obtain the necessary signing credentials for the authorized NPDES program's electronic reporting systems. However, if a state is using EPA's electronic reporting systems, the regulated entities would not need to register again.

⁵ EPA seeks to ensure that electronic reporting has at least the same level of legal defensibility and dependability as information that EPA would obtain through hard-copy paper submission. The Cross-Media Electronic Reporting Regulation (CROMERR), promulgated October 13, 2005, provides the legal framework for electronic reporting requirements established under all EPA environmental regulations (40 CFR part 3). See the proposed rule for more background detail on CROMERR (30 July 2013; 78 FR 46035).

2. Implementation Plan Schedule

EPA initially proposed two phases for the implementation of electronic reporting with the first phase starting one year after the effective date of the final rule and a second phase starting two years after the effective date of the final rule. EPA proposed full implementation of electronic reporting within two years after the effective date of the final rule. Many authorized NPDES programs indicated that they would likely not be able to implement electronic reporting for all data within two years of the effective date of the final rule. One commenter suggested that EPA consider working with authorized NPDES programs to develop individual state plans with a schedule for implementation based on state readiness and resources to implement electronic reporting. Other commenters suggested extending the IP beyond two years. After significant consultation with authorized NPDES programs EPA is adopting the implementation schedule described in Section VII.A.

EPA is providing additional time (five years from the effective date of the final rule) for authorized NPDES programs to switch their processing of Phase 2 NPDES program data (e.g., general permit reports, program reports) from paper to electronic format in this final rule. This additional implementation time for Phase 2 data collection, management, and sharing will help authorized NPDES programs build or adopt electronic reporting systems for Phase 2 data as well as register and train NPDES regulated entities. EPA is keeping the proposed one-year schedule for the DMR data flow to be switched from paper to electronic format since nearly all authorized NPDES programs and many tens of thousands of NPDES permittees are already using NetDMR and other electronic Discharge Monitoring Report (eDMR) systems. The proposed rule also had the Federal general permit reports (NOIs, NOTs, LEWs, NOEs) included in Phase 1 implementation. These permits are now included in Phase 2 of the final rule so that the implementation is consistent for all general permits. EPA will incorporate the requirements of this final rule into re-issued general permits so that EPA can expedite electronic reporting as soon as possible.

In accordance with the final rule [40 CFR 127.26(h)], authorized NPDES programs will also need to submit an IP to EPA for EPA's review. The content of these plans must provide enough detail (e.g., key tasks and end dates) to ensure successful implementation of electronic reporting for Phase 2 data. These plans must include key tasks and the related end dates necessary for implementing this final rule, such as: (1) Describing key tasks for electronically collecting all Phase 2 data from NPDES-regulated facilities (e.g., developing and deploying electronic reporting systems and applications); (2) describing key tasks for updating state NPDES data systems to manage and share Phase 2 data with EPA's ICIS-NPDES (e.g., adding new data elements to state NPDES data systems, updating the state's electronic data transmission capabilities, which includes incorporating new data schemas and Environmental Information Exchange Network node plug-ins); (3) CROMERR compliance status for electronic reporting systems (e.g., approval dates or anticipated approval end dates for each NPDES data group); (4) schedule end dates for updating state statutes, regulations, and NPDES permits; (5) summary of outreach and training necessary to alert and educate NPDES regulated entities on how to utilize electronic reporting systems; (6) alternative options for converting to electronic reporting (e.g., utilization of EPA services and systems like NetDMR or NeT) if the state continually misses its own scheduled milestones end dates; and (7) temporary and permanent waiver approval processes. EPA will provide authorized NPDES programs with additional guidance on the content of these plans after promulgation of the final rule. EPA will inform the state if its implementation plan is inadequate.

These plans should be sent to EPA within one year of the effective date of the final rule. EPA will review each IP and work with the corresponding authorized NPDES program to identify potential weaknesses and suggest potential revisions. EPA will finish its review of all IPs and inform the authorized NPDES program if its implementation plan is inadequate no later than six months after receipt. EPA plans to post these IPs on its Web site to provide the public with greater transparency on the milestones and tasks each state will be taking to move towards electronic reporting.

3. Ensuring Compliance With the Implementation Schedule

As noted in Section V.B.2, EPA is phasing in the electronic reporting requirements of this final rule over five years. In accordance with the schedule, and as a means to “fill in the gaps” where NPDES-regulated entities are not yet reporting electronically, EPA will use its authority, as appropriate, to issue targeted individual notices requiring NPDES-regulated entities to electronically report their NPDES program data (appendix A to 40 CFR part 127). EPA initially proposed to have these data come directly to EPA. Authorized NPDES programs suggested that instead EPA should require NPDES regulated entities to use state, tribe, or territorial electronic reporting systems that are in compliance with the final rule, as this would be more efficient. In this final rule, EPA is adopting the approach recommended by authorized NPDES programs and will use its existing authority under the CWA along with current technology and an Information Collection Request (ICR) to require NPDES-regulated entities to report electronically. EPA is using its authority under CWA sections 101, 304(i), 308, 402(b), and 501 to require NPDES-regulated entities to electronically report NPDES program data. Section 308 of the CWA authorizes EPA to require access to information necessary to carry out the objectives of the Act, including Section 402, which establishes the NPDES program. EPA provided examples in the SNPR regarding when it would use this authority to send notices to NPDES regulated entities to start electronic reporting (1 December 2014; 79 FR 71070).

EPA also notes that authorized NPDES programs can use their enforcement discretion to refrain from enforcing conditions in the permit or other control mechanisms that explicitly require paper reporting as long as the regulated entity successfully reports its data electronically using the appropriate CROMERR-approved electronic reporting system. This would enable EPA and authorized states, tribes, and territories to realize the benefits of electronic reporting without requiring double reporting from regulated entities and coordinating two separate submissions. The following are the main methods by which electronic reporting requirements will most likely be implemented by authorized NPDES programs and NPDES regulated entities under the final rule. As shown in Table 3, authorized programs have several mechanisms to minimize the potential for dual reporting (paper and electronic submissions of the same data).

Table 3—Main Methods by Which Electronic Reporting Requirements Will Be Adopted By NPDES Regulated Entities Under the Final Rule
Method | Description | Potential for dual reporting (paper and electronic)
Electronic Reporting Allowable in Existing NPDES Permit | Existing reporting requirements in some NPDES permits may already allow for permittees to switch to electronic reporting (e.g., no explicit requirement to report DMRs on paper forms to the state) | No.
NPDES Permit Issuance | NPDES permit issuances are staggered. This means that some NPDES permits will be incorporating electronic reporting requirements before the implementation schedule deadlines | No.
Enforcement Discretion | Authorized NPDES programs can issue an enforcement letter that allows NPDES permittees to forgo filing paper forms as long as they use the approved electronic reporting systems | No.
Minor Modification | With the consent of the permittee, the NPDES permitting authority can incorporate electronic reporting requirements through a minor modification. This is usually done permit-by-permit but there are no restrictions on a state that would like to take one action to change multiple permits at once. These minor modifications are very specific updates and do not require public notice. The NPDES regulated entity can use these minor modifications to eliminate the potential for dual reporting (paper and electronic) | No.
Dual Reporting | The state can also require electronic reporting in addition to paper reporting, which is required by existing permit language. The dual reporting would last only until the permit expires and the next permit is issued with electronic reporting requirements. This is EPA's least preferred option to phase in electronic reporting | Yes.

Under the implementation schedule for this final rule, EPA will assess the electronic reporting participation rate of NPDES regulated entities in each state and by each data group to determine when it would be appropriate to send individual notices. For example, EPA may send individual notices to compel electronic reporting when the authorized state, tribe, or territory has less than 90-percent participation rate for one or more data groups (e.g., MS4 program reports), calculated after the required time for electronic reporting of the particular data group. EPA will separately calculate the participation rate for each state and for each data group no later than six months after the deadline for conversion from paper to electronic submissions (e.g., 18 months after the effective date of the final rule for DMRs). As appropriate, EPA will then send notice to the NPDES regulated entities that are not utilizing electronic reporting (e.g., 21 months after the effective date of the final rule for DMRs). This notice will direct NPDES regulated entities to use their authorized NPDES program's electronic reporting system. Failure to comply with this notice will result in noncompliance with the CWA and may result in penalties. EPA will repeat its review of the participation rate for each state and for each data group on an annual basis as needed and send out notices as appropriate. EPA will coordinate the distribution of these notices with the authorized NPDES program.

EPA anticipates that it may use individual notices to compel electronic reporting will likely be minimal as electronic reporting, over the long term, reduces burden for the reporter. It is also important to note that many facilities have already made the switch to electronic reporting (e.g., most DMR filers in Ohio are using Ohio's e-DMR system).

EPA solicited comment on this 90-percent participation rate metric. Commenters noted difficulties in outreach and training for the large number of NPDES-regulated entities that will need to switch from paper to electronic reporting. As described above, EPA is providing more time for authorized NPDES programs to switch their processing of Phase 2 NPDES program data (e.g., general permit reports, program reports) from paper to electronic. This additional three years will help authorized NPDES programs build or adopt electronic reporting systems for Phase 2 data as well as register and train NPDES regulated entities. EPA is keeping the proposed one-year schedule for the DMR data flow since DMR electronic reporting tools are already deployed in 42 states, with an additional six states actively developing similar systems. This existing electronic reporting capacity has allowed tens of thousands of NPDES regulated entities to electronically report their DMRs over a number of years.⁶ EPA is also retaining the 90 percent participation rate as this single simple measure will be an effective system to track progress and prompt NPDES regulated entities and authorized NPDES programs to switch from paper to electronic reporting within a reasonable time period. While the 90-percent figure is not codified in the final regulation [see 40 CFR 127.26(i)], EPA is including the 90-percent figure in this preamble to the final rule and the accompanying ICR as a goal to promote electronic reporting and as a reasonable estimate of the number of entities that EPA may directly contact. EPA will work with states if there is a significant delay in the adoption of electronic reporting and re-assess the 90-percent participant rate goal as part of its ICR renewal (ICRs are typically approved by OMB for three years) or as appropriate.

⁶ See: https://netdmr.zendesk.com/entries/45318090-For-New-Users-Who-Can-Report-.

Another state commenter also suggested that EPA calculate for each authorized NPDES program one DMR electronic submission participant rate for individually permitted facilities and another DMR electronic submission participant rate for facilities covered under general permits. The commenter suggested that there are important differences between individually permitted facilities, which tend to be the larger facilities with a continuous discharge like POTWs, and facilities covered under general permits, which tend to be more numerous. Some authorized NPDES programs also use different agencies to manage specific industrial sectors (e.g., oil and gas facilities, mines, CAFOs) and these industrial sectors are often covered by general permits. EPA agrees with the commenters that there are important differences between individually permitted facilities and facilities covered by general permits. Having one DMR electronic submission participant rate for individually permitted facilities and another DMR electronic submission participant rate for facilities covered under general permits will allow EPA to more accurately target only those facilities and sectors with the poorest electronic reporting participation rates. In this final rule, EPA is adopting the approach recommended by some authorized NPDES programs and will use one DMR electronic submission participant rate for individually permitted facilities and another DMR electronic submission participant rate for facilities covered under general permits.

EPA will also work with states to evaluate how best to assess electronic reporting participation for general permit reports (e.g., NOIs) for different sectors (e.g., oil and gas facilities, mines, CAFOs). The authorized NPDES program will document how to assess electronic reporting participation rates for general permit reports in their IP.

Another important consideration is that NPDES-regulated entities with temporary waivers are excluded from the participation calculations. For example, if state X has 1,020 individually permitted facilities that are required to submit DMRs and 20 of these facilities are granted temporary waivers from electronic reporting, then as a group at least 900 of the 1,000 individually-permitted facilities without waivers [= 0.9 × (1,020 − 20)] need to electronically submit DMRs to state X in order to meet the 90-percent participation rate. Examples of how EPA will use individual notices to “fill in the gaps” where NPDES-regulated entities are not yet fully electronically reporting their NPDES program data are provided in the supplemental notice to the proposed rule (1 December 2014; 79 FR 71070) and more examples are in the docket (see DCN 0106).

4. Hybrid Approach for Construction Stormwater NOIs

As an alternative to use of a CROMERR-compliant electronic reporting system, one commenter suggested that EPA allow the initial recipient the option of using data capture technology [e.g., two dimensional barcodes such as Quick Response (QR) codes, optical character recognition] (see DCN 0178). In particular, authorized NPDES programs have noted their difficulty in getting construction operators to apply for and maintain electronic signatures for use with CROMERR-compliant electronic reporting systems for stormwater related discharges. Authorized NPDES programs suggested that EPA provide some flexibility in the final rule that would allow construction operators the ability to electronically submit data from construction stormwater general permit reports [e.g., Notice of Intent (NOI) to discharge; Notice of Termination (NOT); and Low Erosivity Waiver and Other Waivers from Stormwater Controls (LEW)] but without an electronic signature. EPA solicited comment on this approach in the supplemental notice to the proposed rule (1 December 2014; 79 FR 71076). Several comments expressed support for EPA to include this option in the final rule as a means to provide authorized NPDES programs with more options in implementing the final rule. In this final rule, EPA is providing the option for the initial recipient to use data capture technology for construction stormwater general permit reports (i.e., NOIs, NOTs, NOEs, LEWs). The following discussion provides more detail on this optional method for authorized NPDES programs to comply with this final rule for construction stormwater general permit reports.

The final rule provides the initial recipient the option of allowing data capture technologies for construction stormwater general permit reports. This is defined in the final rule as the “Hybrid Approach.” For example, under the Hybrid Approach, the initial recipient may allow construction operators to complete an online construction stormwater general permit report, which simultaneously produces a paper copy of the report and electronically transmits a copy of the data from the report to the initial recipient. The construction operator will sign and date the paper copy of the construction stormwater general permit report with a handwritten signature and this paper document will be the “copy of record.” The paper document will be managed in accordance with 40 CFR 122.28. It is important to note that EPA general permit regulations (40 CFR 122.28) do not require all general permit covered facilities to submit NOIs for all general permits as some general permits provide for automatic coverage. The final rule does not change EPA's general permit regulations with respect to the discretion of the authorized NPDES program in deciding when a notice of intent requirement would be inappropriate [see 40 CFR 122.28(b)(2)(v)]. Under the Hybrid Approach, the paper copy of the construction stormwater general permit report with a handwritten signature must be submitted to the authorized NPDES program.

Under the Hybrid Approach, the initial recipient must have the ability to definitively and uniquely link the signed and dated paper document with the electronic submission from the NPDES regulated entity. This could be done through use of a unique code or mark on the signed and dated paper document that is also embedded in the electronic submission. See Figure 1.

Under the Hybrid Approach, the initial recipient can also use automated data capture technology (e.g., Optical Character Recognition) to allow a NPDES-regulated entity to submit NPDES program data on paper with a handwritten signature and date in a structured format that allows for easy data importation into the authorized program's NPDES data system. It is likely in this example that the initial recipient will also be the authorized state, tribe, or territory since the paper form will be sent by the construction operator to the authorized NPDES program.

EPA notes that using the Hybrid Approach will require the procurement and management of the necessary data capture technology, maintenance of the signed and dated paper submission, and the training of potential users; however, some authorized NPDES programs have suggested the Hybrid Approach may be less burdensome than requiring all construction operators to register and submit using standard CROMERR-compliant identity-proofing and electronic reporting services.

Finally, EPA notes that it is limiting this approach to the construction sector due to the large and transient number of permittees that are reporting each year for new locations (approximately 200,000 new construction sites each year). Use of the Hybrid Approach eliminates the need for construction operators to obtain and maintain a digital signature and the need for authorized NPDES programs to oversee and troubleshoot the process for these construction operators to obtain these digital signatures.

EPA encourages state, local, or municipal government that make the Hybrid Approach available to regulated entities in the construction sector to also make CROMERR-complaint, fully-electronic reporting available as well, reducing to the degree possible any reliance on paper.

C. Waivers

In the preamble to the proposed rule, EPA introduced the concept of temporary waivers from electronic reporting of NPDES program data. EPA proposed to limit the availability of these temporary waivers to regulated facilities in areas that lacked sufficient broadband availability. Under the proposal, temporary waivers would be available for one year at a time. Authorized NPDES programs would be required to enter the hard-copy NPDES program data submitted by facilities with waivers into the state or federal NPDES data system and share it with EPA. EPA requested comment on the need for such temporary waivers, possible options for such waivers, and on the possibility of permanent waivers for religious reasons.

1. Temporary Waivers

During the two public comment periods, EPA received several comments on temporary waivers. The majority of the comments on this topic supported the overall concept of temporary waivers from NPDES electronic reporting. Commenters expressed support for waivers that would have a longer duration than the one-year renewable timeframe identified in the proposed rule. Several commenters suggested that waivers should also be made available for certain circumstances beyond broadband availability issues, such as undue burden or cost to the authorized NPDES program. For example, it may be more efficient for the state to manually enter data into an electronic system, than to train a NPDES regulated entity when there are numerically few of a certain category of permittees or when the sector is known to have limited computer skills even if the entity potentially has access to broadband internet.

In the final rule, EPA is providing authorized NPDES programs with more flexibility in how they may grant temporary waivers. Per § 127.15 of the final rule, each authorized NPDES program will describe in its IP how it will implement the NPDES Electronic Reporting Rule waiver provision. Authorized NPDES programs will review and update, as necessary, their implementation of the NPDES Electronic Reporting Rule waiver provision once every five years and submit any changes to EPA for review. EPA will inform the state if its waiver process description is inadequate. The duration of a temporary waiver may not exceed five years, which is the normal period for an NPDES permit term. EPA also notes that these waivers are not transferrable.

Additionally, authorized NPDES programs may issue episodic waivers to address large-scale national disasters (e.g., hurricanes) or prolonged electronic reporting system outages (i.e., outages longer than 96 hours). The authorized NPDES program will describe in the IP how it plans to issue episodic waivers in these extreme situations as part of its implementation of the NPDES Electronic Reporting Rule waiver provision.

2. Permanent Waivers

Commenters suggested that EPA should make permanent waivers for NPDES-regulated entities owned or operated by members of religious communities (e.g., Amish, Mennonite, and Hutterite). EPA agrees that it would be appropriate for the final rule to accommodate the religious practices of individuals that choose not to use certain technologies (e.g., computers, electricity) in accordance with their religion. In the final rule, authorized NPDES programs may issue permanent waivers to facilities owned or operated by members of religious communities that choose not to use certain technologies. Authorized NPDES programs will document their procedures for issuing permanent waivers as part of their implementation of the NPDES Electronic Reporting Rule waiver provision, which is described above. EPA notes that a NPDES regulated entity will need to re-apply for a permanent waiver upon any change in facility ownership and that these waivers are not transferrable.

D. Summary of Changes to Appendix A

Appendix A to the final rule (40 CFR part 127) is the minimum set of NPDES program data that must be electronically collected, managed, and shared between NPDES-regulated facilities, authorized NPDES programs, and EPA.⁷ Authorized programs that are the “initial recipient” of these data must electronically transfer these data to EPA on a regular schedule (within 40 days of completed action). EPA worked extensively with NPDES program experts from across the Agency and with authorized NPDES programs to develop and refine Appendix A. The purpose of Appendix A is to ensure that there is consistent and complete reporting nationwide, and to expedite the collection and processing of the data, thereby reducing burden and making the data more timely, accurate, complete, useful, and transparent for everyone. EPA recognizes that there may be certain instances where appendix A data do not apply directly to particular permitted activities as written and will work with states to accommodate any necessary differences. For instance, there may not be a fixed address for the application of pesticides, so, in this instance, the NOI may not include facility physical address, latitude, and longitude information as described in Appendix A, but would likely contain equivalent information as required by the permit.

⁷ Authorized NPDES programs may grant electronic reporting waivers to NPDES-regulated facilities. In these cases, states perform the data entry from the paper submissions.

When reviewing the list of Appendix A data elements, it is important to note the following concepts:

• Frequency: Reporting frequency varies based on the type of data (e.g., permit issuance would likely be every five years; DMR data may be monthly).

• Applicability: Many of the data elements are only applicable to certain NPDES sectors (e.g., CAFO data elements do not apply to POTWs).

• Efficiency: Many of the data elements use codes or unique descriptions to facilitate easier data entry.

These concepts highlight the fact that there is a direct relationship between the amount of data that will be reported, collected, and managed and the overall burden of the rulemaking. The amount of data generated by each data element is directly tied to how frequently the data element is reported, the number of regulated entities that are covered by the data element (i.e., applicability), and the ease of reporting (i.e., efficiency). The amount of data generated by a data element directly increases with more frequent data reporting of the data element, more entities subject to the data element, and decreases with simplified data reporting (e.g., using text fields instead of use of codes or unique descriptions, which facilitate easier data entry). Consequently, it is important to focus on the amount of data that will be collected by this final rule and not the number of data elements listed in appendix A. EPA used the following process to create the initial draft of appendix A:

• Identify current candidate reports and information from authorized NPDES programs and NPDES regulated entities that are practical to standardize and electronically process and have important value to the permitting and compliance and enforcement programs and the public.

• Identify the required data elements for each candidate data flow and report based on the CWA or existing EPA regulations.

• Minimize the number of data elements to create efficiencies without losing the utility of the data.

During 2014 and 2015, EPA met with state technical experts to discuss all the data elements in appendix A. EPA summarized these discussions for the Docket (see DCN 0128 to 0142, 0181, 0219 to 0229).

In general, EPA simplified appendix A to help make implementation of the final rule easier for authorized NPDES programs and NPDES regulated entities. The data elements in appendix A support the electronic collection, management, and sharing of Phase 1 and Phase 2 data.

EPA also noted that authorized NPDES programs can require NPDES regulated entities to submit more data than what is listed in appendix A. The authorized NPDES program can require NPDES regulated entities to submit these “non-appendix A” data on paper, electronically, or as attachments (e.g., PDF files, CSV files) to electronic notices and reports filed in compliance with this final rule. Some commenters requested clarification on how EPA's electronic reporting tools will be configured to separately handle appendix A and non-appendix A data. EPA's electronic reporting tools allow for non-Appendix A data to be collected and shared with authorized NPDES programs. EPA will continue to work with authorized NPDES programs to configure these data systems such that the non-appendix A data are collected in the format needed by the authorized NPDES program. These implementation efforts will ensure that NPDES regulated entities only need to make one electronic submission with EPA's electronic reporting tools and that these submissions may contain a mix of appendix A and non-appendix A data. EPA will work with authorized NPDES programs that build their own electronic reporting tools to ensure that their tools have similar capabilities.

E. Unpermitted Facilities

Current EPA regulations and policy set forth expectations for authorized NPDES programs to provide compliance monitoring data on all permitted facilities, both major and nonmajor facilities, and a limited group of unpermitted facilities. See 40 CFR 123.41, DCN 0007, DCN 0037, and DCN 0188. Under the 2014 Clean Water Act National Pollutant Discharge Elimination System Compliance Monitoring Strategy (“2014 CMS”), authorized NPDES programs can propose an alternative Compliance Monitoring Strategy (CMS) plan, which may include the state's plan to conduct “focused inspections” or “off-site desk audits” instead of “comprehensive inspections” for certain facilities (see DCN 0188). An alternative NPDES CMS plan is a plan that includes one or more compliance monitoring commitments that deviate from the national goals and flexibilities (see Part 2 of the 2014 CMS for detailed description of the national goals). As compared to the national goals, an alternative plan could include modified frequency of comprehensive inspections, modified compliance monitoring activities (e.g., offsite desk audit), or a combination of the two. As a condition for EPA approval of the alternative CMS plan, the state must commit to share with EPA's ICIS-NPDES compliance monitoring data on all facilities (including unpermitted facilities) subject to a “focused inspection” or an “off-site desk audit” instead of “comprehensive inspection” (see Part 1 of the 2014 CMS). Additionally, EPA regulations require authorized NPDES programs to share compliance monitoring data with EPA on unpermitted facilities found to be in violation of the Clean Water Act (e.g., discharging without an NPDES permit) (see 40 CFR 123.41).

This final rule does not change the existing requirements for NPDES programs to report information on certain unpermitted facilities to EPA. See 40 CFR 123.41(a); 123.43(d). In order to provide clarity, the following examples clarify when authorized NPDES programs are required to share NPDES program data on unpermitted facilities with EPA by entering these data in to EPA's national NPDES data system (i.e., ICIS-NPDES).

Example #1: As part of an approved alternative CMS plan, an authorized NPDES program evaluated ten unpermitted facilities with a focused inspection or an off-site desk audit. As a condition of EPA's approval of the alternative CMS plan, the authorized NPDES program is required to share NPDES program data on these ten unpermitted facilities with EPA by entering these data in to EPA's national NPDES data system (i.e., ICIS-NPDES).

Example #2: The same authorized NPDES program in Example #1 responds to a citizen complaint of an unpermitted facility by conducting an inspection of the unpermitted facility. This inspection is not part of the authorized NPDES program's approved alternative CMS plan. The authorized NPDES program determines that this unpermitted facility is discharging pollutants to waters of the U.S. without an NPDES permit in violation of the CWA. In accordance with this rule, the authorized NPDES program is required to share NPDES program data on this unpermitted facility with EPA by entering these data in to EPA's national NPDES data system (i.e., ICIS-NPDES).

Example #3: The same authorized NPDES program in Example #1 responds to a citizen complaint of another unpermitted facility by conducting an inspection of the unpermitted facility. This inspection is not part of the authorized NPDES program's approved alternative CMS plan. The state determines that this unpermitted facility is not in violation of the CWA. The authorized NPDES program is not required to share NPDES program data on this unpermitted facility with EPA's national NPDES data system (i.e., ICIS-NPDES).

Example #4: An authorized NPDES program responds to a citizen complaint of an unpermitted facility by conducting an inspection of the unpermitted facility. The inspection is not conducted pursuant to the authorized NPDES program's approved CMS plan. The authorized NPDES program determines that this unpermitted facility is discharging pollutants to waters of the U.S. without an NPDES permit in violation of the CWA. In accordance with this rule, the authorized NPDES program is required to share NPDES program data on this unpermitted facility with EPA by entering these data in to EPA's national NPDES data system (i.e., ICIS-NPDES).

Example #5: The same authorized NPDES program in Example #4 responds to a citizen complaint of another unpermitted facility. The inspection is not conducted pursuant to the authorized NPDES program's approved CMS plan. The state determines that this unpermitted facility is not in violation of the CWA. The authorized NPDES program is not required to share NPDES program data on this unpermitted facility with EPA's national NPDES data system (i.e., ICIS-NPDES).

Example #6: An authorized NPDES program inspects a facility with both an NPDES permit and state groundwater protection permit. During a compliance monitoring activity the inspector does not evaluate compliance with the NPDES permit but does determine that the facility is in violation of several state groundwater permit requirements (i.e., these violations are not violations of the CWA). The authorized NPDES program is not required to share NPDES program data from this compliance monitoring activity on this facility with EPA's national NPDES data system (i.e., ICIS-NPDES) because it was not an NPDES program inspection.

Example #7: An authorized NPDES program performs a comprehensive inspection of an unpermitted facility to determine if it is discharging without an NPDES permit. The inspection is conducted pursuant to the authorized NPDES program's approved CMS plan. During the comprehensive inspection the authorized NPDES program determines that the unpermitted facility is violating two state permit requirements; however, the authorized NPDES program also determines that the unpermitted facility is not violating the CWA. The authorized NPDES program is not required to share NPDES program data on this unpermitted facility with EPA's national NPDES data system (i.e., ICIS-NPDES).

In summary, the final rule does not require authorized NPDES programs to share NPDES program data on unpermitted facilities with EPA's national NPDES data system (i.e., ICIS-NPDES) with the following exceptions:

a. The approved alternative CMS plan includes compliance monitoring of unpermitted facilities through use of a “focused inspection” or an “off-site desk audit” instead of a “comprehensive inspection.”

b. Unpermitted facilities were subject to compliance monitoring and found to be in violation of the CWA (e.g., discharging pollutants to waters of the U.S.) and thus required to have an NPDES permit.

c. Unpermitted facilities were subject to a formal enforcement action, an administrative penalty order, or an informal enforcement action (if such informal action addressed significant noncompliance).

d. Authorized NPDES programs must share with EPA NPDES program data on industrial users regulated by the Federal pretreatment program (40 CFR part 403).

e. Authorized NPDES programs must share with EPA NPDES program data on entities regulated by the Federal biosolids program (40 CFR part 503).

Basic facility data on these unpermitted facilities and the related compliance monitoring data must be shared with EPA's national NPDES data system (i.e., ICIS-NPDES). For the first three types of exceptions identified above, EPA Regions, authorized states, tribes, and territories would be required to electronically provide the following information to EPA's national NPDES data system: basic facility information; compliance monitoring related information; and, if applicable, violations, and information regarding enforcement actions.

Facilities included in the fourth group would be operating under a control mechanism, which may or may not be a permit (see 40 CFR 403.8). In accordance with the final rule, these facilities will electronically submit their bi-annual compliance reports [40 CFR 403.12(e) and (h)] to their Control Authority (when the state or EPA is the Control Authority). Additionally, the Control Authority will summarize the compliance and enforcement action data for industrial users as part of the Pretreatment Program Report [40 CFR 403.12(i)].

Facilities included in the fifth group would be operating under EPA's Standards for the Use or Disposal of Sewage Sludge (40 CFR part 503), which are directly applicable to “any person who prepares sewage sludge, applies sewage sludge to the land or fires sewage sludge in a sewage sludge incinerator and to the owner/operator of a surface disposal site” (see 40 CFR 503.1). This means that the annual reporting requirements in 40 CFR 503.18, 503.28, and 503.48 are applicable even in the absence of an NPDES permit.

F. Nonmajor Facility Inspection Single Event Violation (SEV) Data

Single Event Violations (SEVs) include one-time events as well as violations with longer durations. These are violations that are generally not automatically flagged by the data system (e.g., inspection identified violations, sewer overflow, spill of industrial waste, discharges without an NPDES permit). These violation determinations are often manually generated by the authorized NPDES program as opposed to violations that can be system created or generated (e.g., effluent exceedances of permit limits are automatically flagged by ICIS-NPDES).

SEV data are generated from inspection reports and other compliance monitoring activities by authorized NPDES programs. Currently approximately ten percent of facilities designated as majors in ICIS-NPDES have a SEV in any given year. These are important violations that are not automatically identified through self-monitoring data like DMRs, and these data are important for targeting, transparency, and state oversight. The availability of such compliance determination information from states, tribes, territories, and EPA is critical to determining the compliance status of NPDES regulated facilities. This information is needed on a facility-specific basis to better identify potential problems; ensure that appropriate action is taken to address noncompliance; better quantify national or state noncompliance rates; and to provide a more complete and transparent picture to permitting authorities, the public, Congress, and other stakeholders of the overall implementation and effectiveness of the authorized NPDES program. There are two to three data elements associated with SEVs:

• Violation Code (this uniquely identifies the type of violation)

• Date Data which includes: Single Event Violation Date (used when violation occurs on one date) or Single Event Violation Start Date and Single Event Violation End Date (used when violation spans multiple dates)

Prior to this final rule, EPA only required authorized NPDES programs to share with EPA SEV data on facilities designated as majors. In the proposed rule, EPA discussed requiring authorized NPDES programs to also share with EPA SEV data on facilities designated as nonmajors (see 30 July 2013; 78 FR 46041). EPA received comments from authorized NPDES programs suggesting that EPA rely on the Performance Partnership Agreements (PPA) and Performance Partnership Grants (PPG) process to manage SEV data sharing expectations.⁸ EPA has decided not to use the PPA and PPG process to manage SEV data sharing between authorized NPDES programs and EPA for the following reasons.

⁸ Individual PPAs can range from general statement about how the state and EPA will work together as partners (perhaps identifying joint priorities that will be addressed) to comprehensive, multi-program documents that detail each party's roles and responsibilities. Some PPAs meet relevant statutory and regulatory requirements and also serve as the work plans for Performance Partnership Grants (PPGs) or other EPA grants. In a few cases, the PPA contains a more general discussion of the working relationship between EPA and the state rather than a discussion of priorities and programs.

PPAs and PPGs are often voluntary and all authorized NPDES programs use these documents to govern data sharing between authorized NPDES programs and EPA. Several states with PPAs have not updated them since the mid to late 1990s, and the degree of specificity of PPA commitments such as data entry, inspections, and enforcement actions varies widely. This highly variable, voluntary process is not sufficient to encourage and evaluate national consistency in meeting national program expectations for NPDES data entry and tracking, compliance evaluations and determinations, and timely and appropriate enforcement response.

Additionally, an authorized NPDES program is only required to share with EPA SEV data from a construction stormwater inspection when the authorized NPDES program also issues a formal enforcement action against the inspected construction site. As noted in the proposal, EPA made this distinction based on the large number of facilities in this segment of the NPDES universe (approximately new 200,000 construction sites each year). This distinction is made in appendix A to 40 CFR part 127.

Finally, EPA notes that data from some SEVs will be self-reported by the permitted facilities. For example, a sewer overflow is an SEV but the permittee will be collecting and electronically sharing these data with the permitting authority (i.e., it will be the permittee that will electronically report these SEV data to the authorized NPDES program who will then electronically share these data with EPA). There are similar examples of permitted facilities reporting on SEVs in other program reports (e.g., CAFO Annual Report, Biosolids Annual Report). EPA has included in the Economic Analysis and Information Collection Request supporting the final rule the cost and burden of expanding the requirement on authorized NPDES programs to share with EPA SEV data on nonmajors (see DCN 0197).

VI. Economic Analysis

A. Regulatory Requirements Addressed by the Economic Analysis

Executive Order 12866 directs federal agencies to perform an economic analysis (EA) to give decision makers information to determine that there is a need for the rule and that benefits of the rule justify the costs of the rule. Further, Executive Order 12866 requires that the rule maximize the net benefits to society, be cost effective and be based on the best reasonably obtainable information.⁹ E.O. 12866 defines the threshold for economically significant rules as one that is expected to create impacts to the economy of $100 million or more or otherwise adversely affect the economy, a sector of the economy, productivity, competition, jobs, the environment, public health or safety, or State, local, or tribal governments or communities in a material way.¹⁰ The EA also addresses the requirements of the Unfunded Mandates Reform Act (UMRA) and the Regulatory Flexibility Act (RFA).

⁹ Economic Analysis of Federal Regulations Under Executive Order 12866, Office of Management and Budget, January 11, 1996, DCN 0064.

¹⁰ Id.

The Regulatory Flexibility Act (RFA) of 1980 (5 U.S.C. 601 et seq.) requires Federal agencies to review their proposed rules and regulations to determine if they will have “a significant economic impact on a substantial number” of small entities. But the RFA does not define “significant economic impact” or “substantial number.” In its regulatory flexibility analysis EPA adopted the Small Business Administration's (SBA) definition of small entities, and used a threshold of 1% of revenue to determine economic significance. Using the SBA definition, EPA estimated that 108,000 small entities would incur costs under the final rule.¹¹

¹¹ Note that fewer facilities are considered in the small entity analysis (164,093 unique facilities, reflecting the number of facilities in ICIS-NPDES at the time of this analysis) than were estimated in Chapter Two of the EA (393,359 unique facilities) due to data limitations. As a result, the estimated number of small entities incurring costs under the rule is likely underestimated. However, the assumption is made that facilities affected by the rule but not currently in ICIS-NPDES will experience small entity impacts similar to the facilities currently in ICIS-NPDES. See the Economic Analysis for the Final Rule for more details.

EPA estimates initial implementation costs for the regulated facilities to be no more than $314 per facility, with an additional intermittently recurring cost of approximately $6 for some permittees. EPA also estimates that a limited number of small entities might be required to report both electronically and on paper to their permitting authority during the first five years after the effective date of the rule, each incurring as much as $86 in additional annual costs. Only one entity is expected to incur a cost impact of 1% or greater associated with the annualized compliance costs resulting from the final rule. While impacts of greater than 1% are estimated to be incurred by one entity due to the rule, impacts of greater than 1% are incurred by far fewer than 100 small entities and considerably less than 20% of all small entities for all sectors and for each sector individually. Therefore, following EPA guidance on assessment of the rule's direct adverse impact on any small entities, the rule is not expected to significantly impact a substantial number of small entities.

B. Economic Significance of This Rule

According to the threshold set out in E.O. 12866, this final rule is not economically significant. The threshold for a finding of economic significance is an annual effect, either costs or savings, of $100 million annually. EPA estimates the largest annual economic impacts to be $74.4 million in net costs during the first year after the effective date of the rule [Year 0 in Table 4-16: Schedule of Savings and Costs (3% Discount Rate) and Table 4-17: Schedule of Savings and Costs (7% Discount Rate), see DCN 097]. EPA also estimates $24.3 million in net savings five years after the effective date of the rule [Year 5 in Table 4-16: Schedule of Savings and Costs (3% Discount Rate), see DCN 0197].

Although this rule does not meet the economic significance threshold, this economic analysis includes most of the elements that would be required if the threshold were met—a statement of the need for the rule, an examination of alternatives, and the costs and benefits. The statement of need is located in Section II, and a description of the alternative approaches that were considered is located at Section IV. The non-monetary benefits were discussed in the first portion of Section VI. The balance of this section summarizes the estimated savings and costs of the selected approach.

C. Description of Key Factors Used in the Economic Analysis

The final rule would reduce the data entry burden on the states, tribes, and territories while increasing the percentage of the NPDES universe for which data are available electronically. Compared to the current reporting guidance, known as WENDB, the rule would reduce the data entry burden on states, tribes, and territories, increase the number of NPDES-regulated facilities for which NPDES data is available to EPA, and expand the scope of the available data for all NPDES-regulated facilities covered by this rule.

The main elements of this EA are the reporting universe, reporting frequencies, required data, changes in who reports the data, systems and infrastructure changes to make the reporting possible, and the schedule for implementation.

(a) Estimated Universe of Potentially Affected Permittees

This rule would change the universe of permit types for which EPA will receive data. As described in Section II, the current reporting guidance instructs the states to provide EPA with data on the major dischargers (6,800 permittees) and nonmajor dischargers with individual permits (approximately 40,000 permittees). Some states provide data on a larger section of the permittee universe.

Under the final rule, EPA would receive data on the entire permittee universe (approximately 400,000 permittees including pesticides applicators and vessels), as represented in Table 4.

Table 4—Universe of NPDES Permits
NPDES Subprogram | Number of NPDES permits: Individual majors | Number of NPDES permits: Individual nonmajors | Number of NPDES permits: General nonmajors
Non-POTWs (Industrial, Agriculture, and Stormwater)
Standard Industrial Dischargers (may also file CWA section 316(b) data) | 1,683 | 18,993 | ᵃ 118,073
CWA section 316(b) Filers
Permits with Cooling Water Intake Data | 1,171 | 0 | 0
Permits with Thermal Variance Data | 554 | 0 | 0
Industrial Facilities Submitting CWA section 316(b) Annual Reports | 200 | 0 | 0
Significant Industrial Users (SIUs) ᵇ
SIUs in Municipalities with Pretreatment Program | 0 | 29,060 | 0
SIUs in Municipalities without Pretreatment Program | 0 | 2,487 | 0
Concentrated Animal Feeding Operations | 0 | 1,266 | 5,291
Industrial and Construction Stormwater
Industrial | 132 | 563 | 92,282
Construction | 1 | 638 | 243,227
Municipal Stormwater ᶜ
Phase I municipal separate storm sewer systems (MS4s) | 249 | 0 | 9
Phase II MS4s | 0 | 204 | 5,093
POTWs and TWTDSs (may have a CSS or a SSS, may also file more than one report)
POTWs with Combined Sewer Systems (CSSs) ᵈ | 462 | 244 | 68
POTWs with Sanitary Sewer Systems (SSSs) only ᵈ | 3,533 | 9,197 | 1,281
TWTDSs | 779 | 7,510 | 655
POTW NPDES Report Filers
Biosolids/Sewage Sludge Report Filers | 4,209 | 694 | 0
Pretreatment Program Report Filers | 1,462 | 114 | 0
Sewer Overflow Event Report Filers ᵈ | 4,774 | 16,950 | 2,003
ᵃ Includes 9,125 pesticide applicators and 63,000 vessels that are already filing electronically.
ᵇ These industrial facilities discharge to POTWs and are regulated by the NPDES program through EPA's General Pretreatment Regulations (40 CFR part 403) and Categorical Pretreatment Standards (40 CFR parts 405 through 471). They do not have NPDES permits, but those in municipalities without pretreatment programs would report electronically under the rule.
ᶜ Nearly all Phase I MS4s are individually permitted facilities. For purposes of cost estimating, the analysis treats all individually permitted Phase I MS4s as majors and all Phase II MS4s as nonmajors.
ᵈ The analysis divides the total universe of POTWs into CSSs and SSSs and treats those that are only partially composed of CSSs as CSSs.

Table 4 shows the types and estimated numbers of permits in each of the applicable categories. Note, however, that some facilities have reporting requirements under more than one subprogram, in which case they are counted in each applicable group because that is the basis for regulation and reporting. Specifically, CWA section 316(b) filers are a subset of standard industrial dischargers and POTW NPDES report filers are a subset of the group of POTWs and TWTDSs. Also note that SIUs do not have a NPDES permit but are included in the EA.

Changes in the reportable universe affect virtually every aspect of the EA, including data entry costs, training costs, the need for electronic signatures and system registration, savings in paper and postage, and the potential impact of dual reporting. The majority of the savings due to the final rule result from electronic reporting of DMRs. Note, however, that not all of the regulated entities enumerated in Table 4 submit DMRs. To clarify this point, Table 5 shows the number of filers under each subprogram for each type of report, including DMRs.

Table 5—Number of Filers by NPDES Subprogram and Report Type
Subprogram | Permit type | NOI filers | DMR filers | Program report filers
Non-POTWs (Industrial, Agriculture, and Stormwater)
Standard Industrial Dischargers | Individual Major Individual Nonmajor General Nonmajor | 0 0 45,948 | 1,683 18,993 41,353 | 0 0 0
CWA section 316(b) Filers ᵃ | 0 | 0 | 200
Significant Industrial Users (SIUs) In Municipalities without Pretreatment Program ᵇ | 0 | 0 | 2,487
Concentrated Animal Feeding Operations | Individual Nonmajor General Nonmajor | 0 5,291 | 0 0 | 1,266 5,291
Industrial & Construction Stormwater
Industrial | Individual Major Individual Nonmajor General Nonmajor | 0 0 92,282 | 132 563 92,282 | 0 0 0
Construction | Individual Major Individual Nonmajor General Nonmajor | 0 0 ᶜ 83,871 | 0 6 2,432 | 0 0 0
Municipal Stormwater ᵈ
Phase I MS4s | Individual Major General Nonmajor | 0 9 | 249 9 | 249 9
Phase II MS4s | Individual Nonmajor General Nonmajor | 0 5,093 | 0 0 | 204 5,093
POTWs and TWTDSs (may have a CSS or a SSS, may also file more than one report)
POTWs with CSSs ᵉ | Individual Major Individual Nonmajor General Nonmajor | 0 0 68 | 462 244 68 | ᶠ 462 ᶠ 244 ᶠ 68
POTWs with SSSs only and TWTDSs ᵉ | Individual Major Individual Nonmajor General Nonmajor | 0 0 1,935 | 4,312 16,706 1,935 | ᶠ 4,312 ᶠ 16,706 ᶠ 1,935
POTW NPDES Report Filers
Biosolids/Sewage Sludge Report Filers ᵃ | Individual Major Individual Nonmajor | 0 0 | 0 0 | 4,209 694
Pretreatment Program Report Filers | Individual Major Individual Nonmajor | 0 0 | 1,462 114 | 1,462 114
ᵃ DMR filings by these facilities are captured by CSS POTWs, SSS POTWs, TWTDSs, or standard industrial dischargers.
ᵇ These industrial facilities discharge to POTWs and are regulated by the NPDES program through EPA's General Pretreatment Regulations (40 CFR part 403) and Categorical Pretreatment Standards (40 CFR parts 405 through 471). They do not have NPDES permits, but those in municipalities without pretreatment programs would report electronically under the rule.
ᶜ Assumes 2.9 construction stormwater general permits per firm.
ᵈ Nearly all Phase I MS4s are individually permitted facilities. For purposes of cost estimating, the analysis treats all individually permitted Phase I MS4s as majors and all Phase II MS4s and nonmajors.
ᵉ The analysis divides the total universe of POTWs into CSSs and SSSs and treats those that are only partially composed of CSSs as CSSs.
ᶠ Accounts for the submission of sewer overflow and bypass event reports.

(b) Data Elements and Data Systems

Section V describes how and why the inventory of reportable data is changed by this rule. For the EA, the biggest impacts of the change in reportable data are the costs of enhancing the database structures to store the additional data and the costs of data entry. Estimating the cost of modifying the databases involves several factors, chiefly the number of additional data elements, the number of NPDES data groups those data elements fall into (e.g., DMR, CAFO Annual Report), the number of data entry screens that will be needed, and the completeness of various state, tribe, territory, and EPA data systems prior to the final rule.

Based on the number of data elements and their planned structure, EPA developed a detailed estimate of its own costs to modify ICIS to accommodate the additional data elements. Because EPA does not have independent estimates of the comparable system costs for each state, tribe, and territory, EPA's estimate of system costs for those NPDES-authorized programs is based on EPA's costs to modify ICIS.

Data entry costs are one of the major aspects of the EA, and involve several additional factors, such as who generates the data, changes in the need for the states, tribes, and territories to enter permittee-created data into an information system, the number of permittees to which each data element applies, the frequency with which each type of data element is reported, the time required to enter each type of data element, and the labor costs associated with data entry.

(c) Responsibility for Creating Data

“Responsibility for creating data” refers to the act of initially determining the value of any particular required data element and writing it on paper or entering it into an electronic storage system. Each data element required by this rule has exactly one creator, although the identity of the creator can be affected by the nature of the permit. For example, DMR data is always created by a permittee, and enforcement data is always created by the permitting authority, but basic facility data might be created by either the permitting authority or the permittee, depending on the type of permit that will be used. The EA uses a detailed understanding of responsibility for data creation to estimate and assign data entry costs and savings for permittees, states, tribes, and territories.

(d) Changes in the Need for State, Tribes, and Territories To Enter Permittee-Created Data

Under the current system of operations, states, tribes, and territories are responsible for collecting data from their permittees and providing the WENDB data to EPA. Paper submissions are the primary means by which permittees submit data to the states, tribes, and territories. This means the states, tribes, and territories are required to enter large amounts of data created by permittees into the permitting authority's information systems, or into ICIS-NPDES. Several types of reports are affected by this rule, but DMRs comprise a substantial majority of the permittee-created data that the states, tribes, and territories enter into data systems. As a result, a significant portion of the data collected is essentially being entered twice. The first is when permittees commit it to a paper form. The second is when the states enter the permittee-created data into an information system.

One of the chief benefits of this rule is that it virtually eliminates the need for such double entry of data in this sense: When DMRs and other reports are submitted electronically by permittees, these reports can be received electronically by the states, tribes, and territories, transmitted directly to the applicable information systems, and shared with EPA through the National Environmental Information Exchange Network.

There is generally no difference between the time required for a permittee to fill out a paper form and the time required for them to enter the same data on an electronic form. Therefore, permittee data creation costs and savings are not affected by the move to electronic reporting. The permittees are required to supply the same data, regardless of the media in which is it reported. However, during the transition period, some permittees might be required to submit data both electronically and on paper. The costs of such dual reporting are estimated to range from zero to $86 per entity.

The impact on the states, tribes, and territories is very different. Every data element a state, tribe, or territory does not have to enter into a data system is a savings compared to the current mode of operation. This does not mean, however, that every state, tribe, and territory will experience the same savings from the rule. Some permitting authorities have already begun shifting to electronic reporting. Forty-eight states have either implemented EPA's NetDMR or their own eDMR system or are in the process of doing so. Some permitting authorities have also begun moving to electronic reporting in other areas, such as NOI. However, participation in most of the state, tribe, or territory electronic reporting systems is voluntary, so participation rates are highly variable. Ohio is one of a few states that has a mandatory eDMR system and has achieved participation of over 99%. Other states have much lower participation rates, which mean they are bearing the costs of operating both paper-based and electronic reporting systems.

(e) Permittees Reporting Various Data Elements

As described in Section II, the current reporting guidelines require states, tribes, and territories to provide EPA with data for only a portion of the permittee universe. This rule expands the universe of permittees for which required reporting must be shared with EPA, primarily by requiring data on the so-called NPDES subprograms. Subprogram data elements are specific to the permittees in each of the subprogram universes. For example, the data elements applicable to CAFOs apply only to CAFO permittees, biosolids data elements apply only to biosolids permittees and so on.

(f) Frequency of Data Element Reporting

Another factor that affects the overall volume of data being submitted, and therefore the data entry costs and savings, is the variation in reporting frequencies. Reporting frequencies are dictated by the types of reports containing the data elements and the compliance monitoring strategy. DMR data elements are submitted on DMR forms, which are generally submitted monthly. Furthermore, many permittees submit multiple DMR forms per month, which explains (1) why DMR data elements comprise the largest portion of total data volume, and (2) why eliminating the need for the states, tribes, and territories to enter DMR data produces most of the savings from the rule.

Facility data are submitted on initial permit applications or on NOIs, and might be reviewed and updated every five years when the permit is reviewed for reissuance. A large part of the facility data is never changed. Portions that are subject to change are generally addressed during the permit's reviews.

Permit data, such as limits and limit sets, are established when the permit is issued, and reviewed and possibly revised on a five-year cycle. Permit conditions are seldom modified except during the regular five-year reviews, or as a result of enforcement actions.

Enforcement and compliance data are created on an as-needed basis. For example, inspection data are created at the time a facility is inspected. It is possible that some permittees will never have any violations or enforcement actions against them, and therefore very little enforcement data associated with them beyond routine compliance monitoring.

Subprogram data elements can be found on any of the major submissions, but are primarily contained in the applicable annual reports. Each of the data types and possible submissions and their frequencies has been evaluated for proper mapping into the EA.

(g) Time Required To Enter Data Elements

Understanding how long it takes to enter data elements is a critical component of the EA. Nine states were surveyed to develop this information. Each respondent was asked to estimate the time it took them to enter various types of data elements. Respondents were grouped according to whether they were in a direct entry, batch entry or hybrid state, and average data entry times were computed for each data element within each group of states. The EA uses the data entry times from the survey to estimate how much time states, tribes, and territories will spend entering different types of data elements.

(h) Labor Costs of Data Entry

Labor rates for the rulemaking are taken from the Bureau of Labor Statistics. Several hourly rates are used, depending on the type of work and whether the worker is a government or private sector worker.

(i) System Development Costs

As described in Section II, EPA intends to develop electronic reporting systems for each of the reports covered by this rule—DMRs, NOIs, and program reports. Those EPA-developed systems will be offered to all of the states, tribes, territories, and permittees for their use. The cost of developing those reporting systems by EPA and the infrastructure to accommodate them were calculated and documented in a series of technical reports, and comprise the majority of the EPA HQ implementation costs as reported by the EA. EPA intends to encourage third-party development of electronic reporting systems. Ultimately each authorized state, tribe, and territory will decide whether to use, and allow their permittees to use, the EPA-provided electronic reporting systems or other systems. Each state, tribe, and territory has the option of adopting one or more of the EPA systems and rejecting the others. Although EPA is building, and making available, a comprehensive set of systems, the EA includes certain state, tribe, and territory costs to modify and expand their electronic reporting systems.

The costs of modifying ICIS and the state, tribe, and territory NPDES data systems are somewhat different. Each of the authorized states, tribes, or territories either has its own data system, or uses ICIS-NPDES. All of these data systems are thought to need some degree of modification to accept the additional data elements, and in the case of state, tribe, and territory data systems, to share that data with EPA. EPA developed an estimate of its costs to modify ICIS. The EA includes those EPA costs, and uses those costs to estimate the cost of database changes in the states, tribes, and territories. The EA uses this approach because EPA does not have detailed information about the data structures in the states, tribes, and territories. The EA does take the available information about state, tribe, and territory data systems into consideration.

All of these system development expenditures are included in the implementation costs of the rule, most of which are expended by EPA prior to rule promulgation and by the states, tribes, and territories within the first year after the effective date of the rule under the implementation schedule described in Section VII.

The EA also estimates marginal operation and maintenance (O&M) costs, over and above current annual costs, for EPA to support the systems required by the rule. It assumes there are no incremental O&M costs for states, tribes, and territories specifically to maintain the upgraded electronic systems (although it does include other ongoing costs, such as data entry). EPA estimates that most of the state compliance costs will take place in the first few years after the final rule.

(j) Additional Implementation Activities

In addition to system development costs, the EA includes the costs to EPA and the states, tribes, and territories of the following activities associated with the implementation of the rule:

• Authorized NPDES programs making decisions regarding their initial recipient status;

• Authorized NPDES programs demonstrating their attorneys general accept electronic signatures in lieu of physical signature, thereby certifying compliance with CROMERR;

• Authorized NPDES programs preparing IPs and EPA review of those plans;

• Authorized NPDES programs updating their Memoranda of Agreement with their Regional Administrator;

• Authorized NPDES program and EPA developing criteria for temporary and permanent waivers from electronic reporting;

• Authorized NPDES program and EPA coordination via training webinars;

• EPA assessing participation rates and, where appropriate, conducting oversight using its CWA authority and ICR to compel NPDES-regulated entities to utilize their NPDES program's electronic reporting system; and,

• Authorized NPDES programs and EPA modifying permits to require electronic submissions.

The EA does not attempt to estimate the costs the states, tribes, and territories will incur to revise their statutes or regulations to implement the changes required by this rule.

(k) Consolidating Summary Reports

When the rule is fully implemented, EPA would essentially have complete data on almost the entire NPDES universe of permittees. As a result, EPA HQ will have all of the data necessary to prepare the Annual Notice of Non-Compliance, the Quarterly Non-Compliance Report, and the Semi-Annual Statistical Summary Report, all currently required from NPDES-authorized states, tribes, and territories by 40 CFR 123.45.

For that reason, the rule replaces all of those reports with a single report generated by EPA HQ using the data in the data systems after implementation of the rule. The EA estimates the reduced burden on the states, tribes, and territories as a result of this reporting change.

(l) Paper and Postage Savings

As described in Section II, the majority of permittee submittals are being sent to the states, tribes, and territories on paper. Each of those submittals therefore requires paper, an envelope, and postage.

Converting to electronic reporting under this rule will eliminate paper submittals of the covered reports for the vast majority of permittees. The EA estimates the percentage of permittees that will be required to use electronic reporting, the number and mix of reports they submit annually, as well as the number of pages in each report, and the required postage.

(m) Registration, Electronic Signatures Agreements and Training

Instituting electronic reporting will entail some effort from the permittees. The EA assumes that every permittee will have to take certain steps in order to begin reporting electronically, whether they report directly to EPA or to their respective state, tribe, or territory. The EA incorporates available data about the extent to which regulated entities are using electronic reporting systems to submit DMRs and assumes these entities will not bear additional registration and training costs.

There are some differences in the costs to different permittees, based on the activities they are engaged in, and these differences have been included in the EA. To use the electronic reporting system for NetDMR and NeT, individual regulated entities will need to register for accounts, either on EPA's Central Data Exchange (CDX) or a similar data portal provided by their authorized NPDES program. Most regulated entities (excluding construction operators in states that allow a Hybrid Approach, as discussed in Section V) will also need to mail their authorized NPDES program an electronic signature agreement (ESA) stating that their electronic personal identification number (PIN) is the legal equivalent of their written signature.

NetDMR or authorized NPDES program eDMR systems are sufficiently complex that many regulated entities will need training to effectively use them. The EA assumes this training will be conducted online. Experience with currently operating systems has shown that training is not necessary for submitting NOIs or program reports electronically, as these systems are less complicated. General permit facilities would also use these less complicated systems to submit DMRs and, therefore, not require training.

The EA also assumes that some permittees would bear additional minor implementation costs associated with electronic reporting registration to satisfy EPA's CROMERR requirements. Specifically, some entities would need to acquire a new business email address and entities that report less frequently than every 90 days would need to reset their password when they report. Including registration, ESA, training, and these minor costs, the EA estimates total initial implementation costs for individual permittees of $314 or less, with an additional recurring cost for some permittees of approximately $6 when the permittee must reset their password. The EA also assumes that EPA would take over initial recipient status under 40 CFR 127.27(d) in two states during the ten year period covered by the analysis. Permittees in these states would need to re-register at an additional cost of $277 or less as most electronic signing credentials are not transferrable from one electronic reporting system to another.

(n) Reporting During the Transition Period

As discussed in Section V, during the initial implementation period, certain regulated entities might be required to submit data to their authorized state program both electronically and on paper. This dual reporting during the transition would involve copying information from paper forms into the appropriate state electronic reporting system and would occur only under certain conditions (e.g., the regulated entity's permit conditions explicitly require paper reporting, the authorized state does not use its enforcement discretion, and the permittee does not consent to a minor modification of its permit). The EA incorporates the cost of such dual reporting for a portion of the affected universe. It assumes the actual number of regulated entities affected and the resulting cost will decrease over the course of the transition period, as permits are modified to require electronic, instead of paper reporting, either on the normal permit cycle or as a result of state implementation activities. Therefore, the EA assumes dual reporting will cease once the rule is fully implemented, five years after the effective date of the rule. The EA estimates the additional cost to permittees of such dual reporting at $86 or less per affected entity per year.

D. Summary of Costs and Savings

The EA for this final rule estimates savings and costs over a ten-year period, beginning on the date that the rule would become final. Applying a 3% discount rate, and using 2014 dollars, the largest annual savings are $44.0 million during the first year of electronic reporting (Year 1 in Table 6 and Table 7). During the ten-year period, the highest annual costs are $74.4 million during the first year after the effective date of the rule (Year 0 in Table 6 and Table 7). Annual costs are significantly less in all other years. Cumulative savings for the ten-year period are $406.4 million while cumulative costs are $250.4 million. As a result the overall economic effect of this rule is a net cumulative savings of $156.0 million over the ten years of the projection.

The following tables summarize the EA cost and savings using the 3% (Table 6) and 7% (Table 7) discount rates as required by EPA's EA guidance in 2014 dollars. Each table shows the annual costs and savings. The “breakeven point” is the date after the final rule when the cumulative savings exceed cumulative costs.

There are both qualitative and quantitative benefits associated with this final rule. EPA has estimated some of the benefits of this rule by performing calculations based on: the reporting universe; reporting frequencies and required data; changes in who reports the data; systems and infrastructure changes to make the reporting possible; and the schedule for implementation. Using a 3% discount rate, and 2014 dollars, the annual total net benefits at full implementation (five years after the effective date of the rule) associated with reduced paperwork and management of information are approximately $26 million, with 93% of those savings going to the states, tribes, and territories.

Additional benefits associated with the rule include the potential for improved compliance and allow for better government and public decision making; however, EPA was unable to monetize these benefits. EPA was able to develop a rough monetary estimate of the benefits associated with reductions in errors in the reported data resulting from the rule that benefit both regulated entities and permitting authorities. Using information on the number of errors typically associated with DMR submissions, EPA developed a rough estimate of the potential time and cost savings that permitted authorities might experience annually from no longer having to correct errors in DMR data. Specifically, EPA estimates total time and cost saving of 130 full-time equivalents (FTEs) and $9.3 million in wages.

The cost of implementing the final rule during the first year after the effective date is approximately $74.4 million. The cost is estimated to drop to a $20.1 million or less per year in subsequent years, once electronic reporting begins (assuming a 3% discount rate). During the first year of electronic reporting (Year 1 in Table 6 and Table 7), annual savings greatly outweigh annual costs, resulting in net savings of approximately $23.9 million per year, with similar net savings in subsequent years.

Table 6—Ten-Year Projected Costs and Savings—3% Discount Rate
Year | EPA headquarters | EPA regions | States | Regulated entities
Costs
0 | $9,720,000 | $400,000 | $43,100,000 | $21,160,000
1 | 1,040,000 | 30,000 | 18,060,000 | 1,010,000
2 | 1,230,000 | 30,000 | 17,530,000 | 930,000
3 | 940,000 | 30,000 | 17,020,000 | 1,240,000
4 | 850,000 | 30,000 | 16,520,000 | 800,000
5 | 830,000 | 30,000 | 16,000,000 | 740,000
6 | 1,330,000 | 30,000 | 15,440,000 | 710,000
7 | 880,000 | 30,000 | 14,990,000 | 690,000
8 | 760,000 | 30,000 | 14,550,000 | 1,000,000
9 | 730,000 | 30,000 | 14,130,000 | 650,000
10 | 710,000 | 30,000 | 13,800,000 | 630,000
Cost Savings
0 |  | $— | $— | $—
1 |  | (2,280,000) | (40,530,000) | (1,210,000)
2 |  | (2,210,000) | (39,350,000) | (1,210,000)
3 |  | (2,150,000) | (38,200,000) | (1,210,000)
4 |  | (2,090,000) | (37,090,000) | (1,210,000)
5 |  | (2,040,000) | (38,610,000) | (1,250,000)
6 |  | (2,060,000) | (38,210,000) | (1,220,000)
7 |  | (2,000,000) | (37,100,000) | (1,180,000)
8 |  | (1,940,000) | (36,020,000) | (1,150,000)
9 |  | (1,890,000) | (34,970,000) | (1,110,000)
10 |  | (1,830,000) | (33,950,000) | (1,080,000)

Table 7—Ten-Year Projected Costs and Savings—7% Discount Rate
Year | EPA headquarters | EPA regions | States | Regulated entities
Costs
0 | $9,720,000 | $400,000 | $43,100,000 | $21,160,000
1 | 1,000,000 | 30,000 | 17,380,000 | 970,000
2 | 1,140,000 | 30,000 | 16,240,000 | 870,000
3 | 840,000 | 20,000 | 15,180,000 | 1,100,000
4 | 730,000 | 20,000 | 14,190,000 | 690,000
5 | 680,000 | 20,000 | 13,220,000 | 610,000
6 | 1,050,000 | 20,000 | 12,280,000 | 570,000
7 | 680,000 | 20,000 | 11,480,000 | 530,000
8 | 560,000 | 20,000 | 10,730,000 | 730,000
9 | 520,000 | 20,000 | 10,030,000 | 460,000
10 | 490,000 | 20,000 | 9,430,000 | 430,000
Cost Savings
0 | $— | $— | $— | $—
1 | $— | (2,200,000) | (39,010,000) | (1,170,000)
2 | $— | (2,050,000) | (36,460,000) | (1,120,000)
3 | $— | (1,920,000) | (34,070,000) | (1,080,000)
4 | $— | (1,790,000) | (31,850,000) | (1,040,000)
5 | $— | (1,690,000) | (31,910,000) | (1,040,000)
6 | $— | (1,640,000) | (30,410,000) | (970,000)
7 | $— | (1,530,000) | (28,420,000) | (910,000)
8 | $— | (1,430,000) | (26,560,000) | (850,000)
9 | $— | (1,340,000) | (24,820,000) | (790,000)
10 | $— | (1,250,000) | (23,200,000) | (740,000)

VII. Regulatory Implementation

A. Overview of Regulatory Implementation Schedule

EPA developed the implementation schedule for this final rule after careful analysis and extensive consultation with authorized NPDES programs and many other stakeholders. This implementation schedule balances the goals and benefits of electronic reporting with the practical challenges facing authorized NPDES programs and regulated entities. For example, some authorized NPDES programs noted that they compete against other agencies for the time and resources of a central shared information technology staff. For these authorized NPDES programs the IP may need to be tailored to account for their unique circumstances. The transition from paper to electronic reporting will require close coordination and cooperation between EPA and authorized NPDES programs. These IPs will provide an effective means for documenting all necessary tasks for a timely and orderly transition to electronic reporting.

As previously noted, the benefits of this final rule include accelerated resource savings that states, tribes, and territories will realize through reduced data entry burden and reduced effort in responding to public requests for data, consistent requirements for electronic reporting across all states, tribes, and territories, increased data quality, and more timely access to NPDES program data in an electronic format for EPA, states, tribes, and territories, regulated entities, and the public. These benefits and savings will be realized sooner the more quickly a state can implement the final rule. Under the final rule, a complete set of information for the regulated universe will be required no later than five years after the effective date of the final rule. In this final rule, EPA is adopting the timeline recommended by authorized NPDES programs and if participation goals are not met, EPA will issue individual notices to require NPDES-regulated entities to use the authorized NPDES program's electronic reporting system. The combination of the deadlines in this final rule, current technology, and EPA's plan to issue individual notices will help maintain a steady and measurable pace towards electronic reporting in a reasonable time period.

Given the different types of NPDES program data, EPA is phasing in the electronic collection, management, and transfer of NPDES program data (appendix A to 40 CFR part 127) on the following schedule. A chronological listing of implementation activities are provided in Table 8.

• Phase 1 Data: Authorized NPDES programs are required to transmit to EPA basic facility and permit information (see list of data elements in DCN 0007) for all permits as well as other data necessary for implementation of Phase 1 data collection within nine months after the effective date of the final rule. One year after the effective date of the final rule authorized NPDES programs will also start electronically transmitting to EPA their state performance data, which includes information generated from compliance monitoring (e.g., inspections), violation determinations, and enforcement actions. Additionally, one year after the effective date of the final rule, NPDES regulated entities that are required to submit DMRs (majors and nonmajors, individually permitted facilities and facilities covered by general permits) must do so electronically. EPA and authorized NPDES programs will begin electronically receiving these DMRs from all DMR filers and start sharing these data with each other. One year after the effective date of the final rule, all NPDES regulated entities in states where EPA is the authorized NPDES biosolids program (currently 42 of 50 states and all other tribal lands and territories) must electronically submit their Sewage Sludge/Biosolids Annual Program Report to EPA.

• Phase 2 Data: Authorized NPDES programs have five years to begin electronically collecting, managing, and sharing the remaining set of information in appendix A in 40 CFR part 127. This information includes: (1) General permit reports [Notice of Intent to be covered (NOI); Notice of Termination (NOT); No Exposure Certification (NOE); Low Erosivity Waiver and Other Waivers from Stormwater Controls (LEW)]; Sewage Sludge/Biosolids Annual Program Report (where the state is the authorized NPDES biosolids program); and all other remaining NPDES program reports (e.g., CAFO Annual Report, Pretreatment Program Annual Report). Authorized NPDES programs will also share with EPA all data necessary for implementation of Phase 2 data collection three months before the Phase 2 deadline (e.g., general permit parameters). Additionally, one year after the effective date of the final rule, authorized NPDES programs are required to submit an IP for meeting the Phase 2 data requirements to EPA for EPA to review.

• NNCR and Other State Reporting: EPA will replace a number of currently required state reports (e.g., QNCR and ANCR) with the new NNCR when EPA has more a timely, complete, more accurate, and nationally-consistent set of data about the NPDES program. Full implementation of the NNCR and phase out of certain state reports will only be possible one full year after full implementation of Phase 2 data collection. A complete set of Phase 1 and 2 data are necessary to develop and produce the NNCR.

Table 8—Chronological Listing of Implementation Activities
Key milestones | Date
Final NPDES Electronic Reporting Rule—Effective Date | Sixty days after publication in the Federal Register.
Authorized NPDES programs will start incorporating the new electronic reporting requirements into new or re-issued NPDES permits upon the effective date of this final rule. Authorized NPDES programs can incorporate electronic reporting requirements into NPDES permits through use of a minor modification process [see 40 CFR 122.63(f)] | Effective Date of Final Rule.
A state, tribe, or territory that seeks authorization to implement an NPDES program must describe if it is requesting to be the initial recipient of electronic NPDES information from NPDES-regulated facilities for specific NPDES data groups. See 40 CFR 123.22(g) and appendix A to 40 CFR part 127 | 90 days after the Effective Date of Final Rule.
Authorized NPDES programs will decide the NPDES data groups for which they wish to be the initial recipient of electronic NPDES information from NPDES-regulated entities. The final rule uses an `opt-out' approach so these authorized programs will need to provide notice to EPA if they wish for EPA to be the initial recipient for one or more of their NPDES data groups. These notices should be sent to EPA within 120 days of the effective date of the final rule | 120 days after the Effective Date of Final Rule.
EPA will publish on its Website and in the Federal Register a listing of the initial recipients for electronic NPDES information from NPDES-regulated entities by state, tribe, or territory and by NPDES data group. This listing will provide NPDES-regulated entities the initial recipient of their NPDES electronic data submissions and the due date for these NPDES electronic data submissions | 210 days after the promulgation date for the Final Rule.
Authorized NPDES programs will electronically transmit to EPA basic facility and permit information (see list of data elements in DCN 0007) for all permits as well as other data necessary for implementation of Phase 1 data collection within nine months after the effective date of the final rule. Authorized NPDES programs often collect these data from paper individual NPDES permit applications and forms submitted by NPDES regulated entities; however, some states collect these data from NPDES regulated entities through electronic reporting systems | Within nine months of the Effective Date of Final Rule.
One year after the effective date of the final rule, authorized NPDES programs will start sharing with EPA their state performance data, which includes information generated from compliance monitoring (e.g., inspections), violation determinations, and enforcement actions | Starting one year after the Effective Date of Final Rule.
EPA and authorized NPDES programs will begin electronically receiving DMRs from all DMR filers [40 CFR 122.41(l)(4)] and start sharing these data with the designated EPA and state NPDES data systems | Starting one year after the Effective Date of Final Rule.
All NPDES regulated entities in states where EPA is the authorized NPDES biosolids program (currently 42 of 50 states and all other tribal lands and territories) must electronically submit their Sewage Sludge/Biosolids Annual Program Reports [40 CFR part 503] to EPA | Starting one year after the Effective Date of Final Rule.
Authorized NPDES programs will submit an IP to EPA for EPA's review to ensure that authorized NPDES programs will meet the Phase 2 electronic reporting deadline. The content of these plans must provide enough detail (e.g., tasks, milestones, roles and responsibilities, necessary resources) to ensure that EPA and authorized NPDES programs can work together to successfully implement electronic reporting. The IP will also document the process for evaluating and approving temporary and permanent electronic reporting waivers from NPDES regulated entities | One year after the Effective Date of Final Rule.
EPA will separately calculate the electronic reporting participation rate for each authorized NPDES program and for DMRs and the Sewage Sludge/Biosolids Annual Program Reports. EPA will assess the electronic reporting participation rate for individually permitted facilities separate from the electronic reporting participation rate for general permit covered facilities for DMRs | Eighteen months after the Effective Date of Final Rule and annually thereafter.
Per existing NPDES regulations [see 40 CFR 123.62(e)], authorized states, tribes, and territories will finish any necessary regulatory or statutory changes to their NPDES programs | Two years after the Effective Date of Final Rule.
Authorized NPDES programs will electronically transmit to EPA the data necessary for implementation of Phase 2 data collection (three months prior to Phase 2 deadline) | Within four years and nine months of the Effective Date of Final Rule.
NPDES regulated entities will start electronically submitting their Phase 2 data. This information includes: | Starting five years after the Effective Date of Final Rule.
• General Permit Reports [Notices of Intent to discharge (NOIs); Notices of Termination (NOTs); No Exposure Certifications (NOEs); Low Erosivity Waivers or Other Waivers from Stormwater Controls (LEWs)] [40 CFR 122.26(b)(15), 122.28 and 124.5];
• Sewage Sludge/Biosolids Annual Program Reports [40 CFR part 503]—where the state is the authorized NPDES program;
• Concentrated Animal Feeding Operation (CAFO) Annual Program Reports [40 CFR 122.42(e)(4)];
• Municipal Separate Storm Sewer System (MS4) Program Reports [40 CFR 122.34(g)(3) and 122.42(c)];
• Pretreatment Program Reports [40 CFR 403.12(i)];
• Significant Industrial User Compliance Reports in Municipalities Without Approved Pretreatment Programs [40 CFR 403.12(e) and (h)];
• Sewer Overflow/Bypass Event Reports [40 CFR 122.41(l)(4), (l)(6) and (7), (m)(3)]; and
• CWA section 316(b) Annual Reports [40 CFR part 125, subpart J]
Authorized NPDES programs will also need to re-submit their waiver process descriptions to EPA for review on a five year cycle. EPA will inform the state if its waiver process description is inadequate. This will allow EPA and authorized NPDES programs to assess the effectiveness of the waiver process against advances in information technology | Starting five years after the Effective Date of Final Rule.
EPA will separately calculate the electronic reporting participation rate for each authorized NPDES program and for each NPDES data group | Five years and six months after the Effective Date of Final Rule and annually thereafter.
Upon successful implementation of Phase 1 and 2, authorized NPDES programs will stop generating the Quarterly Non-Compliance Report (QNCR), the Annual Non-Compliance Report (ANCR), the Semi-Annual Statistical Summary Report, and the part 501 annual biosolids report | Starting six years after the Effective Date of Final Rule.
EPA will starting publishing the NPDES Noncompliance Report (NNCR) | Starting six years after the Effective Date of Final Rule with annual and quarterly updates thereafter.

B. Roles and Responsibilities

1. Authorized NPDES Programs

This rule does not change the governing responsibilities of authorized NPDES programs or EPA. Authorized NPDES programs will start incorporating the new electronic reporting requirements into new or re-issued NPDES permits upon the effective date of this final rule. For example, changes to 40 CFR 122.41 must be incorporated into any NPDES permit that is issued on or after the effective date of this final rule.

Authorized NPDES programs will decide the NPDES data groups for which they wish to be the initial recipient of electronic NPDES information from NPDES-regulated entities. The final rule uses an `opt-out' approach so these authorized programs will need to provide notice to EPA if they wish for EPA to be the initial recipient for one or more of their NPDES data groups. These notices should be sent to EPA within 120 days of the effective date of the final rule.

Authorized NPDES programs will electronically transmit to EPA basic facility and permit information (see list of data elements in DCN 0007) for all permits as well as other data necessary for implementation of Phase 1 data collection within nine months after the effective date of the final rule. Authorized NPDES programs often collect these data from paper individual NPDES permit applications and forms submitted by NPDES regulated entities; however, some states collect these data from NPDES regulated entities through electronic reporting systems.

One year after the effective date of the final rule, authorized NPDES programs will start sharing with EPA their state performance data, which includes information generated from compliance monitoring (e.g., inspections), violation determinations, and enforcement actions. Additionally, no later than one year after the effective date of the final rule, EPA and authorized NPDES programs will begin electronically receiving DMRs from all DMR filers and start sharing these data with the designated EPA and state NPDES data systems. To support the electronic collection, management, and sharing of DMR data, authorized NPDES programs will need to update their technology and infrastructure. For example, authorized NPDES programs may elect to use EPA's NPDES data system (ICIS-NPDES) and electronic reporting system (NetDMR) to collect, manage, and share DMR data or authorized NPDES programs may choose devote their resources to develop their own such data systems while meeting the regulatory requirements of 40 CFR part 3 (including, in all cases, subpart D), 40 CFR 122.22, and 40 CFR part 127. EPA will continue to closely work with authorized NPDES programs to help them develop their NPDES data systems in a cost-effective manner.

Authorized NPDES programs will also likely need to provide training materials and resources to NPDES regulated entities (e.g., staff time to answer questions from NPDES regulated entities). These training materials and resources will help provide NPDES regulated entities with the necessary guidance and knowledge to utilize the appropriate electronic reporting system. In particular, NPDES regulated entities will need to learn how to obtain an electronic signature as well as how to register and maintain their login information for the appropriate electronic reporting system.

Similarly, no later than five years after the effective date of the final rule EPA and authorized NPDES programs will start electronically receiving Phase 2 data from all NPDES regulated entities and start sharing these data with the designated EPA and state NPDES data systems. Authorized NPDES programs will submit an IP to EPA for EPA's review to ensure that authorized NPDES programs will meet this Phase 2 deadline. The content of these plans must provide enough detail (e.g., tasks, milestones, roles and responsibilities, necessary resources) to ensure that EPA and authorized NPDES programs can work together to successfully implement electronic reporting. See Section V.B.2. These IPs need to be submitted to EPA for review within one year of the effective date of the final rule. EPA will inform the state if its implementation plan is inadequate. EPA will post the IPs on its Web site to provide the public with greater transparency on the milestones and tasks each state will be taking to move towards electronic reporting. Authorized NPDES program will also share with EPA all data necessary for implementation of Phase 2 data collection three months before the applicable Phase 2 deadline. EPA will work with each authorized NPDES program to identify the appropriate deadline for the Phase 2 implementation data. Authorized NPDES programs will also need to update their state NPDES data system to support electronic reporting as well as develop training materials and resources for NPDES regulated entities.¹²

¹² EPA notes that some authorized NPDES programs have adopted EPA's national NPDES data system (ICIS-NPDES).

Finally, authorized NPDES programs will also need to document and submit to EPA for approval their process for evaluating and approving temporary and permanent electronic reporting waivers from NPDES regulated entities. This discussion will be contained in the IP. Authorized NPDES programs will also need to re-submit their waiver process descriptions to EPA for review on a five year cycle. EPA will inform the state if its waiver process description is inadequate. This will allow EPA and authorized NPDES programs to assess the effectiveness of the waiver process against advances in information technology. To facilitate an orderly transition to electronic reporting, authorized NPDES programs may issue temporary waivers to DMR filers prior to EPA's review of the program's IP or waiver process description submission to EPA. These waivers may not have a duration longer than five years.

EPA estimates that some authorized NPDES programs may need to update their regulations or statutes to make clear that electronic reporting is required for the reports listed in Table 1 of appendix A and that these electronic submissions must be compliant with 40 CFR part 127 (including appendix A) and 40 CFR part 3 (including, in all cases, subpart D) (CROMERR—authentication and encryption standards). Existing EPA regulations at 40 CFR 123.62(e) require that any updates to the authorized NPDES program take place within one-year of the effective date of the final rule (if only a regulatory change is required) and within two years of the effective date of the final rule (if a state statute change is required). Accordingly, all authorized NPDES programs should complete any necessary updates to their state regulations and statutes within two years of the effective date of the final rule.

Finally, the final rule will also lighten the reporting burden currently placed on the authorized NPDES programs. Upon successful implementation of Phase 1 and 2, the final rule will provide authorized NPDES programs with regulatory relief from reporting associated with the Quarterly Non-Compliance Report (QNCR), the Annual Non-Compliance Report (ANCR), the Semi-Annual Statistical Summary Report, and the biosolids information required to be submitted to EPA annually by authorized NPDES programs. EPA will coordinate the switch over from the existing set of state reporting requirements to the new EPA generated NNCR.

2. NPDES Regulated Entities

NPDES permitted entities should expect to see new electronic reporting requirements in NPDES permits that are issued on or after the effective date of this final rule. In particular, NPDES permitted entities will be required to identify the initial recipient for their NPDES data submissions (in compliance with 40 CFR 122.41). In particular, NPDES permittees will consult EPA's Web site to identify the initial recipient for their NPDES data submissions. EPA will update and maintain the listing of initial recipients.

NPDES permitted entities should expect to electronically submit their DMRs no later than one year after the effective date of the final rule. NPDES permittees will need to be familiar on how to electronically report their DMRs using the approved electronic reporting system. Their permitting authority will provide training materials and resources to help NPDES regulated entities with the necessary guidance and knowledge to utilize the appropriate electronic reporting system. In particular, NPDES regulated entities will need to learn how to register and maintain an electronic signature as well as how to register and maintain their login information for the appropriate electronic reporting system.

Similarly, five years after the effective date of the final rule, NPDES regulated entities will start electronically submitting their Phase 2 data. NPDES permitted entities will identify the initial recipient for their Phase 2 data submissions (in compliance with 40 CFR 122.41) by consulting with EPA's Web site. EPA's Web site will also provide notice of the deadline for these Phase 2 electronic data submissions and information on the approved electronic reporting systems. NPDES regulated entities should also note that they may be required to use more than one electronic reporting system for their Phase 1 and 2 data submissions. For example, a POTW may be required to use a state e-DMR system to electronically report its DMRs (as the state is the authorized NPDES program for NPDES permits) and EPA's NeT to report their Sewage Sludge/Biosolids Annual Program Report (as EPA is the NPDES program for the Federal biosolids program). For NPDES-regulated entities that will use EPA's electronic reporting systems, EPA will work closely with states, tribes, territories, and NPDES-regulated entities to provide sufficient training and registration support prior to the start of each implementation phase.

Finally, as previously noted, the purpose of appendix A is to ensure that there is consistent and complete reporting nationwide, and to expedite the collection and processing of the data, thereby reducing burden and making the data more timely, accurate, complete, useful, and transparent for everyone. This final rule changes the mode of transmission of NPDES data but does not increase the amount of NPDES information required to be reported under existing regulations. The evolution of appendix A reflects over ten years of EPA working closely with the states to identify the critical data elements that permitting authorities need to implement the NPDES program.

3. EPA

EPA Regions that issue NPDES permits will continue to incorporate electronic reporting requirements into new or re-issued NPDES permits and will be required to do so upon the effective date of this final rule. EPA will also incorporate the final rule requirements into the few nationwide permits that it issues in accordance with the rule's implementation schedule. This will help communicate and confirm the electronic reporting responsibilities of NPDES regulated entities.

EPA Headquarters will hold regular teleconferences and webinars with authorized NPDES programs during the transition period from paper reporting to electronic reporting to assist with data collection, management, and sharing activities. EPA will use these teleconferences and webinars to address general issues associated with electronic reporting as well as specific state needs and questions.

EPA will also coordinate with authorized NPDES programs and update the data sharing process to include all the required set of NPDES program data (appendix A to 40 CFR part 127) between EPA and the authorized NPDES programs (see DCN 0191 for an overview of the current data sharing process). EPA will also update its data systems (e.g., ICIS-NPDES, NetDMR, NeT) to incorporate all the required set of NPDES program data. EPA will prioritize its actions to first support the collection, management, and sharing of Phase 1 data. EPA will continue to closely work with authorized NPDES programs to help them develop their NPDES data systems in a cost-effective manner. This includes providing training materials and resources to states that adopt EPA's data systems [e.g., Central Data Exchange (CDX), CROMERR shared services, ICIS-NPDES, NetDMR, NeT].

EPA will maintain the initial recipient list for each state and by each NPDES data group and will publish this list on its Web site and in the Federal Register as changes occur. EPA will first publish this listing within 180 days of the effective date of the final rule. This listing will provide NPDES-regulated entities the initial recipient of their NPDES electronic data submissions and the due date for these NPDES electronic data submissions.

One year after the effective date of the final rule, EPA will receive state performance data, which includes information generated from compliance monitoring (e.g., inspections), violation determinations, and enforcement actions, in its national NPDES data system (i.e., ICIS-NPDES). EPA will do the same for the data that it generates from its own inspections, violation determinations, and enforcement actions. Additionally, one year after the effective date of the final rule, EPA and authorized NPDES programs will begin electronically receiving DMRs from all DMR filers and start sharing these data with each other. Additionally, one year after the effective date of the final rule EPA will electronically collect and manage data from Sewage Sludge/Biosolids Annual Program Reports that are submitted by NPDES regulated entities in states where EPA is the authorized NPDES biosolids program (currently 42 of 50 states and all other tribal lands and territories).

Under the implementation schedule for this final rule, the Agency will assess the electronic reporting participation rate of NPDES regulated entities in each state and by each data group to determine when it would be appropriate to use its individual notices to compel electronic reporting. For example, EPA would likely use individual notices when the authorized state, tribe, or territory has less than 90-percent participation rate for one or more data groups (e.g., MS4 program reports). EPA will separately calculate the participation rate for each state and for each data group no later than six months after the deadline for conversion from paper to electronic submissions (e.g., 18 months after the effective date of the final rule for DMRs). As appropriate, EPA will then send notice to the NPDES regulated entities that are not utilizing electronic reporting (e.g., 21 months after the effective date of the final rule for DMRs). This notice will direct NPDES regulated entities to use their authorized NPDES program's electronic reporting system. Failure to comply with this notice will result in noncompliance with the CWA and may result in penalties. EPA will repeat its review of the participation rate for each state and for each data group on an annual basis, as needed, and send out notices as appropriate.

Similar to Phase 1 implementation, no later than five years after the effective date of the final rule EPA and authorized NPDES programs will begin electronically receiving Phase 2 data from all NPDES regulated entities and start sharing these data with each other. EPA will review the Phase 2 data IPs from authorized NPDES programs. This IP will also include a description of the program's waiver approval processes. EPA will finish its review of these IPs and waiver process descriptions no later than six months after receipt. EPA will inform the state if its implementation plan or waiver process description is inadequate. EPA will post these IPs and waiver process description notices on its Web site to provide the public with greater transparency on the milestones and tasks each state will be taking to move towards electronic reporting.

Finally, EPA will work with authorized NPDES programs to develop the NNCR. Upon successful implementation of Phase 1 and 2, EPA will work with authorized NPDES programs to coordinate the switch over from the existing set of state reporting requirements (i.e., QNCR, ANCR, the Semi-Annual Statistical Summary Report, and the biosolids information required to be submitted to EPA annually by states) to the new EPA generated NNCR. EPA will publish the NNCR on its Web site on a quarterly basis.

C. Other Aspects of Regulatory Implementation

1. Copy of Record

EPA is clarifying that the final rule does not change EPA's authentication and encryption standards for electronic reporting. Below is a discussion of the copy of record as it pertains to the implementation of electronic reporting.

An important element of EPA's authentication and encryption standards for electronic reporting is the “copy of record.” See 40 CFR 3.3. A copy of record must:

• Be a true and correct copy of the electronic document that was received, and it must be legally demonstrable that it is in fact a true and correct copy;

• include all the electronic signatures that have been executed to sign the document or components of the document;

• include the date and time of receipt to help establish its relation to submission deadlines; and,

• be viewable in a human-readable format that clearly indicates what the submitter and, where applicable, the signatory intended that each of the data elements or other information items in the document means.

For such CROMERR-compliant submissions, the copy of record is intended to serve as the electronic surrogate for what is commonly referred to as the paper submission with a “wet-ink” signature. The copy of record is meant to provide an authoritative answer to the question of what was actually submitted and, as applicable, what was signed and certified in the particular case.

It is important to note that the use of an electronic reporting system may dictate where the electronic copy of record is retained. EPA retains the copy of record for electronic submission made through its electronic reporting tools (e.g., NetDMR and NeT). Likewise, state electronic reporting systems will contain the electronic copy of record for submissions made with these state systems.

Under the “Dual Reporting” scenario, as described in Table 3, the authorized NPDES program may elect to designate EPA as the initial recipient and EPA would electronically collect NPDES program data directly from NPDES-regulated entities. Under this scenario these entities would also make a paper submission of the same report with a “wet-ink” signature to the state (as required by their NPDES permit). In these cases, the paper submission to the state with a “wet-ink” signature is the copy of record.

2. Cross-Media Electronic Reporting Regulation (CROMERR)

EPA's final rule requires that all electronic reporting systems that are used for implementing NPDES electronic reporting, whether already existing or to be developed by EPA and authorized NPDES programs, be compliant with subpart D of EPA's CROMERR (see 40 CFR part 3). CROMERR sets performance-based, technology-neutral standards for systems that states, tribes, and local governments use to receive electronic reports from facilities they regulate under EPA-authorized programs. CROMERR also addresses electronic reporting directly to EPA.

EPA notes that state or EPA systems that use the Hybrid Approach, which is discussed in Section V, uses the paper document with a “wet-ink” signature as the copy of record. The related electronic data transfer from the Hybrid Approach is not a submission within the meaning of CROMERR. Additionally, the Hybrid Approach option still requires compliance with the regulatory requirements of 40 CFR 122.22 and 40 CFR part 127 and any additional permit requirements.

Under this rule, NPDES-regulated entities (e.g., POTWs) are not required to submit a CROMERR application to electronically report NPDES program data. However, it is the responsibility of the authorized NPDES programs receiving these electronically reported NPDES program data to obtain approval from EPA for their electronic reporting systems and processes in accordance with EPA's CROMERR requirements. Under the final rule, NPDES-regulated entities that electronically report their NPDES program data will use CROMERR-approved electronic reporting systems and processes. Authorized NPDES programs are responsible for submitting CROMERR applications for their electronic reporting system and NPDES-regulated entities are only required to complete the necessary signature requirements for that system.

EPA also notes that CROMERR requires state, tribal or local government agencies that receive, or wish to begin receiving electronic reports under their EPA-authorized programs (e.g., CWA pretreatment program) to apply to EPA for a revision or modification of those programs and obtain EPA approval. However, an important consideration is that the final rule does not require approved pretreatment programs to electronically collect NPDES program data from significant and categorical industrial users. Approved pretreatment programs may continue to collect NPDES program data from significant and categorical industrial users on paper.

3. Electronic Reporting for the Pesticides General Permit and Vessels General Permit

Several commenters had questions regarding the application of the proposed rule to regulated entities subject to EPA's Pesticides General Permit and Vessels General Permit. EPA provides NPDES permit coverage for pesticide applicators in states where EPA is the permitting authority and vessel operators nationwide. EPA is not exempting these two permits from the NPDES Electronic Reporting Rule. Specifically, EPA's General Permit regulations (40 CFR 122.28) apply to all general permits and EPA's proposed revisions to this regulatory language that implement electronic reporting do not exclude pesticide applicators or vessel operators (or any other sector or general permit). However, vessel incidental discharges and discharges from the application of pesticides are atypical from more traditional permitted discharges and as such, some of the data elements in Appendix A may not be appropriate as written. For example, there may not be a fixed address of where pesticide applications occur (i.e., the activity permitted) and the actual location of such pesticide application activities may not be known until the time when those pesticides are actually applied (i.e., at some point in time after that operator obtains NPDES permit coverage). Similarly, vessel operators often do not know into which waters they will discharge at the time of obtaining permit coverage and many of these vessels are operated by foreign companies based out of foreign ports (with non-US mailing addresses and phone numbers). In these instances, EPA will gather electronic information consistent with the nature of these discharges.

4. Due Dates for State Data Entry

To include all NPDES subprograms (e.g., pretreatment, biosolids, sewer overflows, MS4 program reports, construction stormwater, industrial stormwater, cooling water intake structures), the required data set as defined by this final rule is more comprehensive than what authorized NPDES programs were previously reporting under previously existing EPA policy (see list of data elements in DCN 0007 as compared to appendix A to 40 CFR part 127). EPA will work closely with states, tribes, and territories to ensure that all authorized NPDES programs electronically transmit to EPA basic facility and permit information (see list of data elements in DCN 0007) for all permits as well as other data necessary for implementation of Phase 1 data collection within nine months after the effective date of the final rule. Collection of these data will enable NPDES regulated entities to begin electronic reporting as facility and permit data must first be entered into ICIS-NPDES for the system to accept compliance monitoring data (e.g., DMRs, Sewage Sludge/Biosolids Annual Program Reports). Additionally, collection of these data will allow authorized NPDES programs to provide their compliance inspection and enforcement data to ICIS-NPDES. EPA will also work closely with authorized NPDES programs to ensure that all of the remaining facility and permit data required by the final rule for Phase 2 (see NPDES Data Group 1 in Tables 1 and 2 of appendix A to 40 CFR part 127) are entered into ICIS-NPDES within five years after the effective date of the final rule.

Additionally, under the final rule, authorized NPDES programs must start submitting any new compliance monitoring and enforcement action data (see Appendix A to 40 CFR part 127) one year after the effective date of the final rule. These new data elements add to the existing data that states report (see DCN 0007) from their compliance monitoring activities and reflect the increased focus on the NPDES subprograms. The final rule only requires authorized NPDES programs to start entering these new compliance monitoring and enforcement action data elements into ICIS-NPDES one year after the effective date of the final rule.

5. Concentrated Animal Feeding Operations (CAFO) Sector

EPA received many comments from the animal agricultural sector in response to the proposed rule. Although this rule only changes the mode of transmission of NPDES information from paper-based reports to electronic reporting and does not address EPA's practices for managing and sharing that information, EPA received comments regarding privacy, security, management of confidential business information, and EPA's current practice of posting inspection information on unpermitted CAFOs and Animal Feeding Operations (AFOs) on its public Web site [Enforcement and Compliance History Online (ECHO)— http://echo.epa.gov]. EPA used the supplemental notice to the proposed rule to clarify the effects of the proposed rule on CAFOs in response to these comments (see 1 December 2014; 79 FR 71073).

This final rule would only require CAFOs with NPDES permits to submit information that the Clean Water Act and existing regulations already requires them to provide to permitting authorities. See 33 U.S.C. 1342. The final rule simply modernizes the format through which permitted CAFOs would submit certain types of information by requiring electronic submission as opposed to paper-based reporting. This modernized format will increase efficiencies for permitted CAFOs as well as regulators. Additionally, under this final rule a permitted CAFO can also request a temporary waiver from electronic reporting consistent with authorized NPDES program's implementation plan.

EPA also solicited comments in the supplemental notice to the proposed rule on whether it should change its current practice and begin masking facility information for unpermitted CAFOs and AFOs that EPA or state inspectors found were not discharging and do not require an NPDES permit. EPA published the following example (See Table 9) in the supplemental notice to the proposed rule showing how EPA could mask these data and solicited comments on this approach.

Table 9—Proposed Hypothetical Example of Masking Unpermitted CAFOs and AFOs that State Inspectors Found Were Not Discharging and Do Not Require an NPDES Permit
Facility #1 | Facility #2
Show-Me State Animal Farm; Location: 11300 Ozark Lane, Perryville, Missouri 63775; County: Perry; Lat.: 37.836084, Long: -89.738644; Inspection(s): 3/14/2010 (no violation identified); 6/22/2014 (discharging without an NPDES permit) | Unpermitted CAFO/AFO-0000001; Location: Missouri; County: Redacted from Website; Lat./Lon.: Redacted from Website; Inspection(s): 2/17/2009 (no violation identified); 5/25/2013 (no violation identified)

In this hypothetical example, the unpermitted CAFO shown in the column labeled “Facility #1” would not have its facility and contact information displayed on EPA's public Web site until the weekly refresh of ECHO data from ICIS-NPDES after 22 June 2014, which is the date the state or EPA Region identified that the facility had a Clean Water Act violation (i.e., discharging without an NPDES permit) and entered these data into ICIS-NPDES. If an unpermitted CAFO does not have a Clean Water Act violation as determined by the authorized NPDES program or EPA, then the facility and contact information would not be displayed on EPA's ECHO Web site (see the column labeled “Facility #2” in the above table).

EPA also solicited input on potential changes to its national NPDES data system (ICIS-NPDES), which are necessary to provide authorized NPDES programs and Regions with the capability to identify these non-permitted CAFO/AFOs that do not require an NPDES permit (1 December 2014; 79 FR 71080).

Comments from the animal agricultural sector were in favor of this proposed approach while other commenters (e.g., environmental advocacy groups) were not. Some authorized NPDES programs also support this as a reasonable approach in balancing the competing interests of privacy and public access to these data. Separate from this rulemaking, in light of concerns raised regarding the privacy interests of an unpermitted CAFO or AFO that an authorized NPDES program or EPA has assessed and found to have not violated the Clean Water Act, EPA will change its current practice and mask on the ECHO public Web site the related facility-specific facility information (see Table 9).

EPA will implement this data masking in an iterative, two-step process. EPA is using a two-step process because unpermitted facilities in EPA's national NPDES data system (ICIS-NPDES) cannot currently be identified by CAFO permit component data. As a first step, EPA will use other currently available data in ICIS-NPDES to identify unpermitted CAFOs or AFOs that an authorized NPDES program or EPA have assessed and not found any Clean Water Act violations (see DCN 0207). EPA plans to implement this interim approach by the effective date of this final rule.

EPA plans to supersede the first approach with a second data masking approach outlined in the supplemental notice to the proposed rule (1 December 2014; 79 FR 71080). The second data masking approach will only use CAFO permit component data to identify unpermitted CAFOs and AFOs (see DCN 0207). This second approach will take more time to implement as upgrades to ICIS-NPDES and coordination with authorized NPDES programs are necessary to identify the exact set of unpermitted CAFOs and AFOs that an authorized NPDES program or EPA has assessed and found to have not violated the Clean Water Act. EPA anticipates it will need a year after the final rule to adopt this second data masking approach.

VIII. Statutory and Executive Order Reviews

A. Executive Order 12866: Regulatory Planning and Review and Executive Order 13563: Improving Regulation and Regulatory Review

This action is a “significant regulatory action” that was submitted to the Office of Management and Budget (OMB) for review. Any changes made in response to OMB's recommendations are documented in the docket. In addition, EPA prepared a detailed analysis of the potential costs, savings, and benefits of this action. That analysis, the “Economic Analysis of the NPDES Electronic Reporting Rule (Final),” can be found in the EPA docket (see DCN 0197), and is summarized in Section VI.

B. Paperwork Reduction Act

The Office of Management and Budget (OMB) has approved the information collection activities contained in this rule under the PRA and has assigned OMB control number 2020-0035. The ICR may be found in the docket for this rule (see DCN 0237), and it is briefly summarized here.

EPA is promulgating this final regulation to allow better allocation and use of limited program resources and enhance transparency by providing a timelier, complete, more accurate, and nationally-consistent set of data about the NPDES program.

The projected burden and cost of the final regulation are summarized in Table 10. Note that, consistent with the Information Collection Request (ICR), these estimates reflect the net burden and cost to regulated facilities and states, tribes, and territories over the first three years following promulgation of the rule (as ICRs are limited to three years; however, they can be renewed).

Table 10—Projected Burden and Cost Over the First Three Years of the Final Rule
Unit of Analysis | Affected entity: Regulated entities | Affected entity: States
Average Annual Number of Respondents ᵃ | 213,349 | 47
Average Annual Number of Responses | 78,477 | 1,135,376
Average Annual Incremental Burden (hours) | 118,577 | −315,814
Average Annual Incremental Cost | $6,867,716 | −$1,072,586
Average Annual Incremental Burden per Respondent (hours) | 0.56 | −6,719
Average Annual Incremental Burden per Response (hours) | 1.51 | −0.28
Average Annual Incremental Cost per Respondent | $32.19 | −$22,821
Average Annual Incremental Cost per Response | $87.51 | −$0.94
ᵃ The number of respondents includes regulated entities that both submit information (a response) and experience a cost or cost savings while the number of responses is limited to a count of information submissions. Thus, there are more affected respondents than responses.

An agency may not conduct or sponsor, and a person is not required to respond to, a collection of information unless it displays a currently valid OMB control number. The OMB control numbers for the EPA's regulations in 40 CFR are listed in 40 CFR part 9. In addition, the EPA is amending the table in 40 CFR part 9 to list the regulatory citations for the information collection activities contained in this final rule.

C. Regulatory Flexibility Act

I certify that this action will not have a significant economic impact on a substantial number of small entities under the RFA. The small entities subject to the requirements of this action are small businesses (e.g., industrial sectors, electricity generating facilities, and agricultural sectors) and small governmental jurisdictions (e.g., POTWs operated by municipalities).

The Agency has determined that 108,035 of 108,036 (99.99%) small entities considered in this analysis will experience an impact of less than 1% percent of revenues. Details of this analysis are presented in Chapter 5 of the following document in the rulemaking docket, “Economic Analysis of the NPDES Electronic Reporting Rule (Final),” (see DCN 0197).

D. Unfunded Mandates Reform Act (UMRA)

This final rule does not contain an unfunded mandate of $100 million as described in UMRA, 2 U.S.C. 1531-1538, and does not significantly or uniquely affect small governments. EPA conducted an economic analysis examining various options including the potential burden to state, tribal, and territorial governments. EPA estimates that the rule would not only cost states, tribes, territories, and local governments well below the threshold of $100 million, it will actually result in cost savings over time.

E. Executive Order 13132: Federalism

This action may have federalism implications, because it imposes substantial direct compliance costs on state or local governments, and the federal government will not provide the funds necessary to pay those costs. Specifically, EPA estimates costs to state governments of greater than $25 million during the first year of rule implementation.

The EPA provides the following federalism summary impact statement. The EPA consulted with state and local officials early in the process of developing the rule to permit them to have meaningful and timely input into its development. In developing the regulatory options described in this final action, EPA held a series of 49 outreach activities with state and local governments, on various aspects of the rule, including a Federalism consultation process that began in 2010, well before this action was proposed. The Environmental Council of the States, the National League of Cities, the U.S. Conference of Mayors, the National Conference of State Legislators, the Council of State Governments, the National Governors Association, and the National Association of Clean Water Agencies were among the intergovernmental groups participating in this process, along with numerous state and local government principals from across the nation.

After publication of the proposed rule, EPA also held teleconferences with authorized NPDES programs to obtain their individual views on various aspects of the proposed rule. EPA met with over twenty five states, ECOS, ACWA, and New England Interstate Water Pollution Control Commission to take into account their individual comments and concerns about the rule (see DCN 0128 to 0142, 0181, 0219 to 0229). Additionally, EPA separately contacted each authorized NPDES program to individually assess its readiness for these new electronic reporting requirements. This extensive outreach helped inform the implementation process of the final rule and the additional flexibilities that authorized states, tribes, and territories need for a measured and orderly conversion from paper to electronic reporting.

EPA specifically solicited comment on the proposed action from State and local officials. EPA received comments from over one hundred (100) entities representing State and local governments. Of these comments, many were supportive of the rule and its goals. Commentators expressed support for the rule for a number of reasons, including its ability to modernize and streamline the reporting process, its efficiency and cost-effectiveness, and its ability to offer quicker access to standardized data. Several commentators expressed hope that electronic reporting could reduce errors in ICIS-NPDES, make errors more quick and easy to correct, and expedite permit applications.

While most commenters were supportive of the proposed rule, there were several concerns that were raised by the responding state and local governments. One of the most frequently commented subjects was the implementation schedule. Many commenters noted that the proposed two phase (one year per phase) implementation schedule was “too aggressive.” EPA addressed this comment by modifying the compliance schedule in the final rule to allow five years for the second phase of implementation.

The other main comment from state and local governments was for EPA to provide authorized NPDES programs with additional flexibility in the implementation of the final rule. As noted in this preamble and in EPA's response to comments document for this rulemaking, EPA has provided authorized NPDES programs with additional flexibility for implementing this final rule. In particular, EPA has given authorized NPDES programs more flexibility in how they administer waivers from electronic reporting. In the proposed rule, EPA solicited comment on limiting waivers from electronic reporting to one year and only to areas with limited access to broadband internet. After consultation with authorized NPDES programs, EPA has eliminated the condition of limited access to broadband internet as an eligibility factor for an electronic reporting waiver. Instead, EPA has provided authorized NPDES programs with the ability to grant waivers to facilities for up to five years and for any factors that they deem appropriate.

Additionally, authorized NPDES programs asked for more flexibility in how they implement electronic reporting for the construction stormwater sector. In particular, states requested an option to allow construction operators to electronically submit data without CROMERR authentication. After consultation with authorized NPDES programs, EPA has included an option, which first suggested by an authorized NPDES program, to allow construction operators to simultaneously submit NPDES program data electronically without CROMERR authentication as long as they also submit these data on paper with a handwritten signature. This “Hybrid Approach” is discussed in the preamble to this final rule. This additional flexibility will allow states to electronically collect and manage data on construction sites and will also allow construction operators to submit their NOIs without having to first obtain CROMERR authentication.

Finally, as a means to “fill in the gaps” where NPDES-regulated entities are not yet reporting electronically, EPA will use its authority, as appropriate, to issue targeted individual notices requiring NPDES-regulated entities to electronically report their NPDES program data (appendix A to 40 CFR part 127). EPA initially proposed to have these data come directly to EPA. Authorized NPDES programs suggested that instead EPA should require NPDES regulated entities to use state, tribe, or territorial electronic reporting systems that are in compliance with the final rule, as this would be more efficient. In this final rule, EPA is adopting the approach recommended by authorized NPDES programs.

A complete list of the comments from State and local governments has been provided to the Office of Management and Budget and has been placed in the docket for this rulemaking. In addition, the detailed response to comments from these entities is contained in EPA's response to comments document for this rulemaking (see DCN 0218).

F. Executive Order 13175: Consultation and Coordination With Indian Tribal Governments

This action has tribal implications. However, it will neither impose substantial direct compliance costs on federally recognized tribal governments, nor preempt tribal law. Although no tribes have yet received approval from EPA to implement an authorized NPDES program, this final rule will impose electronic reporting requirements on tribal facilities and on facilities operating on tribal lands.

EPA consulted with tribal representatives in developing this rule via conference calls and webinars with the National Tribal Caucus and National Tribal Water Counsel in November 2010 (DCN 0232). No concerns were raised during those consultations.

In addition, EPA mailed information to 563 tribes regarding an opportunity to participate in two additional tribal outreach efforts in December 2010.

As required by section 7(a), the EPA's Tribal Consultation Official has certified that the requirements of the executive order have been met in a meaningful and timely manner. A copy of the certification is included in the docket for this action.

G. Executive Order 13045: Protection of Children From Environmental Health Risks and Safety Risks

EPA interprets Executive Order 13045 as applying only to those regulatory actions that concern health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution, or Use

This action is not a “significant energy action” because it is not likely to have a significant adverse effect on the supply, distribution, or use of energy.

I. National Technology Transfer and Advancement Act

This rulemaking involves environmental monitoring or measurement. Consistent with the Agency's Performance Based Measurement System (“PBMS”), EPA has decided to allow the use of any method that meets the prescribed performance criteria. The PBMS approach is intended to be more flexible and cost-effective for the regulated community; it is also intended to encourage innovation in analytical technology and improved data quality. EPA is not precluding the use of any method, whether it constitutes a voluntary consensus standard or not, as long as it meets the performance criteria specified.

EPA has decided to use the following data standards, which were developed by the Exchange Network Leadership Council (ENLC). This entity governs the National Environmental Information Exchange Network (NEIEN). The ENLC identifies, prioritizes, and pursues the creation of data standards for those areas where information exchange standards will provide the most value in achieving environmental results. The ENLC involves tribes and tribal nations, state, and federal agencies in the development of the standards. More information about ENLC is available at www.exchangenetwork.net.

• Enforcement and Compliance Data Standard, Standard No.: EX000026.2, July 30, 2008. This data standard identifies and defines the major areas of enforcement and compliance information that could be used for the exchange of data among environmental agencies and other entities. The purpose of the standard is to provide a common lexicon, so that information about functionally similar activities and/or instruments can be stored and to provide and receive data in a clearly defined and uniform way.

• Permitting Information Data Standard, Standard No.: EX000021.2, January 6, 2006. This data standard should be used in this regulation because it specifies the key data groupings necessary for the consistent identification of information pertaining to permits of interest to environmental information exchange partners. This data standard provides a minimum set of data, which need to be reported for permitting information such as permit name, number, type, organization or facility name, and affiliation type.

• Facility Site Identification Data Standard, Standard No.: EX000020.2, January 6, 2006. The purpose of this data standard is to identify a facility of environmental interest. This data standard should be used in this regulation because it provides for the unique identification of facilities regulated or monitored by EPA, states, tribes, and territories. Each facility is assigned a unique facility identification number, which identifies information for the facility specified. This standard provides and describes data groupings that are used to exchange facility site identification data and information. This standard helps EPA, states, tribes, and territories integrate and share facility information across multiple information systems, programs, and governments.

• Contact Information Data Standard, Standard No.: EX000019.2, January 6, 2006. This data standard should be used in this regulation because it provides information regarding the source of contact. This standard offers data groupings that are used to describe a point of contact, address, and communication information. For example, the data grouping “Point of Contact” subdivides to lower levels such as individual, affiliation, and organization. These intermediate data groupings are further defined at the elemental levels with Name, Title, Code, and Prefix.

• Representation of Date and Time Data Standard, Standard No.: EX000013.1, January 6, 2006. This data standard should be used in this regulation because it provides and describes data groupings that are used for exchange of Date and Time data and information. The standard provides information on the high level, intermediate, and elemental representation of date and time data groupings.

• Latitude/Longitude Data Standard, Standard No.: EX000017.2, January 6, 2006. This data standard should be used in this regulation because it establishes the requirements for documenting latitude and longitude coordinates and related method, accuracy, and description data for all places used in the data exchange transaction. Places include facilities, sites, monitoring stations, observations points, and other regulated or tracked features. This standard describes data and data groupings that are used to exchange latitude and longitude data and information. The purpose of the standard is to provide a common set of data to use for recording horizontal and vertical coordinates and associated metadata that define a point on the earth.

• SIC/NAICS Data Standard, Standard No.: EX000022.2, January 6, 2006. This data standard should be used in this regulation because it provides a common set of data groupings to specify a way to classify business activities, including industry classifications, product classifications, and product codes. This data standard provides information on business activity according to the Standard Industrial Classification (SIC) and North American Industrial Classification System (NAICS).

J. Executive Order 12898: Federal Actions To Address Environmental Justice in Minority Populations and Low-Income Populations

EPA has determined that this final rule will not have disproportionately high and adverse human health or environmental effects on minority or low-income populations because it does not affect the level of protection provided to human health or the environment. This final rule offers substantial environmental justice benefits. As described in the context of non-monetary benefits, discussed in Section VI and described below, the final rule would significantly increase transparency and access to crucial information that is relevant to the protection of the health and environment of minority, low income, and tribal populations.

K. Congressional Review Act (CRA)

This action is subject to the CRA, and the EPA will submit a rule report to each House of the Congress and to the Comptroller General of the United States. This action is not a “major rule” as defined by 5 U.S.C. 804(2).

List of Subjects

40 CFR Part 9

Environmental protection, Reporting and recordkeeping requirements.

40 CFR Part 122

Environmental protection, Administrative practice and procedure, Confidential business information, Hazardous substances, Incorporation by reference, Reporting and recordkeeping requirements, Water pollution control.

40 CFR Part 123

Environmental protection, Administrative practice and procedure, Confidential business information, Hazardous substances, Indians-lands, Intergovernmental relations, Penalties, Reporting and recordkeeping requirements, Water pollution control.

40 CFR Part 124

Environmental protection, Administrative practice and procedure, Air pollution control, Hazardous waste, Indians-lands, Reporting and recordkeeping requirements, Water pollution control, Water supply.

40 CFR Part 127

Environmental protection, Administrative practice and procedure, Automatic data processing, Electronic data processing, Hazardous substances, Intergovernmental relations, Reporting and recordkeeping requirements, Sewage disposal, Waste treatment and disposal, Water pollution control.

40 CFR Part 403

Environmental protection, Confidential business information, Reporting and recordkeeping requirements, Waste treatment and disposal, Water pollution control.

40 CFR Part 501

Environmental protection, Administrative practice and procedure, Indians-lands, Intergovernmental relations, Penalties, Reporting and recordkeeping requirements, Sewage disposal.

40 CFR Part 503

Environmental protection, Reporting and recordkeeping requirements, Sewage disposal.

Dated: September 24, 2015.
Gina McCarthy,
Administrator.

For the reasons cited in the preamble, title 40, chapter I is amended as follows:

PART 9—OMB APPROVALS UNDER THE PAPERWORK REDUCTION ACT

1. The authority citation for part 122 continues to read as follows:

Authority: 7 U.S.C. 135 et seq., 136-136y; 15 U.S.C. 2001, 2003, 2005, 2006, 2601-2671; 21 U.S.C. 331j, 346a, 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by adding the following section in numerical order under a new heading titled “NPDES Electronic Reporting” to read as follows:

§ 9.1 OMB approvals under the Paperwork Reduction Act.

* * * * *

40 CFR citation | OMB control No.
* * * * *
NPDES Electronic Reporting
127.26 | 2020-0035.
* * * * *

* * * * *

PART 122—EPA ADMINISTERED PERMIT PROGRAMS: THE NATIONAL POLLUTANT DISCHARGE ELIMINATION SYSTEM

3. The authority citation for part 122 continues to read as follows:

Authority: The Clean Water Act, 33 U.S.C. 1251 et seq.

4. Amend § 122.22 by adding paragraph (e) to read as follows:

§ 122.22 Signatories to permit applications and reports (applicable to State programs, see § 123.25).

* * * * *

(e) Electronic reporting. If documents described in paragraph (a) or (b) of this section are submitted electronically by or on behalf of the NPDES-regulated facility, any person providing the electronic signature for such documents shall meet all relevant requirements of this section, and shall ensure that all of the relevant requirements of 40 CFR part 3 (including, in all cases, subpart D to part 3) (Cross-Media Electronic Reporting) and 40 CFR part 127 (NPDES Electronic Reporting Requirements) are met for that submission.

* * * * *

5. Amend § 122.26 by:

a. Revising paragraphs (b)(15)(i)(A) and (g)(1)(iii).

b. Adding paragraph (b)(15)(i)(C).

The revisions and addition read as follows:

§ 122.26 Storm water discharges (applicable to State NPDES programs, see § 123.25).

(b) * * *

(15) * * *

(i) * * *

(A) The value of the rainfall erosivity factor (“R” in the Revised Universal Soil Loss Equation) is less than five during the period of construction activity. The rainfall erosivity factor is determined in accordance with Chapter 2 of Agriculture Handbook Number 703, Predicting Soil Erosion by Water: A Guide to Conservation Planning with the Revised Universal Soil Loss Equation (RUSLE), pages 21-64, dated January 1997. The Director of the Federal Register approves this incorporation by reference in accordance with 5 U.S.C. 552(a) and 1 CFR part 51. Copies may be obtained at EPA's Water Docket, 1200 Pennsylvania Avenue NW, Washington, DC 20460. For information on the availability of this material at National Archives and Records Administration, call 202-741-6030, or go to: http://www.archives.gov/federal_register/code_of_federal_regulations/ibr_locations.html. An operator must certify to the Director that the construction activity will take place during a period when the value of the rainfall erosivity factor is less than five; or

* * * * *

(C) As of December 21, 2020 all certifications submitted in compliance with paragraphs (b)(15)(i)(A) and (B) of this section must be submitted electronically by the owner or operator to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, owners or operators may be required to report electronically if specified by a particular permit or if required to do so by state law.

* * * * *

(g) * * *

(1) * * *

(iii) Submit the signed certification to the NPDES permitting authority once every five years. As of December 21, 2020 all certifications submitted in compliance with this section must be submitted electronically by the owner or operator to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, owners or operators may be required to report electronically if specified by a particular permit or if required to do so by state law.

* * * * *

6. Amend § 122.28 by revising paragraphs (b)(2)(i) and (ii) to read as follows:

§ 122.28 General permits (applicable to State NPDES programs, see § 123.25).

* * * * *

(b) * * *

(2) * * *

(i) Except as provided in paragraphs (b)(2)(v) and (vi) of this section, dischargers (or treatment works treating domestic sewage) seeking coverage under a general permit shall submit to the Director a notice of intent to be covered by the general permit. A discharger (or treatment works treating domestic sewage) who fails to submit a notice of intent in accordance with the terms of the permit is not authorized to discharge, (or in the case of sludge disposal permit, to engage in a sludge use or disposal practice), under the terms of the general permit unless the general permit, in accordance with paragraph (b)(2)(v), contains a provision that a notice of intent is not required or the Director notifies a discharger (or treatment works treating domestic sewage) that it is covered by a general permit in accordance with paragraph (b)(2)(vi). A complete and timely, notice of intent (NOI), to be covered in accordance with general permit requirements, fulfills the requirements for permit applications for purposes of §§ 122.6, 122.21, and 122.26. As of December 21, 2020 all notices of intent submitted in compliance with this section must be submitted electronically by the discharger (or treatment works treating domestic sewage) to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, discharger (or treatment works treating domestic sewage) may be required to report electronically if specified by a particular permit or if required to do so by state law.

(ii) The contents of the notice of intent shall be specified in the general permit and shall require the submission of information necessary for adequate program implementation, including at a minimum, the legal name and address of the owner or operator, the facility name and address, type of facility or discharges, the receiving stream(s), and other required data elements as identified in appendix A to part 127. General permits for stormwater discharges associated with industrial activity from inactive mining, inactive oil and gas operations, or inactive landfills occurring on Federal lands where an operator cannot be identified may contain alternative notice of intent requirements. All notices of intent shall be signed in accordance with § 122.22. Notices of intent for coverage under a general permit for concentrated animal feeding operations must include the information specified in § 122.21(i)(1), including a topographic map.

* * * * *

7. Amend § 122.34 by revising paragraph (g)(3) introductory text to read as follows:

§ 122.34 As an operator of a regulated small MS4, what will my NPDES MS4 storm water permit require?

* * * * *

(g) * * *

(3) Reporting. Unless you are relying on another entity to satisfy your NPDES permit obligations under § 122.35(a), you must submit annual reports to the NPDES permitting authority for your first permit term. For subsequent permit terms, you must submit reports in year two and four unless the NPDES permitting authority requires more frequent reports. As of December 21, 2020 all reports submitted in compliance with this section must be submitted electronically by the owner, operator, or the duly authorized representative of the small MS4 to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, the owner, operator, or the duly authorized representative of the small MS4 may be required to report electronically if specified by a particular permit or if required to do so by state law. Your report must include:

* * * * *

8. Amend § 122.41 by:

a. Revising paragraphs (l)(4)(i), (l)(6)(i), (l)(7), and (m)(3).

b. Adding paragraph (l)(9).

The revisions and addition read as follows:

§ 122.41 Conditions applicable to all permits (applicable to State programs, see § 123.25).

* * * * *

(l) * * *

(4) * * *

(i) Monitoring results must be reported on a Discharge Monitoring Report (DMR) or forms provided or specified by the Director for reporting results of monitoring of sludge use or disposal practices. As of December 21, 2016 all reports and forms submitted in compliance with this section must be submitted electronically by the permittee to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, permittees may be required to report electronically if specified by a particular permit or if required to do so by state law.

* * * * *

(6) * * *

(i) The permittee shall report any noncompliance which may endanger health or the environment. Any information shall be provided orally within 24 hours from the time the permittee becomes aware of the circumstances. A report shall also be provided within 5 days of the time the permittee becomes aware of the circumstances. The report shall contain a description of the noncompliance and its cause; the period of noncompliance, including exact dates and times), and if the noncompliance has not been corrected, the anticipated time it is expected to continue; and steps taken or planned to reduce, eliminate, and prevent reoccurrence of the noncompliance. For noncompliance events related to combined sewer overflows, sanitary sewer overflows, or bypass events, these reports must include the data described above (with the exception of time of discovery) as well as the type of event (combined sewer overflows, sanitary sewer overflows, or bypass events), type of sewer overflow structure (e.g., manhole, combine sewer overflow outfall), discharge volumes untreated by the treatment works treating domestic sewage, types of human health and environmental impacts of the sewer overflow event, and whether the noncompliance was related to wet weather. As of December 21, 2020 all reports related to combined sewer overflows, sanitary sewer overflows, or bypass events submitted in compliance with this section must be submitted electronically by the permittee to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, permittees may be required to electronically submit reports related to combined sewer overflows, sanitary sewer overflows, or bypass events under this section by a particular permit or if required to do so by state law. The Director may also require permittees to electronically submit reports not related to combined sewer overflows, sanitary sewer overflows, or bypass events under this section.

* * * * *

(7) Other noncompliance. The permittee shall report all instances of noncompliance not reported under paragraphs (l)(4), (5), and (6) of this section, at the time monitoring reports are submitted. The reports shall contain the information listed in paragraph (l)(6). For noncompliance events related to combined sewer overflows, sanitary sewer overflows, or bypass events, these reports shall contain the information described in paragraph (l)(6) and the applicable required data in appendix A to 40 CFR part 127. As of December 21, 2020 all reports related to combined sewer overflows, sanitary sewer overflows, or bypass events submitted in compliance with this section must be submitted electronically by the permittee to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, permittees may be required to electronically submit reports related to combined sewer overflows, sanitary sewer overflows, or bypass events under this section by a particular permit or if required to do so by state law. The Director may also require permittees to electronically submit reports not related to combined sewer overflows, sanitary sewer overflows, or bypass events under this section.

* * * * *

(9) Identification of the initial recipient for NPDES electronic reporting data. The owner, operator, or the duly authorized representative of an NPDES-regulated entity is required to electronically submit the required NPDES information (as specified in appendix A to 40 CFR part 127) to the appropriate initial recipient, as determined by EPA, and as defined in § 127.2(b) of this chapter. EPA will identify and publish the list of initial recipients on its Web site and in the Federal Register, by state and by NPDES data group [see § 127.2(c) of this chapter]. EPA will update and maintain this listing.

* * * * *

(m) * * *

(3) Notice—(i) Anticipated bypass. If the permittee knows in advance of the need for a bypass, it shall submit prior notice, if possible at least ten days before the date of the bypass. As of December 21, 2020 all notices submitted in compliance with this section must be submitted electronically by the permittee to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, permittees may be required to report electronically if specified by a particular permit or if required to do so by state law.

(ii) Unanticipated bypass. The permittee shall submit notice of an unanticipated bypass as required in paragraph (l)(6) of this section (24-hour notice). As of December 21, 2020 all notices submitted in compliance with this section must be submitted electronically by the permittee to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, permittees may be required to report electronically if specified by a particular permit or if required to do so by state law.

* * * * *

9. Amend § 122.42 by revising the introductory text in paragraphs (c) and (e)(4) and paragraph (e)(4)(vi) to read as follows:

§ 122.42 Additional conditions applicable to specified categories of NPDES permits (applicable to State NPDES programs, see § 123.25).

* * * * *

(c) Municipal separate storm sewer systems. The operator of a large or medium municipal separate storm sewer system or a municipal separate storm sewer that has been designated by the Director under § 122.26(a)(1)(v) must submit an annual report by the anniversary of the date of the issuance of the permit for such system. As of December 21, 2020 all reports submitted in compliance with this section must be submitted electronically by the owner, operator, or the duly authorized representative of the MS4 to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, the owner, operator, or the duly authorized representative of the MS4 may be required to report electronically if specified by a particular permit or if required to do so by state law. The report shall include:

* * * * *

(e) * * *

(4) Annual reporting requirements for CAFOs. The permittee must submit an annual report to the Director. As of December 21, 2020 all annual reports submitted in compliance with this section must be submitted electronically by the permittee to the Director or initial recipient, as defined in 40 CFR 127.2(b), in compliance with this section and 40 CFR part 3 (including, in all cases, subpart D to part 3), § 122.22, and 40 CFR part 127. Part 127 is not intended to undo existing requirements for electronic reporting. Prior to this date, and independent of part 127, the permittee may be required to report electronically if specified by a particular permit or if required to do so by state law. The annual report must include:

* * * * *

(vi) Summary of all manure, litter and process wastewater discharges from the production area that have occurred in the previous 12 months, including, for each discharge, the date of discovery, duration of discharge, and approximate volume; and

* * * * *

10. Amend § 122.43 by revising paragraph (a) to read as follows:

§ 122.43 Establishing permit conditions (applicable to State programs, see § 123.25).

(a) In addition to conditions required in all permits (§§ 122.41 and 122.42), the Director shall establish conditions, as required on a case-by-case basis, to provide for and ensure compliance with all applicable requirements of CWA and regulations. These shall include conditions under §§ 122.46 (duration of permits), 122.47(a) (schedules of compliance), 122.48 (monitoring), electronic reporting requirements of 40 CFR part 3 (Cross-Media Electronic Reporting Regulation) and 40 CFR part 127 (NPDES Electronic Reporting), and, for EPA permits only, §§ 122.47(b) (alternatives schedule of compliance) and 122.49 (considerations under Federal law).

* * * * *

11. Amend § 122.44 by revising paragraph (i)(2) to read as follows:

§ 122.44 Establishing limitations, standards, and other permit conditions (applicable to State NPDES programs, see § 123.25).

* * * * *

(i) * * *

(2) Except as provided in paragraphs (i)(4) and (5) of this section, requirements to report monitoring results shall be established on a case-by-case basis with a frequency dependent on the nature and effect of the discharge, but in no case less than once a year. For sewage sludge use or disposal practices, requirements to monitor and report results shall be established on a case-by-case basis with a frequency dependent on the nature and effect of the sewage sludge use or disposal practice; minimally this shall be as specified in 40 CFR part 503 (where applicable), but in no case less than once a year. All results must be electronically reported in compliance with 40 CFR part 3 (including, in all cases, subpart D to part 3), § 122.22, and 40 CFR part 127.

* * * * *

12. Amend § 122.48 by revising paragraph (c) to read as follows:

§ 122.48 Requirements for recording and reporting of monitoring results (applicable to State programs, see § 123.25).

* * * * *

(c) Applicable reporting requirements based upon the impact of the regulated activity and as specified in 40 CFR part 3 (Cross-Media Electronic Reporting Regulation), § 122.44, and 40 CFR part 127 (NPDES Electronic Reporting). Reporting shall be no less frequent than specified in § 122.44. EPA will maintain the start dates for the electronic reporting of monitoring results for each state on its Web site.

13. Amend § 122.63 by adding paragraph (f) to read as follows:

§ 122.63 Minor modifications of permits.

* * * * *

(f) Require electronic reporting requirements (to replace paper reporting requirements) including those specified in 40 CFR part 3 (Cross-Media Electronic Reporting Regulation) and 40 CFR part 127 (NPDES Electronic Reporting).

* * * * *

14. Amend § 122.64 by adding paragraph (c) to read as follows:

§ 122.64 Termination of permits (applicable to State programs, see § 123.25).

* * * * *

(c) Permittees that wish to terminate their permit must submit a Notice of Termination (NOT) to their permitting authority. If requesting expedited permit termination procedures, a permittee must certify in the NOT that it is not subject to any pending State or Federal enforcement actions including citizen suits brought under State or Federal law. As of December 21, 2020 all NOTs submitted in compliance with this section must be submitted electronically by the permittee to the Director or initial recipient, as defined in 40 CFR 127.2(b), in compliance with this section and 40 CFR part 3 (including, in all cases, subpart D), § 122.22, and 40 CFR part 127. Part 127 is not intended to undo existing requirements for electronic reporting. Prior to this date, and independent of part 127, the permittee may be required to report electronically if specified by a particular permit or if required to do so by state law.

PART 123—STATE PROGRAM REQUIREMENTS

15. The authority citation for part 123 continues to read as follows:

Authority: The Clean Water Act, 33 U.S.C. 1251 et se.

16. Amend § 123.22 by adding paragraph (g) to read as follows:

§ 123.22 Program description.

* * * * *

(g) A state, tribe, or territory that newly seeks to implement an NPDES program after March 21, 2016 must describe whether the state, tribe, or territory will be the initial recipient of electronic NPDES information from NPDES-regulated facilities for specific NPDES data groups (see 40 CFR 127.2(c) and 127.27). In this program description, the state, tribe, or territory must identify the specific NPDES data groups for which the state, tribe, or territory will be the initial recipient of electronic NPDES information from NPDES-regulated facilities and how the electronic data system of the state, tribe, or territory will be compliant with 40 CFR part 3 (including, in all cases, subpart D to part 3), § 123.26, and 40 CFR part 127.

17. Amend § 123.24 by revising paragraph (b)(3) to read as follows:

§ 123.24 Memorandum of Agreement with the Regional Administrator.

* * * * *

(b) * * *

(3) Provisions specifying the frequency and content of reports, documents and other information which the State is required to submit to EPA. The State shall allow EPA to routinely review State records, reports, and files relevant to the administration and enforcement of the approved program. State reports may be combined with grant reports where appropriate. These procedures must also implement the requirements of 40 CFR 123.41(a) and 123.43 and 40 CFR part 127 (including the required data elements in appendix A to part 127).

* * * * *

18. Amend § 123.25 by revising paragraph (a)(46) and the note immediately following it to read as follows:

§ 123.25 Requirements for permitting.

(a) * * *

(46) 40 CFR part 3 (Cross-Media Electronic Reporting Regulation) and 40 CFR part 127 (NPDES Electronic Reporting Requirements).

Note to paragraph (a): Except for paragraph (a)(46) of this section, states need not implement provisions identical to the above listed provisions. Implemented provisions must, however, establish requirements at least as stringent as the corresponding listed provisions. While States may impose more stringent requirements, they may not make one requirement more lenient as a tradeoff for making another requirement more stringent; for example, by requiring that public hearings be held prior to issuing any permit while reducing the amount of advance notice of such a hearing.

State programs may, if they have adequate legal authority, implement any of the provisions of parts 122 and 124. See, for example, §§ 122.5(d) (continuation of permits) and 124.4 (consolidation of permit processing) of this chapter.

For example, a State may impose more stringent requirements in an NPDES program by omitting the upset provision of § 122.41 of this chapter or by requiring more prompt notice of an upset.

* * * * *

19. Amend § 123.26 by:

a. Revising the introductory text in paragraph (b) and paragraphs (b)(1), (b)(2)(iii), and (e)(1).

b. Removing the word “and” after semicolon in paragraph (b)(2)(ii).

c. Adding paragraphs (b)(2)(iv) and (f).

The revisions and additions read as follows:

§ 123.26 Requirements for compliance evaluation programs.

* * * * *

(b) State programs shall have inspection and surveillance procedures to determine, independent of information supplied by regulated persons, compliance or noncompliance with applicable program requirements. The State shall implement and maintain:

(1) An automated, computerized system which is capable of identifying and tracking all facilities and activities subject to the State Director's authority and any instances of noncompliance with permit or other program requirements (e.g., identifying noncompliance with an automated, computerized program to compare permit limits to reported measurements). State programs must maintain a management information system which supports the compliance evaluation activities of this part (e.g., source inventories; compliance determinations based upon discharge monitoring reports, other submitted reports, and determinations of noncompliance made from inspection or document reviews; and subsequent violation notices, enforcement actions, orders, and penalties) and complies with 40 CFR part 3 (Cross-Media Electronic Reporting Regulation) and 40 CFR part 127 (NPDES Electronic Reporting Requirements). State programs may use EPA's national NPDES data system for their automated, computerized system;

(2) * * *

(iii) Verify the adequacy of sampling, monitoring, and other methods used by permittees and other regulated persons to develop that information; and

(iv) Protect surface waters and public health.

* * * * *

(e) * * *

(1) Maintaining an automated, computerized system which is capable of managing the comprehensive electronic inventory of all sources covered by NPDES permits and generating an electronic schedule of reports required to be submitted by permittees to the State agency. (Note: State programs may use EPA's national NPDES data system for their automated, computerized system.);

* * * * *

(f) A state, tribe, or territory that is designated by EPA as an initial recipient of electronic NPDES information, as defined in § 127.2 of this chapter, must maintain the data it collects and electronically transfer the minimum set of NPDES data to EPA through timely data transfers in compliance with all requirements of 40 CFR parts 3 and 127 (including the required data elements in appendix A to part 127). Timely means that the authorized state, tribe, or territory submits these data transfers (see the data elements in appendix A to 40 CFR part 127) to EPA within 40 days of when the state, tribe, or territory completed the activity or received a report submitted by a regulated entity. For example, the data regarding a state inspection of an NPDES-regulated entity that is finalized by the state on October 5th must be electronically transferred to EPA no later than November 14th of that same year (e.g., 40 days after October 5th). EPA must become the initial recipient of electronic NPDES information from NPDES-regulated entities if the state, tribe, or territory does not consistently maintain these timely data transfers or does not comply with 40 CFR parts 3 and 127. See 40 CFR 127.2(b) and 127.27 regarding the initial recipient.

20. Amend § 123.41 by revising paragraph (a) to read as follows:

§ 123.41 Sharing of information.

(a) Any information obtained or used in the administration of a State program shall be available to EPA upon request without restriction. This includes the timely data transfers in compliance with all requirements of 40 CFR parts 3 and 127 (including the required data elements in appendix A to part 127). If the information has been submitted to the State under a claim of confidentiality, the State must submit that claim to EPA when providing information under this section. Any information obtained from a State and subject to a claim of confidentiality will be treated in compliance with the regulations in 40 CFR part 2. If EPA obtains information from an authorized state NPDES program, which is not claimed to be confidential, EPA may make that information available to the public without further notice. Timely means that the authorized state, tribe, or territory submits these data transfers (see the data elements in appendix A to 40 CFR part 127) to EPA within 40 days of when the state, tribe, or territory completed the activity or received a report submitted by a regulated entity. For example, the data regarding a state inspection of an NPDES-regulated entity that is finalized by the state on October 5th must be electronically transferred to EPA no later than November 14th of that same year (e.g., 40 days after October 5th). EPA must become the initial recipient of electronic NPDES information from NPDES-regulated entities if the state, tribe, or territory does not consistently maintain these timely data transfers or does not comply with 40 CFR parts 3 and 127. See 40 CFR 127.2(b) and 127.27 regarding the initial recipient.

* * * * *

21. Amend § 123.43 by revising paragraph (d) to read as follows:

§ 123.43 Transmission of information to EPA.

* * * * *

(d) Any State permit program shall keep such records and submit to the Administrator such information as the Administrator may reasonably require to ascertain whether the State program complies with the requirements of the CWA or of this part. This includes the timely data transfers in compliance with all requirements of 40 CFR part 127 (including the required data elements in appendix A to part 127).

22. Revise § 123.45 to read as follows:

§ 123.45 Noncompliance and program reporting by the Director.

As of December 21, 2021 EPA must prepare public (quarterly and annual) reports as set forth here from information that is required to be submitted by NPDES-regulated facilities and the State Director.

(a) NPDES noncompliance reports (NNCR)—quarterly. EPA must produce an online report on a quarterly basis with the minimum content specified here. The Director must electronically submit timely, accurate, and complete data to EPA that allows EPA to prepare these quarterly NNCRs.

(1) Content. The NNCR must include the following information:

(i) A facility specific list of NPDES-regulated entities in violation, including non-POTWs, POTWs, Federal permittees, major facilities, and nonmajor facilities, as well as a list of CWA point sources that did not obtain NPDES permits authorizing discharges of pollutants to waters of the United States.

(ii) For each identified NPDES-regulated entity in violation of the Clean Water Act:

(A) The name, location, and permit number or other identification number, if a permit does not exist.

(B) Information describing identified violation(s) that occurred in that quarter, including the date(s) on which violation(s) started and ended (if applicable). Where applicable, the information must indicate the pipe, parameter, and the effluent limit(s) violated. Violations must be classified as Category I and II as described in paragraph (a)(2) of this section.

(C) The date(s) and type of formal enforcement and written informal enforcement action(s) taken by the Director to respond to violation(s), including any penalties assessed.

(D) The status of the violation(s) (e.g., corrected or continuing, and the date that the violation(s) was resolved), which can be reported by linking violations to specific enforcement actions, or tracking noncompliance end dates.

(E) Any optional details that may help explain the instance(s) of noncompliance as provided by the Director or EPA.

(F) All violations must be reported in successive quarterly reports until the violation(s) is documented as being corrected (i.e., the regulated entity is no longer in violation). After a violation is reported as corrected in the NNCR, that particular violation will not continue to appear in subsequent quarterly reports, although it will appear in the relevant annual report.

(G) If the permittee or discharger is in compliance with an enforcement order (e.g., permittee is completing the necessary upgrades to its existing wastewater treatment system in accordance with the schedule in the enforcement order), and has no new, additional violation(s), the compliance status must be reported as “resolved pending” in the NNCR. The permittee/discharger will continue to be listed on the NNCR until the violation(s) is documented as being corrected.

(2) Violation classifications. A violation must be classified as “Category I Noncompliance” if one or more of the criteria set forth below are met.

(i) Reporting violations. These include failure to submit a complete, required report (e.g., final compliance schedule progress report, discharge monitoring report, annual report) within 30 days after the date established in a permit, administrative or judicial order, or regulation. In addition, these also include any failure to comply with the reporting requirements at 40 CFR 122.41(l)(6).

(ii) Compliance construction violations. These include failure to start construction, complete construction, or achieve final compliance within 90 days after the date established in a permit, administrative or judicial order, or regulation.

(iii) Effluent limits. These include violations of interim or final effluent limits established in a permit, administrative or judicial enforcement order, or regulation that exceed the “Criteria for Noncompliance Reporting in the NPDES Program” in appendix A to § 123.45.

(iv) Compliance schedule violations. These include violations of any requirement or condition in permits, or administrative or judicial enforcement orders, excluding reporting violations, compliance construction milestones and effluent limits.

(v) Non-numeric effluent limit violations. These include violations of non-numeric effluent limits (e.g., violations of narrative permit requirements or requirements to implement best management practices) that caused or could cause water quality impacts. Examples of such impacts on water quality include, but are not limited to, unauthorized discharges that may have caused or contributed to exceedances in water quality standards, fish kills, oil sheens, beach closings, fishing bans, restrictions on designated uses, and unauthorized bypass or pass through or interference with the operations of a POTW (see 40 CFR 403.3).

(vi) Other violations. These include any violation or group of violations, which in the discretion of the Director or EPA, are considered to be of concern. These violations include repeat violations by a specific point source, geographic clusters of violations, corporations with violations at multiple facilities, or industrial sectors with identified patterns of violation that have a cumulative impact on water quality, but otherwise would not meet Category I criteria. EPA must determine whether to issue policy or guidance to provide more specificity on identifying these types of violations and how to report them.

(vii) All other types of noncompliance that do not meet the criteria for Category I Noncompliance must be classified as “Category II Noncompliance.”

(3) EPA must provide an easy-to-use interface to facilitate public access, use, and understanding of the NNCR, including the ability to sort violations by duration, severity, frequency, detection method (e.g., self-reported effluent, monitoring, inspection), flow and pollutant loadings, type of discharger, waterbody receiving the discharge, proximity to impaired waters, and category of violation (I or II). EPA must exclude from public release any confidential business information or enforcement-sensitive information associated with the NNCR.

(b) NPDES noncompliance reports—annual summary (annual). EPA must prepare annual public reports that provide a summary of compliance monitoring and enforcement activities within each state, tribe, and territory, as well as summary information on violations identified in the four quarterly NNCRs for that federal fiscal year. EPA must provide these annual reports by no later than March 1st of the following year.

(1) Facility types covered by reports. EPA must produce, at a minimum, Annual Summary Reports for the following universes: Individually-permitted NPDES-regulated entities; all other NPDES-regulated entities that are not individually permitted; Clean Water Act point sources that had unauthorized discharge(s) of pollutants to waters of the US; and a combined report that includes totals across all three reports above. Individually-permitted facilities are defined in this subsection as those permits that are unique to the permittee, that include permitted effluent limits, and require the submission of discharge monitoring reports.

(2) Content of reports. Reports must include applicable data for NPDES-regulated entities:

(i) The number of NPDES permittees;

(ii) The number inspected by on-site inspections;

(iii) The number reviewed in which permitted limits were compared to measured data to determine violations;

(iv) The number evaluated by other, off-site compliance monitoring activities;

(v) The number with any violations;

(vi) The number with Category I violations;

(vii) The number receiving paper or electronic written informal enforcement actions;

(viii) The total number receiving formal enforcement actions with a compliance schedule;

(ix) The total number receiving a penalty assessment;

(x) The total amount of penalties assessed; and

(xi) The number of permit modifications extending compliance deadlines more than one year.

(c) Schedule for producing NNCR quarterly information. (1) The Director has until 45 days from the end of the calendar quarter to update or correct NPDES data submissions in EPA's national NPDES data system for events that occurred within that calendar quarter covered by the NNCR.

(2) EPA must publish the NNCR in electronic form to be easily accessible and available to the public within two months after the end date of the calendar quarter:

EPA Schedule for Quarterly NNCR
Calendar quarter | EPA NNCR publication date for calendar quarter
January, February, March | May 31.
April, May, June | August 31.
July, August, September | November 30.
October, November, and December | Last Day in February.

Appendix A to § 123.45—Criteria for Category I Noncompliance Reporting in the NPDES Program

This appendix describes the criteria for reporting Category I violations of NPDES permit effluent limits in the NPDES non-compliance report (NNCR) as specified under paragraph (a)(2)(C) of this section. Any violation of an NPDES permit is a violation of the Clean Water Act (CWA) for which the permittee is liable. As specified in paragraph (a)(2) of this section, there are two categories of noncompliance, and the table below indicates the thresholds for violations in Category I. An agency's decision as to what enforcement action, if any, should be taken in such cases, shall be based on an analysis of facts, legal requirements, policy, and guidance.

Violations of Permit Effluent Limits

The categorization of permit effluent limits depends upon the magnitude and/or frequency of the violation. Effluent violations shall be evaluated on a parameter-by-parameter and outfall-by-outfall basis. The criteria for reporting effluent violations are as follows:

a. Reporting Criteria for Category I Violations of Monthly Average Permit Limits—Magnitude and Frequency

Violations of monthly average effluent limits which exceed or equal the product of the Technical Review Criteria (TRC) times the effluent limit, and occur two months in a six- month period must be reported. TRCs are for two groups of pollutants.

Group I Pollutants—TRC=1.4

Group II Pollutants—TRC=1.2

b. Reporting Criteria for Chronic Violations of Monthly Average Limits

Chronic violations must be reported in the NNCR if the monthly average permit limits are exceeded any four months in a six-month period. These criteria apply to all Group I and Group II pollutants.

Group I Pollutants—TRC=1.4

Oxygen Demand

Biochemical Oxygen Demand

Chemical Oxygen Demand

Total Oxygen Demands

Total Organic Carbon

Other

Solids

Total Suspended Solids (Residues)

Total Dissolved Solids (Residues)

Other

Nutrients

Inorganic Phosphorus Compounds

Inorganic Nitrogen Compounds

Other

Detergents and Oils

MBAS

NTA

Oil and Grease

Other detergents or algicides

Minerals

Calcium

Chloride

Fluoride

Magnesium

Sodium

Potassium

Sulfur

Sulfate

Total Alkalinity

Total Hardness

Other Minerals

Metals

Aluminum

Cobalt

Iron

Vanadium

Group II Pollutants—TRC=1.2

Metals (all forms)

Other metals not specifically listed under Group I

Inorganic

Cyanide

Total Residual Chlorine

Organics

All organics are Group II except those specifically listed under Group I.

23. Add part 127 to read as follows:

PART 127—NPDES ELECTRONIC REPORTING

Subpart A—General
Sec.
127.1 Purpose and scope.
127.2 Definitions.
Subpart B—Electronic Reporting of NPDES Information From NPDES-Regulated Facilities
127.11 Types of data to be reported electronically by NPDES permittees, facilities, and entities subject to this part [see § 127.1(a)].
127.12 Signature and certification standards for electronic reporting.
127.13 Requirements regarding quality assurance and quality control.
127.14 Requirements regarding timeliness, accuracy, completeness, and national consistency.
127.15 Waivers from electronic reporting.
127.16 Implementation of electronic reporting requirements for NPDES permittees, facilities, and entities subject to this part [see § 127.1(a)].
Subpart C—Responsibilities of EPA and States, Tribes, and Territories Authorized to Implement the NPDES Program
127.21 Data to be reported electronically to EPA by states, tribes, and territories.
127.22 Requirements regarding quality assurance and quality control.
127.23 Requirements regarding timeliness, accuracy, completeness, and national consistency.
127.24 Responsibilities regarding review of waiver requests from NPDES permittees, facilities, and entities subject to this part [see § 127.1(a)].
127.25 Time for states, tribes, and territories to revise existing programs.
127.26 Implementation plan (authorized states, tribes, and territories).
127.27 Procedure for determining initial recipient of electronic NPDES information.
Appendix A to Part 127—Minimum Set of NPDES Data

Authority: 33 U.S.C. 1251 et seq.

Subpart A—General

§ 127.1 Purpose and scope.

(a) This part, in conjunction with the NPDES reporting requirements specified in 40 CFR parts 122, 123, 124, 125, 403, 501, and 503, specifies the requirements for:

(1) Electronic reporting of information by NPDES permittees;

(2) Facilities or entities seeking coverage under NPDES general permits;

(3) Facilities or entities submitting stormwater certifications or waivers from NPDES permit requirements;

(4) Industrial users located in municipalities without approved local pretreatment programs;

(5) Approved pretreatment programs;

(6) Facilities or entities regulated by the Federal sewage sludge/biosolids program; and

(7) EPA and the states, tribes, or territories that have received authorization from EPA to implement the NPDES program. This part, in conjunction with 40 CFR parts 123, 403, and 501, also specifies the requirements for electronic reporting of NPDES information to EPA by the states, tribes, or territories that have received authorization from EPA to implement the NPDES program.

(b) These regulations are not intended to preclude states, tribes, or territories authorization from EPA to implement the NPDES program from developing and using their own NPDES data systems. However, these states, tribes, and territories must ensure that the required minimum set of NPDES data (appendix A of this part) is electronically transferred to EPA in a timely, accurate, complete, and nationally-consistent manner fully compatible with EPA's national NPDES data system.

(c) Under 10 U.S.C. 130e, the Secretary of Defense may exempt Department of Defense “critical infrastructure security information” from disclosure under the Freedom of Information Act (FOIA). NPDES program data designated as critical infrastructure security information in response to a FOIA request will be withheld from the public. In the instance where an NPDES program data element for a particular facility is designated as critical infrastructure security information in response to a FOIA request, a separate filtered set of data without the redacted information will be shared with the public; however, all NPDES program data will continue to be provided to EPA and the authorized state, tribe, or territory NPDES program.

(d) Proper collection, management, and sharing of the data and information listed in appendix A ensures that there is timely, complete, accurate, and nationally-consistent set of data about the NPDES program.

§ 127.2 Definitions.

(a) The definitions in 40 CFR parts 122, 123, 124, 125, 403, 501 and 503 apply to all subparts of this part.

(b) Initial recipient of electronic NPDES information from NPDES-regulated facilities (initial recipient) means the entity (EPA or the state, tribe, or territory authorized by EPA to implement the NPDES program) that is the designated entity for receiving electronic NPDES data. Section 127.27 outlines the process for designating the initial recipient of electronic NPDES information from NPDES-regulated facilities. EPA must become the initial recipient of electronic NPDES information from NPDES-regulated facilities if the state, tribe, or territory does not collect the data required in appendix A to this part and does not consistently maintain timely, accurate, complete, and consistent data transfers in compliance with this part and 40 CFR part 3. Timely means that the authorized state, tribe, or territory submits these data transfers (see the data elements in appendix A to this part) to EPA within 40 days of when the authorized program completed the activity or received a report submitted by a regulated entity. For example, the data regarding a state inspection of an NPDES-regulated entity that is finalized by the state on October 5th must be electronically transferred to EPA no later than November 14th of that same year (e.g., 40 days after October 5th).

(c) NPDES data group means the group of related data elements identified in Table 1 in appendix A to this part. These NPDES data groups have similar regulatory reporting requirements and have similar data sources.

(d) NPDES program means the National Pollutant Discharge Elimination System (Clean Water Act section 402); the Federal Sewage Sludge (Biosolids) Program (Clean Water Act section 405); and the Federal Pretreatment Program (Clean Water Act section 307(b); 40 CFR part 403). EPA can implement the NPDES program or authorize states, tribes, and territories to implement the NPDES program (“authorized NPDES program”). Identifying the relevant authority must be done for each NPDES subprogram (e.g., NPDES core program, federal facilities, general permits, pretreatment, and sewage sludge/biosolids).

(e) Minimum set of NPDES data means the data and information listed in appendix A to this part.

(f) Program reports means the information reported by NPDES-regulated entities and listed in Table 1 of appendix A to this part (except NPDES Data Groups 1, 2, and 3).

(g) Hybrid approach is a method that the initial recipient [as defined in paragraph (b) of this section] may elect to use for construction stormwater general permit reports [Notices of Intent to discharge (NOIs); Notices of Termination (NOTs); No Exposure Certifications (NOEs); Low Erosivity Waivers (LEWs)] [40 CFR 122.26(b)(15), 122.28 and 122.64] in order to demonstrate compliance with this part. This alternative compliance method allows the initial recipient (the authorized state, tribe, territory or EPA) to use a non-CROMERR electronic submission along with a uniquely matched paper submission, to reflect conditions at construction sites. Specifically, this approach allows the initial recipient to use data capture technologies to collect construction stormwater general permit reports. For example, under this approach the initial recipient may allow construction operators to complete an electronic construction stormwater general permit report, which simultaneously produces a paper copy of the report and electronically transmits a copy of the data from the report to the authorized NPDES program. Under this approach the construction operator must sign and date the paper copy of the construction stormwater general permit report with a “wet-ink” signature and this paper document will be the copy of record. Under this approach the initial recipient must have the ability to definitively and uniquely link the signed and dated paper document with the electronic submission from the facility or entity (e.g., use of a unique code or mark on the signed and dated paper document that is also embedded in the electronic submission). Under this approach the initial recipient may also use automated data capture technologies (e.g., Optical Character Recognition), which allow construction operators to submit their general permit reports to the initial recipient on paper with a “wet-ink” signature and date in a structured format that allows for easy data importation into the initial recipient's NPDES data system.

(h) NPDES-regulated entity means any entity regulated by the NPDES program.

Subpart B—Electronic Reporting of NPDES Information From NPDES-Regulated Facilities

§ 127.11 Types of data to be reported electronically by NPDES permittees, facilities, and entities subject to this part [see § 127.1(a)].

(a) NPDES-regulated entities must electronically submit the minimum set of NPDES data for these NPDES reports (if such reporting requirements are applicable). The following NPDES reports are the source of the minimum set of NPDES data from NPDES-regulated entities:

(1) Discharge Monitoring Report [40 CFR 122.41(l)(4)];

(2) Sewage Sludge/Biosolids Annual Program Report [40 CFR part 503];

(3) Concentrated Animal Feeding Operation (CAFO) Annual Program Report [40 CFR 122.42(e)(4)];

(4) Municipal Separate Storm Sewer System (MS4) Program Report [40 CFR 122.34(g)(3) and 122.42(c)];

(5) Pretreatment Program Annual Report [40 CFR 403.12(i)];

(6) Sewer Overflow and Bypass Incident Event Report [40 CFR 122.41(l)(6) and (7)]; and

(7) CWA section 316(b) Annual Reports [40 CFR part 125, subpart J].

(b) Facilities or entities seeking coverage under or termination from NPDES general permits and facilities or entities submitting stormwater certifications or waivers from NPDES permit requirements [see Exhibit 1 to 40 CFR 122.26(b)(15) and (g)] must electronically submit the minimum set of NPDES data for the following notices, certifications, and waivers (if such reporting requirements are applicable):

(1) Notice of intent (NOI) to discharge by facilities seeking coverage under a general NPDES permit (rather than an individual NPDES permit), as described in 40 CFR 122.28(b)(2);

(2) Notice of termination (NOT), as described in 40 CFR 122.64;

(3) No exposure certification (NOE), as described in 40 CFR 122.26(g)(1)(iii); and

(4) Low erosivity waiver (LEW) and another waiver as described in Exhibit 1 to 40 CFR 122.26(b)(15).

(c) Industrial users located in municipalities without approved local pretreatment programs must electronically submit the minimum set of NPDES data for the following self-monitoring reports (if such reporting requirements are applicable):

(1) Periodic reports on continued compliance, as described in 40 CFR 403.12(e); and

(2) Reporting requirements for Industrial Users not subject to categorical Pretreatment Standards, as described in 40 CFR 403.12(h).

(d) The minimum set of NPDES data for NPDES-regulated facilities is identified in appendix A to this part.

§ 127.12 Signature and certification standards for electronic reporting.

The signatory and certification requirements identified in 40 CFR part 3 (including, in all cases, subpart D to part 3), § 122.22, and 40 CFR 403.12(l) must also apply to electronic submissions of NPDES information (see § 127.11) by NPDES permittees, facilities, and entities subject to this part [see § 127.1(a)].

§ 127.13 Requirements regarding quality assurance and quality control.

(a) Responsibility for the quality of the information provided electronically in compliance with this part by the NPDES permittees, facilities, and entities subject to this part [see § 127.1(a)] rests with the owners and operators of those facilities or entities. NPDES permittees, facilities, and entities subject to this part must use quality assurance and quality control procedures to ensure the quality of the NPDES information submitted in compliance with this part.

(b) NPDES permittees, facilities, and entities subject to this part must electronically submit their NPDES information in compliance with the data quality requirements specified in § 127.14. NPDES permittees, facilities, and entities subject to this part must electronically submit their NPDES information unless a waiver is granted in compliance with this part (see §§ 127.15 and 127.24).

§ 127.14 Requirements regarding timeliness, accuracy, completeness, and national consistency.

NPDES permittees, facilities, and entities subject to this part [see § 127.1(a)] must comply with all requirements in this part and electronically submit the minimum set of NPDES data in the following nationally-consistent manner:

(a) Timely. Electronic submissions of the minimum set of NPDES data to the appropriate initial recipient, as defined in § 127.2(b), must be timely.

(1) Measurement data (including information from discharge monitoring reports, self-monitoring data from industrial users located outside of approved local pretreatment programs, and similar self-monitoring data). The electronic submission of these data is due when that monitoring information is required to be reported in compliance with statutes, regulations, the NPDES permit, another control mechanism, or an enforcement order.

(2) Program report data. The electronic submission of this data is due when that program report data is required to be reported in compliance with statutes, regulations, the NPDES permit, another control mechanism, or an enforcement order.

(b) Accurate. Electronic submissions of the minimum set of NPDES data must be identical to the actual measurements taken by the owner, operator, or their duly authorized representative;

(c) Complete. Electronic submission of the minimum set of NPDES data must include all required data (see appendix A to this part) and these electronic submissions must be sent to the NPDES data system of the initial recipient, as defined in § 127.2(b); and

(d) Consistent. Electronic submissions of the minimum set of NPDES data must be compliant with EPA data standards as set forth in this part and in a form (including measurement units) and be fully compatible with EPA's national NPDES data system.

§ 127.15 Waivers from electronic reporting.

(a) NPDES permittees, facilities, and entities subject to this part [see § 127.1(a)] must electronically submit the minimum set of NPDES data in compliance with this part, 40 CFR part 3 (including, in all cases, subpart D to part 3), 40 CFR 122.22, and 40 CFR 403.12(l) unless a waiver is granted in compliance with this section and § 127.24.

(b) Temporary waivers from electronic reporting may be granted by the authorized NPDES program (EPA, or states, territories, and tribes that have received authorization to implement the NPDES program), in compliance with this section and § 127.24, to NPDES permittees, facilities, and entities subject to this part [see § 127.1(a)].

(1) Each temporary waiver must not extend beyond five years. However, NPDES-regulated entities may re-apply for a temporary waiver. It is the duty of the owner, operator, or duly authorized representative of the NPDES permittee, facility, and entity subject to this part [see §§ 122.22 of this chapter and 127.1(a)] to re-apply for a new temporary waiver. Authorized NPDES programs cannot grant a temporary waiver to an NPDES-regulated entity without first receiving a temporary waiver request from the NPDES-regulated entity.

(2) To apply for a temporary waiver, the owner, operator, or duly authorized representative of the NPDES permittee, facility, and entity subject to this part [see §§ 122.22 of this chapter and 127.1(a)] must submit the following information to their authorized NPDES program:

(i) Facility name;

(ii) NPDES permit number (if applicable);

(iii) Facility address;

(iv) Name, address and contact information for the owner, operator, or duly authorized facility representative;

(v) Brief written statement regarding the basis for claiming such a temporary waiver; and

(vi) Any other information required by the authorized NPDES program.

(3) The authorized NPDES program will determine whether to grant a temporary waiver. The authorized NPDES program must provide notice to the owner, operator, or duly authorized facility representative submitting a temporary waiver request, in compliance with the requirements of § 127.24.

(4) NPDES permittees, facilities, and entities subject to this part [see § 127.1(a)] that have received a temporary waiver must continue to provide the minimum set of NPDES data (as well as other required information in compliance with statutes, regulations, the NPDES permit, another control mechanism, or an enforcement order) in hard-copy format to the authorized NPDES program. The authorized NPDES program must electronically transfer these data to EPA in accordance with subpart C of this part.

(5) An approved temporary waiver is not transferrable.

(c) Permanent waivers from electronic reporting may be granted by the authorized NPDES program (EPA, or states, territories, and tribes that have received authorization to implement the NPDES program), in compliance accordance with this section and § 127.24, to NPDES permittees, facilities, and entities subject to this part [see § 127.1(a)].

(1) Permanent waivers are only available to facilities and entities owned or operated by members of religious communities that choose not to use certain modern technologies (e.g., computers, electricity). Authorized NPDES programs cannot grant a permanent waiver to an NPDES-regulated entity without first receiving a permanent waiver request from the NPDES-regulated entity.

(2) To apply for a permanent waiver, the owner, operator, or duly authorized representative of the NPDES permittee, facility, and entity subject to this part [see §§ 122.22 of this chapter and 127.1(a)] must submit the information listed in § 127.15(b)(2) to their authorized NPDES program.

(3) An approved permanent waiver is not transferrable.

(4) NPDES permittees, facilities, and entities subject to this part [see § 127.1(a)] that have received a permanent waiver must continue to provide the minimum set of NPDES data (as well as other required information in compliance with statutes, regulations, the NPDES permit, another control mechanism, or an enforcement order) in hard-copy format to the authorized NPDES program. The authorized NPDES program must electronically transfer these data to EPA in accordance with subpart C of this part.

(d) Episodic waivers from electronic reporting may be granted by the authorized NPDES program (EPA, or states, territories, and tribes that have received authorization to implement the NPDES program) or the initial recipient, as defined in § 127.2(b), in compliance accordance with this section and § 127.24, to NPDES permittees, facilities, and entities subject to this part [see § 127.1(a)]. The following conditions apply to episodic waivers.

(1) No waiver request from the NPDES permittee, facility or entity is required to obtain an episodic waiver from electronic reporting.

(2) Episodic waivers are not transferrable.

(3) Episodic waivers cannot last more than 60 days.

(4) The authorized NPDES program or initial recipient will decide if the episodic waiver provision allows facilities and entities to delay their electronic submissions or to send hardcopy (paper) submissions. Episodic waivers are only available to facilities and entities in the following circumstances:

(i) Large scale emergencies involving catastrophic circumstances beyond the control of the facilities, such as forces of nature (e.g., hurricanes, floods, fires, earthquakes) or other national disasters. The authorized NPDES program will make the determination if an episodic waiver is warranted in this case and must receive the hardcopy (paper) submissions.

(ii) Prolonged electronic reporting system outages (i.e., outages longer than 96 hours). The initial recipient, which may also be the authorized NPDES program, will make the determination if an episodic waiver is warranted in this case and must receive the hardcopy (paper) submissions.

§ 127.16 Implementation of electronic reporting requirements for NPDES permittees, facilities, and entities subject to this part [see § 127.1(a)].

(a) Scope and schedule. NPDES permittees, facilities, and entities subject to this part [see § 127.1(a)], with the exception of those covered by waivers under §§ 127.15 and 127.24, must electronically submit the following NPDES information (reports, notices, waivers, and certifications) after the start dates listed in Table 1 of this section. This part is not intended to undo existing requirements for electronic reporting. Prior to this date, and independent of this part, the permittee may be required to report electronically if specified by a particular permit or if required to do so by state law.

Table 1—Start Dates for Electronic Submissions of NPDES Information
NPDES information | Start dates for electronic submissions
General Permit Reports [Notices of Intent to discharge (NOIs); Notices of Termination (NOTs); No Exposure Certifications (NOEs); Low Erosivity Waivers (LEWs) and other Waivers] [40 CFR 122.26(b)(15), 122.28 and 122.64] | December 21, 2020.
Discharge Monitoring Reports [40 CFR 122.41(l)(4)] | December 21, 2016.
Biosolids Annual Program Reports [40 CFR part 503] | December 21, 2016 (when the Regional Administrator is the Director).¹
| December 21, 2020 (when the state, tribe or territory is the authorized NPDES program).¹
Concentrated Animal Feeding Operation (CAFO) Annual Program Reports [40 CFR 122.42(e)(4)] | December 21, 2020.
Municipal Separate Storm Sewer System (MS4) Program Reports [40 CFR 122.34(g)(3) and 122.42(c)] | December 21, 2020.
POTW Pretreatment Program Annual Reports [40 CFR 403.12(i)] | December 21, 2020.
Significant Industrial User Compliance Reports in Municipalities Without Approved Pretreatment Programs [40 CFR 403.12(e) and (h)] | December 21, 2020.
Sewer Overflow Event Reports [40 CFR 122.41(l)(6) and (7)] | December 21, 2020.
CWA 316(b) Annual Reports [40 CFR part 125, subparts I, J, and N] | December 21, 2020.
¹Note: Director is defined in 40 CFR 122.2.

(b) Electronic reporting standards. NPDES permittees, facilities, and entities subject to this part [see § 127.1(a)] must electronically submit the information listed in Table 1 in § 127.16(a) in compliance with this part and 40 CFR part 3 (including, in all cases, subpart D to part 3), 40 CFR 122.22, and 40 CFR 403.12(l).

(c) Initial recipient. NPDES permittees, facilities, and entities subject to this part [see § 127.1(a)] must electronically submit the information listed in Table 1 in § 127.16(a) to the Director, Control Authority, Approval Authority, or initial recipient [as identified in § 127.27, and as defined in § 127.2(b)]. EPA must identify and publish the initial recipient on an EPA Web site and in the Federal Register, by state and by NPDES data group [see § 127.2(c)].

(d) Standards for NPDES regulated entities with electronic reporting waivers. NPDES permittees, facilities, and entities subject to this part [see § 127.1(a)] that have received a waiver from electronic reporting must continue to provide the minimum set of NPDES data (as well as other required information in compliance with statutes, regulations, the NPDES permit, another control mechanism, or an enforcement order) to the authorized NPDES program or initial recipient (see § 127.15).

Subpart C—Responsibilities of EPA and States, Tribes, and Territories Authorized to Implement the NPDES Program

§ 127.21 Data to be reported electronically to EPA by states, tribes, and territories.

(a) States, tribes, and territories that have received authorization from EPA to implement the NPDES program must electronically transfer to EPA all information listed in appendix A to this part. This information includes:

(1) The “Core NPDES Permitting, Compliance, And Enforcement Data [40 CFR parts 122, 123, 403, 503]” as identified as NPDES Data Group 1 in Tables 1 and 2 in appendix A to this part.

(2) NPDES information (NPDES Data Groups 2 through 10 in Tables 1 and 2 in appendix A to this part) from NPDES permittees, facilities, and entities subject to this part [see § 127.1(a)] where the authorized state, tribe, or territory is the initial recipient [as identified in § 127.27, and as defined in § 127.2(b)]. This includes NPDES information from NPDES permittees, facilities, and entities subject to this part that received a waiver from electronic reporting (see § 127.15).

(3) Specific data elements that are required to be submitted electronically to EPA by the states, tribes, or territories that have received authorization from EPA to implement the NPDES program are identified in appendix A to this part.

(b) States, tribes, and territories that have received authorization from EPA to implement the NPDES program must electronically transfer these data, listed in § 127.21(a), to EPA within 40 days of the completed activity or within 40 days of the receipt of a report from an NPDES permittee, facility, or entity subject to this part [see § 127.1(a)].

§ 127.22 Requirements regarding quality assurance and quality control.

States, tribes, and territories that have received authorization from EPA to implement the NPDES program have the responsibility for the information that they electronically transfer to EPA. Therefore, authorized states, tribes, and territories that electronically transfer data to EPA must use reasonable quality assurance and quality control procedures to ensure the quality of the NPDES information.

§ 127.23 Requirements regarding timeliness, accuracy, completeness, and national consistency.

(a) Authorized state, tribe, and territory NPDES programs must electronically transfer all NPDES program data that supports electronic reporting (e.g., facility information and permit information such as limits, permitted features, and narrative conditions) to EPA three months prior to the electronic reporting start dates in Table 1 in § 127.16(a) and maintain updates thereafter. These electronic data transfers must be timely, accurate, complete, and consistent.

(b) According to the schedule set forth in § 127.16, the authorized NPDES program must electronically transfer to EPA the minimum set of NPDES data (as specified in appendix A to this part). These electronic data transfers to EPA must be timely, accurate, complete, and consistent.

(c) For the purposes of this part timely, accurate, complete, and consistent mean:

(1) Timely, in that the authorized state, tribe, or territory NPDES program electronically transfers the minimum set of NPDES data to EPA within 40 days of the completed activity or within 40 days of receipt of a report from an NPDES permittee, facility, or entity subject to this part [see § 127.1(a)]. For example, the data regarding a state inspection of an NPDES-regulated entity that is finalized by the state on October 5th must be electronically transferred to EPA no later than November 14th of that same year (e.g., 40 days after October 5th). The start dates for electronic reporting from NPDES permittees, facilities, and entities subject to this part [see § 127.1(a)] are provided in Table 1 in § 127.16(a).

(2) Accurate, in that 95% or more of the minimum set of NPDES data in EPA's national NPDES data system are identical to the actual information on the copy of record (e.g., permit, notice, waiver, certification, report, enforcement order, or other source document);

(3) Complete, in that 95% or more of submissions required for each NPDES data group [see § 127.2(c)] are available in EPA's national NPDES data system; and

(4) Consistent, in that data electronically submitted by states, tribes, and territories to EPA, by direct entry of information, data transfers from one data system to another, or some combination thereof, into EPA's designated national NPDES data system is in compliance with EPA's data standards as set forth in this part and in a form and measurement units which are fully compatible with EPA's national NPDES data system.

(d) An authorized program must consistently maintain the requirements identified in paragraph (a) of this section in order to be the initial recipient, as defined in § 127.2(b). If the authorized program does not maintain these requirements, EPA must become the initial recipient (see § 127.27).

§ 127.24 Responsibilities regarding review of waiver requests from NPDES permittees, facilities, and entities subject to this part [see § 127.1(a)].

(a) Under § 127.15, an NPDES permittee, facility, or entity subject to this part [see § 127.1(a)] may seek a waiver from electronic reporting. States, tribes, and territories that have received authorization from EPA to implement the NPDES program must review the temporary or permanent waiver requests that they receive and either approve or reject these requests within 120 days.

(b) The authorized NPDES state, tribe, or territory program must provide the permittee, facility, or entity with notice of the approval or rejection of their temporary or permanent waiver request from electronic reporting.

(c) The authorized NPDES state, tribal, or territory program must electronically transfer to EPA the minimum set of NPDES data (as specified in appendix A to this part) that they receive from permittees, facilities, or entities with a waiver from electronic reporting in accordance with § 127.23.

(d) Under § 127.15(d), episodic waivers from electronic reporting may be granted by the authorized NPDES program or the initial recipient to NPDES permittees, facilities, and entities. The authorized NPDES program or initial recipient granting an episodic waiver must provide notice, individually or through means of mass communication, regarding when such an episodic waiver is available, the facilities and entities that may use the episodic waiver, the likely duration of the episodic waiver, and any other directions regarding how facilities and entities should provide the minimum set of NPDES data (as well as other required information in compliance with statutes, regulations, the NPDES permit, another control mechanism, or an enforcement order) to the authorized NPDES program or the initial recipient. No waiver request from the NPDES permittee, facility or entity is required to obtain an episodic waiver from electronic reporting. The authorized NPDES program or initial recipient granting the episodic waiver will determine whether to allow facilities and entities to delay their electronic submissions for a short time (i.e., no more than 40 days) or to send hardcopy (paper) submissions.

§ 127.25 Time for states, tribes, and territories to revise existing programs.

A state, tribe, or territory that has received authorization from EPA to implement the NPDES program must make program revisions in compliance with 40 CFR 123.62(e).

§ 127.26 Implementation plan (authorized states, tribes, and territories).

(a) Initial recipient designation procedure. EPA and authorized state, tribe, and territory NPDES programs must follow the procedure in § 127.27 for determining the initial recipient of electronic NPDES information from NPDES-regulated facilities (see § 127.2(b)).

(b) NPDES data system requirements. Authorized state, tribe, and territory NPDES programs must update their electronic data system to electronically collect the minimum set of NPDES data and facilitate compliance with this part (including §§ 127.22 and 127.23) and 40 CFR part 3. The authorized NPDES program's electronic data system must facilitate electronic reporting from NPDES permittees, facilities, and entities subject to this part [see § 127.1(a)] in compliance with the start dates in Table 1 in § 127.16(a). Authorized NPDES programs may elect to use EPA's national NPDES data system (and related Internet services and applications) for their electronic data system.

(c) Preparatory actions for electronic reporting. Authorized state, tribe, and territory NPDES programs must electronically transfer all NPDES data that supports electronic reporting (e.g., permitting, compliance monitoring, compliance determinations, and enforcement activities) to EPA's national NPDES data system three months prior to the electronic reporting start dates in Table 1 in § 127.16(a) and maintain updates thereafter. These electronic data transfers must be timely, accurate, complete, and consistent (see § 127.23).

(d) Transfer of NPDES program data to EPA. A state, tribe, or territory that is designated by EPA as the initial recipient [see §§ 127.2(b) and 127.27] for an NPDES data group [as defined in § 127.2(c)] must electronically collect and maintain the minimum set of NPDES data (as specified in appendix A to this part) and electronically transfer these data to EPA's national NPDES data system through timely, accurate, complete, and consistent electronic data transfers in compliance with this part (including §§ 127.22 and 127.23) and 40 CFR part 3.

(e) Updating state statutes and regulations. Authorized state, tribe, or territory NPDES programs must update their NPDES programs to implement this part. See 40 CFR 123.62(e).

(f) Inclusion of electronic reporting requirements in NPDES permits. All permits issued by the EPA and the authorized states, tribes, or territory NPDES program must contain permit conditions requiring compliance with the electronic reporting requirements in this part, 40 CFR part 3, and 40 CFR 122.22. NPDES-regulated facilities which already have electronic reporting requirements in their permits that meet the requirements in this part, 40 CFR part 3, and 40 CFR 122.22 must continue their electronic reporting to the initial recipient [see §§ 127.2(b) and 127.27].

(g) Hybrid approach. Authorized state, tribe, or territory NPDES programs may elect to use the Hybrid Approach [as defined in § 127.2(g)] for the collection of the minimum set of NPDES data contained in construction stormwater general permit reports [see Table 1 in § 127.16(a)].

(h) Authorized NPDES program implementation plans. A state, tribe, or territory that is designated by EPA as the initial recipient [see §§ 127.2(b) and 127.27] for an NPDES data group [as defined in § 127.2(c)] must submit an implementation plan to EPA for review. EPA will inform the authorized NPDES program if the implementation plan is adequate. This plan must provide enough details (e.g., tasks, milestones, roles and responsibilities, necessary resources) to clearly describe how the program will successfully implement this part (including a description of their electronic reporting waiver approval process); however, this plan does not include electronic reporting of Discharge Monitoring Reports or Forms Provided or Specified by the Director (DMRs) [40 CFR 122.41(l)(4)]. These implementation plans must be submitted to EPA by December 21, 2016 for EPA review.

(i) Updating waiver approval process. A state, tribe, or territory that is designated by EPA as the initial recipient [see §§ 127.2(b) and 127.27] for an NPDES data group [as defined in § 127.2(c)] must submit an updated waiver approval process to EPA every five years. EPA will inform the authorized NPDES program if the waiver approval process adequate.

(j) Electronic participation rates assessment. EPA will assess the electronic reporting participation rate of NPDES permittees, facilities, and entities subject to this part [see § 127.1(a)] for each authorized NPDES program and by each NPDES data group to determine the appropriateness of using use its authority to increase the electronic reporting percentage rate.

(1) EPA will separately calculate the electronic reporting participation rate for each authorized NPDES program and for each NPDES data group six months after the deadline for conversion from paper to electronic submissions [see the start dates for electronic reporting in Table 1 in § 127.16(a)]. EPA will assess the electronic reporting participation rate for individually permitted facilities separate from the electronic reporting participation rate for general permit covered facilities for Discharge Monitoring Reports [NPDES Data Group Number 3].

(2) As appropriate, EPA will contact the facilities and entities that are not electronically reporting their reports, notices, waivers, and certifications after the start dates for electronic reporting [see Table 1 in § 127.16(a)]. EPA will not contact facilities and entities with waivers from electronic reporting (see § 127.15). EPA will direct these facilities and entities to use the electronic reporting system of the initial recipient [as identified in § 127.27, and as defined in § 127.2(b)].

(3) EPA will annually repeat its review of the electronic reporting participation rate for each authorized NPDES program and for each NPDES group as appropriate and contact facilities and entities as appropriate to use the electronic reporting system of the initial recipient [as identified in § 127.27, and as defined in § 127.2(b)].

§ 127.27 Procedure for determining initial recipient of electronic NPDES information.

(a) An authorized NPDES program must notify EPA by April 19, 2016 if it wishes EPA to be the initial recipient for a particular NPDES data group.

(b) A state, tribe, or territory that seeks authorization to implement an NPDES program after March 21, 2016 must describe if it is requesting to be the initial recipient of electronic NPDES information from NPDES-regulated facilities for specific NPDES data groups. See 40 CFR 123.22(g) and appendix A to this part.

(c) By July 18, 2016, EPA must publish on its Web site and in the Federal Register a listing of the initial recipients for electronic NPDES information from NPDES-regulated facilities by state, tribe, and territory and by NPDES data group. This listing must identify for NPDES-regulated facilities the initial recipient of their NPDES electronic data submissions and the due date for these NPDES electronic data submissions. EPA must update this listing on its Web site and in the Federal Register if a state, tribe, or territory gains authorization status to implement an NPDES program and is also approved by EPA to be the initial recipient of NPDES electronic data submissions for that program.

(d) Failure to maintain all the requirements in this part and 40 CFR part 3 must prohibit the state, territory, or tribe from being the initial recipient of electronic NPDES information from NPDES-regulated entities. The following is the process for these determinations:

(1) EPA must make a preliminary determination identifying if an authorized state, tribe, or territory is not complying with the requirements in this part and 40 CFR part 3 to be an initial recipient of electronic NPDES information from NPDES-regulated facilities. EPA must provide to the Director of the authorized NPDES program the rationale for any such preliminary determination and options for correcting these deficiencies. Within 60 days of EPA's preliminary determination, the authorized state, tribe, or territory must fully correct all deficiencies identified by EPA and notify EPA that such corrections have been completed. No response from the Director of the authorized NPDES program must indicate that the state, territory, or tribe agrees to be removed as the initial recipient for that NPDES data group of electronic NPDES information. Within 90 days of the EPA's preliminary determination, EPA must provide to the Director of the authorized NPDES program a final determination whether the state, tribe, or territory is not complying with the requirements in this part and 40 CFR part 3 to be an initial recipient of electronic NPDES information from NPDES-regulated facilities.

(2) EPA must become the initial recipient of electronic NPDES information from NPDES-regulated facilities if the state, tribe, or territory does not consistently maintain electronic data transfers in compliance with this part and 40 CFR part 3.

(3) EPA must update the initial recipient listing described in paragraph (c) of this section and publish this listing on its Web site and in the Federal Register when it provides a final determination described in paragraph (d)(1) of this section to the Director of the authorized NPDES program.

(4) Following any determination of noncompliance made in compliance with paragraph (d)(1) of this section, EPA will work with the Director of the authorized NPDES program to remediate all issues identified by EPA that prevent the authorized NPDES program from being the initial recipient. When the issues identified by EPA are satisfactorily resolved, EPA must update the initial recipient listing in paragraph (c) of this section in order to list the authorized state, tribe, or territory as the initial recipient for the one or more NPDES data groups. EPA will publish this revised initial recipient listing on its Web site and in the Federal Register.

(e) An authorized NPDES program can initially elect for EPA to be the initial recipient for one or all of the NPDES data groups and then at a later date seek EPA approval to change the initial recipient status for one or all of the NPDES data groups from EPA to the authorized state, tribe, or territory. To make this switch, the authorized state, tribe, or territory will send a request to EPA. This request must identify the specific NPDES data groups for which the state, tribe, or territory would like to be the initial recipient of electronic NPDES information, a description of how its data system will be compliant with this part and 40 CFR part 3, and the date or dates when the state, tribe, or territory will be ready to start receiving this information. After EPA approval of the request, EPA will update the initial recipient list and will publish the revised initial recipient listing on its Web site and in the Federal Register.

(f) An authorized NPDES program can initially elect to be the initial recipient for one or all of the NPDES data groups and then at a later date request that EPA become the initial recipient for one or all of the NPDES data groups. To make this switch, the authorized state, tribe, or territory will send a request to EPA. After coordination with the state EPA will update the initial recipient list and will publish the revised initial recipient listing on its Web site and in the Federal Register.

Appendix A to Part 127—Minimum Set of NPDES Data

The following two tables identify the minimum set of NPDES data that authorized states, tribes, territories must enter or transfer to EPA's national NPDES data system as well as what NPDES-regulated entities must electronically report to the designated initial recipient (authorized NPDES program or EPA) [see 40 CFR 127.2(b)]. Authorized NPDES programs will be the data provider in the event the regulated entity is covered by a waiver from electronic reporting. Use of these two tables ensures that there is consistent and complete reporting nationwide, and expeditious collection and processing of the data, thereby making it more accurate and timely. Taken together, these data standardizations and the corresponding electronic reporting requirements in 40 CFR parts 3, 122, 123, 124, 125, 127, 403, and 503 are designed to save the NPDES authorized programs considerable resources, make reporting easier for NPDES-regulated entities, streamline permit renewals (as permit writers typically review previous noncompliance events during permit renewal), ensure full exchange of NPDES program data between states and EPA to the public, improve environmental decision-making, and protect human health and the environment.

Authorized NPDES programs may also require NPDES regulated entities to submit more data than what is listed in this appendix. The authorized NPDES program can require NPDES regulated entities to submit these “non-appendix A” data on paper, electronically, or attachments to electronic notices and reports filed in compliance with this part.

Instructions: Table 1 of this appendix provides the list of data sources and minimum submission frequencies for the ten different NPDES Data Groups. Table 2 of this appendix provides the data that must be electronically reported for each of these NPDES Data Groups. The use of each data element is determined by identifying the number(s) in the column labeled “NPDES Data Group Number” in Table 2 and finding the corresponding “NPDES Data Group Number” in Table 1. For example, a value of “1” in Table 2 means that this data element is required in the electronic transmission of data from the NPDES program to EPA (Core NPDES Permitting, Compliance, and Enforcement Data). Likewise, a value of “1 through 10” in Table 2 means that this data element is required in all ten NPDES data groups. NPDES regulated entities that have no historical record (e.g., “greenfield” facilities) do not need to provide data elements that rely on historical data elements. For the purposes of this appendix, the term `sewage sludge' [see 40 CFR 503.9(w)] also refers to the material that is commonly referred to as `biosolids.' EPA does not have a regulatory definition for biosolids but this material is commonly referred to as sewage sludge that is placed on, or applied to the land to use the beneficial properties of the material as a soil amendment, conditioner, or fertilizer. EPA's use of the term `biosolids' in this appendix is to confirm that information about beneficially used sewage sludge (a.k.a. biosolids) is part of the data collected in this appendix.

Table 1—Data Sources and Regulatory Citations ¹
NPDES Data group No.² | NPDES data group | Program area | Data provider | Minimum frequency ³
1 | Core NPDES Permitting, Compliance, and Enforcement Data [40 CFR parts 122, 123, 403, 503] | All NPDES Program Sectors | Authorized NPDES Program | Within 40 days of the completed activity or within 40 days of receipt of a report from a regulated entity [see § 127.23(a)(1)]. However, the frequency associated with any particular permittee may be considerably less [e.g., once every five years for most permit information].
2 | General Permit Reports [Notices of Intent to discharge (NOIs); Notices of Termination (NOTs); No Exposure Certifications (NOEs); Low Erosivity Waivers and Other Waivers from Stormwater Controls (LEWs)] [40 CFR 122.26(b)(15), 122.28 and 124.5] | All NPDES Program Sectors | NPDES Permittee | Prior to obtaining coverage under a general permit or consideration for permit exclusion or waiver from permitting, and permit coverage termination. General permits are generally issued once every five years.
3 | Discharge Monitoring Reports [40 CFR 122.41(l)(4)] | Most NPDES Program Sectors | NPDES Permittee | At least annual, more frequent submissions may be required by the permit.
4 | Sewage Sludge/Biosolids Annual Program Reports [40 CFR part 503] | Sewage Sludge/Biosolids | NPDES Regulated Sewage Sludge/Biosolids Generator and Handler | Annual.
5 | Concentrated Animal Feeding Operation (CAFO) Annual Program Reports [40 CFR 122.42(e)(4)] | CAFO | CAFO | Annual.
6 | Municipal Separate Storm Sewer System (MS4) Program Reports [40 CFR 122.34(g)(3) and 122.42(c)] | MS4 | NPDES Permittee | Year two and year four of permit coverage (Small MS4), Annual (Medium and Large MS4).
7 | Pretreatment Program Reports [40 CFR 403.12(i)] | Pretreatment | POTW Pretreatment Control Authority, Approval Authority for SIUs in Municipalities Without Approved Pretreatment Programs | Annual.
8 | Significant Industrial User Compliance Reports in Municipalities Without Approved Pretreatment Programs [40 CFR 403.12(e) and (h)] | Pretreatment | Significant Industrial User | Bi-Annual.
9 | Sewer Overflow Event Reports [40 CFR 122.41(l)(6) and (7)] | Sewer Overflows | NPDES Permittee | Within 5 days of the time the permittee becomes aware of the sewer overflow event (health or environment endangerment), Monitoring report frequency specific in permit (all other sewer overflow events).
10 | CWA section 316(b) Annual Reports [40 CFR part 125, subpart J] | CWA section 316(b) | NPDES Permittee | Annual.
¹ Entities regulated by a NPDES permit will comply with all reporting requirements in their respective NPDES permit.
² Use the “NPDES Data Group Number” in this table and the “NPDES Data Group Number” column in Table 2 of this appendix to identify the source of the required data entry. EPA notes that electronic systems may use additional data to facilitate electronic reporting as well as management and reporting of electronic data. For example, NPDES permittees may be required to enter their NPDES permit number (“NPDES ID”—NPDES Data Group 1 and 2) into the applicable electronic reporting system in order to identify their permit and submit a Discharge Monitoring Report (DMR—NPDES Data Group 3). Additionally, NPDES regulated entities may be required to enter and submit data to update or correct erroneous data. For example, NPDES permittees may be required to enter new data regarding the Facility Individual First Name and Last Name (NPDES Data Group 1 and 2) with their DMR submission when there is a facility personnel change.
³ The applicable reporting frequency is specified in the NPDES permit or control mechanism, which may be more frequent than the minimum frequency specified in this table.

Table 2—Required NPDES Program Data
Data name | Data description | CWA, regulatory (40 CFR), or other citation | NPDES data group No. (see Table 1)
Basic Facility Information
[Note: As indicated in the “CWA, Regulatory, or Other Citation” column, some of these data elements apply to Significant Industrial Users (SIUs) and Categorical Industrial Users (CIUs) that discharge (including non-domestic wastewater delivered by truck, rail, and dedicated pipe or other means of transportation) to one or more POTWs and to regulated entities or locations that generate, process, or receive biosolids or sewage sludge.]
Facility Type of Ownership | The unique code/description identifying the type of facility (e.g., state government, municipal or water district, Federal facility, tribal facility). This data element is used by EPA's national NPDES data system to identify the facility type (e.g., POTW, Non-POTW, and Federal) | 122.21, 122.21(j)(6), 122.21(q), 122.28(b)(2)(ii), 403.8(f), 403.10, 403.12(i), 503.18, 503.28, 503.48 | 1, 2, 4, and 7.
Facility Site Name | The name of the facility | 122.21, 122.21(j)(6), 122.21(q), 122.28(b)(2)(ii), 122.44(j), 403.8(f), 403.10, 403.12(i), 503.18, 503.28, 503.48 | 1, 2, 4, and 7.
Facility Site Address | The address of the physical facility location | 122.21, 122.21(j)(6), 122.21(q), 122.28(b)(2)(ii), 122.44(j), 403.8(f), 403.10, 403.12(i), 503.18, 503.28, 503.48 | 1, 2, 4, and 7.
Facility Site City | The name of the city, town, village, or other locality, when identifiable, within which the boundaries (the majority of) the facility site is located. This is not always the same as the city used for USPS mail delivery | 122.21, 122.21(j)(6), 122.21(q), 122.28(b)(2)(ii), 122.44(j), 403.8(f), 403.10, 403.12(i), 503.18, 503.28, 503.48 | 1, 2, 4, and 7.
Facility Site State | The U.S. Postal Service (USPS) abbreviation for the state or state equivalent for the U.S. where the facility is located | 122.21, 122.21(j)(6), 122.21(q), 122.28(b)(2)(ii), 122.44(j), 403.8(f), 403.10, 403.12(i), 503.18, 503.28, 503.48 | 1, 2, 4, and 7.
Facility Site Zip Code | The combination of the 5-digit Zone Improvement Plan (ZIP) code and the 4-digit extension code (if available) where the facility is located. This zip code match the “Facility Site City” or the city used for USPS mail delivery | 122.21, 122.21(j)(6), 122.21(q), 122.28(b)(2)(ii), 122.44(j), 403.8(f), 403.10, 403.12(i), 503.18, 503.28, 503.48 | 1, 2, 4, and 7.
Facility Site Tribal Land Indicator | The EPA Tribal Internal Identifier for every unit of land trust allotment (“tribal land”) within Indian Country (i.e., Federally recognized American Indian and Alaska Native tribal entities). This unique identifier will identify whether the facility is on tribal land and the current name of the American Indian tribe or Alaskan Native entity. This unique identifier is different from the Bureau of Indian Affairs tribal code and does not change when a Tribe changes its name | 122.21, 122.21(q), 122.28(b)(2)(ii), 503.18, 503.28, 503.48 | 1, 2, and 4.
Facility Site Longitude | The measure of the angular distance on a meridian east or west of the prime meridian for the facility. The format for this data element is decimal degrees (e.g., −77.029289) and the WGS84 standard coordinate system. This data element will also be used to describe the two-dimensional area (polygon) regulated by a municipal storm sewer system (MS4) NPDES permit through use of multiple latitude and longitude coordinates. For MS4 the polygon data should provide a reasonable estimate of the MS4 boundaries. This data element can also be system generated when the Facility Site Address, Facility Site City, and Facility Site State data elements can be used to generate accurate longitude and latitude values. (Note: “Post Office Box” addresses and “Rural Route” addresses are generally not geocodable) | 122.21, 122.21(q), 122.28(b)(2)(ii), 503.18, 503.28, 503.48 | 1, 2, and 4.
Facility Site Latitude | The measure of the angular distance on a meridian north or south of the equator for the facility. The format for this data element is decimal degrees (e.g., 38.893829) and the WGS84 standard coordinate system. This data element will also be used to describe the two-dimensional area (polygon) regulated by a municipal storm sewer system (MS4) NPDES permit through use of multiple latitude and longitude coordinates. This data element can also be system generated when the Facility Site Address, Facility Site City, and Facility Site State data elements can be used to generate accurate longitude and latitude values. (Note: “Post Office Box” addresses and “Rural Route” addresses are generally not geocodable) | 122.21, 122.21(q), 122.28(b)(2)(ii), 503.18, 503.28, 503.48 | 1, 2, and 4.
Facility Contact Affiliation Type | The affiliation of the contact with the facility (e.g., “Owner,” “Operator,” or “Main Contact”). This is a unique code/description that identifies the nature of the individual's affiliation to the facility | 122.21, 122.21(j)(6), 122.21(q), 122.28(b)(2)(ii), 403.8(f), 403.10, 403.12(i), 503.18, 503.28, 503.48 | 1, 2, 4, and 7.
Facility Contact First Name | The given name of an individual affiliated with this facility | 122.21, 122.21(j)(6), 122.21(q), 122.28(b)(2)(ii), 403.8(f), 403.10, 403.12(i), 503.18, 503.28, 503.48 | 1, 2, 4, and 7.
Facility Contact Last Name | The surname of an individual affiliated with this facility | 122.21, 122.21(j)(6), 122.21(q), 122.28(b)(2)(ii), 403.8(f), 403.10, 403.12(i), 503.18, 503.28, 503.48 | 1, 2, 4, and 7.
Facility Contact Title | The title held by an individual in an organization affiliated with this facility | 122.21, 122.21(j)(6), 122.21(q), 122.28(b)(2)(ii), 403.8(f), 403.10, 403.12(i), 503.18, 503.28, 503.48 | 1, 2, 4, and 7.
Facility Contact EMail Address | The business email address of the designated individual affiliated with this facility | 122.21, 122.21(j)(6), 122.21(q), 122.28(b)(2)(ii), 403.8(f), 403.10, 403.12(i), 503.18, 503.28, 503.48 | 1, 2, 4, and 7.
Facility Organization Formal Name | The legal name of the person, firm, public organization, or other entity that operates the facility. This name may or may not be the same name as the facility. The operator of the facility is the legal entity that controls the facility's operation rather than the facility or site manager. This data element should not use a colloquial name. This field is optional for MS4 permittees | 122.21, 122.21(j)(6), 122.21(q), 122.28(b)(2)(ii), 403.8(f), 403.10, 403.12(i), 503.18, 503.28, 503.48 | 1, 2, 4, and 7.
Basic Permit Information
[Note: As indicated in the “CWA, Regulatory, or Other Citation” column, some of these data elements also apply to Significant Industrial Users (SIUs) and Categorical Industrial Users (CIUs) that discharge (including non-domestic wastewater delivered by truck, rail, and dedicated pipe or other means of transportation) to one or more POTWs and to regulated entities or locations that generate, process, or receive biosolids or sewage sludge.]
NPDES ID | This is the unique identifier for the NPDES permit or control mechanism for NPDES regulated entities or Unpermitted ID for an unpermitted facility. This data elements is used for compliance monitoring activities, violation determinations, and enforcement actions. This data element also applies to Significant Industrial Users (SIUs) and Categorical Industrial Users (CIUs) that discharge (including non-domestic wastewater delivered by truck, rail, and dedicated pipe or other means of transportation) to one or more POTWs in states where the POTW is the Control Authority | 122.2, 122.21, 122.21(j)(6), 122.21(q), 122.28(b)(2)(ii), 122.34(g)(3), 122.41(l)(4)(i), 122.41(l)(6) and (7), 122.41(m)(3), 122.42(c), 122.42(e)(4), 123.26, 123.41(a), 125.96, 125.97(g), 125.98, 125.138(b), 401.14, 403.10, 403.12(e), 403.12(h), 403.12(i), 503.18, 503.28, 503.48 | 1, 2, 3, 4, 5, 6, 7, 8, 9, 10.
Master General Permit Number | The unique identifier of the master general permit, which is linked to a General Permit Covered Facility. This data element only applies to facilities regulated by a master general permit | 122.2, 122.21, 122.21(j)(6), 122.21(q), 122.28(b)(2)(ii), 122.34(g)(3), 122.41(l)(4)(i), 122.41(l)(6) and (7), 122.41(m)(3), 122.42(c), 122.42(e)(4), 123.26, 123.41(a), 403.10, 403.12(e), 403.12(h), 403.12(i), 503.18, 503.28, 503.48 | 1, 2.
Permit Type | The unique code/description identifying the type of permit [e.g., NPDES Individual Permit, NPDES Master General Permit, General Permit Covered Facility, State Issued Non-NPDES General Permit, Individual IU Permit (Non-NPDES), Individual State Issued Permit (Non-NPDES)] | 122.2, 122.21, 122.21(j)(6), 122.21(q), 122.28(b)(2)(ii), 403.10 | 1, 2.
Permit Component | This will identify one or more applicable NPDES subprograms (e.g., pretreatment, CAFO, CSO, POTW, biosolids/sewage sludge, stormwater) for the permit record. This field is only required when the permit includes one or more NPDES subprograms | 122.2, 122.21, 122.21(j)(6), 122.21(q), 122.28(b)(2)(ii), 403.10 | 1, 2.
Permit Issue Date | This is the date the permit was issued. The date must be provided in YYYY-MM-DD format where YYYY is the year, MM is the month, and DD is the day | 122.46 | 1.
Permit Effective Date | This is the date on which the permit is effective. The date must be provided in YYYY-MM-DD format where YYYY is the year, MM is the month, and DD is the day | 122.46, 122.21, 122.21(j)(6), 122.21(q), 403.10 | 1.
Permit Modification/Amendment Date | This is the date on which the permit was modified or amended. The date must be provided in YYYY-MM-DD format where YYYY is the year, MM is the month, and DD is the day | 122.62, 122.63, 403.10 | 1.
Permit Expiration Date | This is the date the permit will expire. The date must be provided in YYYY-MM-DD format where YYYY is the year, MM is the month, and DD is the day | 122.46, 122.21, 122.21(j)(6), 122.21(q), 403.10 | 1.
Permit Termination Date | This is the date the permit was terminated. The date must be provided in YYYY-MM-DD format where YYYY is the year, MM is the month, and DD is the day | 122.64, 403.10 | 1.
Permit Major/Minor Status Indicator | This code/description identifies the permit status as “Major” or “Nonmajor” (a.k.a. “Minor”). This data element is initially system generated and defaults to “Minor”. The most recent permit status is copied when the permit is reissued | 122.2 | 1.
Permit Major/Minor Status Start Date | The date that the permit became its current Major/Minor status. Initially system-generated to match effective date. The date must be provided in YYYY-MM-DD format where YYYY is the year, MM is the month, and DD is the day | 122.2 | 1.
Permit Application Total Design Flow | This is the design flow rate that a permitted facility was designed to accommodate, in millions of gallons per day (MGD). This is only required for wastewater treatment plants | 122.21, 122.28(b)(2)(ii), 403.10(f) | 1, 2.
Permit Application Total Actual Average Flow | This is the annual average daily flow rate that a permitted facility will likely accommodate at the start of its permit term, in MGD. This is only required for wastewater treatment plants | 122.21,122.28(b)(2)(ii), 122.41, 403.10(f) | 1, 2.
Complete Permit Application/NOI Received Date | This is the date on which the complete application for an individual NPDES permit was received or a complete Notice of Intent (NOI) for coverage under a master general permit was received. The date must be provided in YYYY-MM-DD format where YYYY is the year, MM is the month, and DD is the day. This data element can be system generated when the complete NOI is electronically received by the NPDES program | 122.21, 122.28(b)(2)(ii), 403.10(f) | 1.
Permit Application/NOI Received Date | This is the date on which the application for an individual NPDES permit was received or a Notice of Intent (NOI) for coverage under a master general permit was received. The date must be provided in YYYY-MM-DD format where YYYY is the year, MM is the month, and DD is the day. This data element can be system generated when the NPDES permit application or NOI is electronically received by the NPDES program | 122.21, 122.28(b)(2)(ii), 403.10(f) | 1.
Permit Status | This is a unique code/description that identifies the permit status (e.g., Effective, Expired, Administratively Continued, Pending, Not Needed, Retired, Denied, and Terminated). This is system generated for all statuses except “Not Needed,” which must be user entered | 122.21, 122.21(j)(6), 122.21(q), 122.64, 122.46, 403.10(f) | 1.
Master General Permit Industrial Category | These are the one or more unique codes/descriptions that identify the one or more industrial categories covered by the master general permit. This field is required for master general permits only | 122.21, 122.21(j)(6), 122.21(q), 122.28(b)(2)(ii), 403.10(f) | 1.
Permit Issuing Organization Type | This is the type of organization issuing a permit (e.g., County, Federal, Local, Municipal, Regional, State, Tribal) | 122.21, 122.21(j)(6), 122.21(q), 123.41, 403.10(f) | 1.
DMR Non-Receipt | Turns non-receipt tracking for compliance monitoring submissions [e.g., discharge monitoring reports (DMRs)] “on” or “off” for non-major permits (a.k.a. “minors”). This field is always “on” for major permits. This data element is initially system generated (defaults to “on”) and the most recent value is copied when the permit is reissued. . This data element will also be used to track non-receipt tracking of periodic compliance monitoring data [40 CFR 403.12(e) and (h)] for Significant Industrial Users (SIUs) and Categorical Industrial Users (CIUs) that discharge (including non-domestic wastewater delivered by truck, rail, and dedicated pipe or other means of transportation) to one or more POTWs in states where EPA or the State is the Control Authority) | 123.45, 403.10(f) | 1.
DMR Non-Receipt Start Date | This is the date on which the permit's “on” or “off” period for DMR Non-Receipt tracking status began. Initially system-generated to match effective date. The date must be provided in YYYY-MM-DD format where YYYY is the year, MM is the month, and DD is the day. This data element will also be used to track non-receipt tracking of periodic compliance monitoring data [40 CFR 403.12(e) and (h)] for Significant Industrial Users (SIUs) and Categorical Industrial Users (CIUs) that discharge (including non-domestic wastewater delivered by truck, rail, and dedicated pipe or other means of transportation) to one or more POTWs in states where EPA or the State is the Control Authority) | 123.45, 403.10(f) | 1.
Reportable Noncompliance Tracking | Turns reportable noncompliance (RNC) tracking “on” or “off” for non-major permits (a.k.a. “minors”). This data element is initially system generated (defaults to “on”) and the most recent value is copied when the permit is reissued | 123.45, 403.10(f) | 1.
Reportable Noncompliance Tracking Start Date | This is the date on which the permit's “on” or “off” period for Reportable Noncompliance Tracking status began. Initially system-generated to match effective date. The date must be provided in YYYY-MM-DD format where YYYY is the year, MM is the month, and DD is the day | 123.45, 403.10(f) | 1.
Applicable Effluent Limitations Guidelines | The applicable effluent limitations guidelines and new source performance standards in the NPDES permit (e.g., part 414—Organic chemicals, plastics, and synthetic fibers point source category). This data element also applies to SIUs and CIUs that discharge (including non-domestic wastewater delivered by truck, rail, and dedicated pipe or other means of transportation) to one or more POTWs in states where the POTW is the Control Authority | 122.21, 122.21(j)(6), 122.21(q), 122.44, 403.10(f) | 1.
Permit Compliance Tracking Status | This is a unique code/description that indicates whether the permit is currently “on” or “off” for compliance tracking purposes. This data element is initially system generated (defaults to “on”) and the most recent value is copied when the permit is reissued | 122.21, 122.21(j)(6), 122.21(q), 123.45, 403.10(f) | 1.
Permit Compliance Tracking Status Start Date | This is the date on which the permit's “on” or “off” period for compliance tracking status began. Initially system-generated to match effective date. The date must be provided in YYYY-MM-DD format where YYYY is the year, MM is the month, and DD is the day | 122.21, 122.21(j)(6), 122.21(q), 123.45, 403.10(f) | 1.
RNC Status (Manual) | The status of reportable noncompliance (RNC) as it was entered by the regulatory authority for the official Quarterly Noncompliance Report (QNCR) or NPDES Noncompliance Report (NNCR). This data element can also be revised by the regulatory authority | 122.21, 122.21(j)(6), 122.21(q), 123.45, 403.10(f) | 1.
RNC Status (Manual) Year | The year associated with the RNC Status (Manual) being reported. This data element is used for the official Quarterly Noncompliance Report (QNCR) or NPDES Noncompliance Report (NNCR). This data element can also be revised by the regulatory authority | 122.21, 122.21(j)(6), 122.21(q), 123.45, 403.10(f) | 1.
RNC Status (Manual) Quarter | The quarter associated with the RNC Status (Manual) being reported. This data element is used for the official Quarterly Noncompliance Report (QNCR) or NPDES Noncompliance Report (NNCR). This data element can also be revised by the regulatory authority | 122.21, 122.21(j)(6), 122.21(q), 123.45, 403.10(f) | 1.
Associated NPDES ID Number | If applicable, the unique identifier for each NPDES Permit that is related to another NPDES Permit. For example, this data element identifies the recipient POTW's NPDES ID for each satellite collection system, the suppliers of biosolids and sewage sludge to a land application site, and the one or more NPDES IDs for other permitted operators at the same construction site or industrial facility. This data element does not apply to municipal storm sewer systems (MS4s) as other data elements create linkages between these entities | 122.2, 122.21, 122.21(j)(6), 122.21(q), 122.28(b)(2)(ii), 122.41(l)(4)(i), 122.41(l)(6) and (7), 122.41(m)(3), 122.42(e)(4), 123.26, 123.41(a), 503.18, 503.28, 503.48 | 1 through 5, 7, 8, and 9.
Associated NPDES ID Number Reason | The unique code/description that identifies the reason for the association between two NPDES IDs (e.g., ETP = Effluent Trade Partner, APR = Associated Permit Record, SIP = Switched To An Individual Permit, SGP = Switched To A General Permit. This data element does not apply to municipal storm sewer systems (MS4s) as other data elements create linkages between these entities | 122.2, 122.21, 122.21(j)(6), 122.21(q), 122.28(b)(2)(ii), 122.41(l)(4)(i), 122.41(l)(6) and (7), 122.41(m)(3), 122.42(e)(4), 123.26, 123.41(a), 503.18, 503.28, 503.48 | 1 through 5, 7, 8, and 9.
Receiving POTW ID | This data element will identify for each Significant Industrial Users (SIUs) and Categorical Industrial Users (CIUs) the unique identifier of the one or more POTWs receiving the discharge. This includes non-domestic wastewater delivered by truck, rail, and dedicated pipe or other means of transportation to the one or more receiving POTWs. This data element only applies to SIUs and CIUs and will link the industrial discharger to the one or more receiving POTWs | 122.21, 122.21(j)(6), | 1, 2, and 7.
SIC Code | The one or more four-digit Standard Industrial Classification (SIC) codes that represent the economic activities of the facility. This data element also applies to SIUs and CIUs that discharge (including non-domestic wastewater delivered by truck, rail, and dedicated pipe or other means of transportation) to one or more POTWs in states where the POTW is the Control Authority. A value of “4952” can be system generated for POTWs and TWTDS | 122.21, 122.21(j)(6), 122.21(q), 122.28(b)(2)(ii), 403.10(f), 403.12(e), 403.12(h), 403.12(i), 503.18, 503.28, 503.48 | 1, 2, and 7.
SIC Code Primary Indicator | This data element will identify the primary economic activity, SIC code, of the facility. This data element is required for electronic data transfer between state and EPA systems. This data element also applies to SIUs and CIUs that discharge (including non-domestic wastewater delivered by truck, rail, and dedicated pipe or other means of transportation) to one or more POTWs in states where the POTW is the Control Authority | 122.21, 122.21(j)(6), 122.21(q), 122.28(b)(2)(ii), 403.10(f), 403.12(e), 403.12(h), 403.12(i), 503.18, 503.28, 503.48 | 1, 2, and 7.
NAICS Code | The six-digit North American Industry Classification System (NAICS) code/description that represents the economic activity of the facility. This field is optional if the “SIC Code” data element is provided for the facility | EPA SIC/NAICS Data Standard, Standard No. EX000022.2, 6 January 2006, Office of Management and Budget, Executive Office of the President, Final Decision on North American Industry Classification System (62 FR 17288), 403.10(f) | 1, 2, and 7.
NAICS Code Primary Indicator | This data element will identify the primary economic activity, NAICS code, of the facility. This data element is required for electronic data transfer between state and EPA systems. This field is optional if the “SIC Code” data element is provided for the facility | EPA SIC/NAICS Data Standard, Standard No. EX000022.2, 6 January 2006, Office of Management and Budget, Executive Office of the President, Final Decision on North American Industry Classification System (62 FR 17288), 403.10(f) | 1, 2, and 7.
Permittee Mailing Address | The mailing address of the permit holder | 122.21, 122.21(j)(6), 122.21(q), 122.28(b)(2)(ii), 403.10(f) | 1, 2.
Permittee Organization Formal Name | The legal, formal name of the organization that holds the permit | 122.21, 122.21(j)(6), 122.21(q), 122.28(b)(2)(ii), 403.10(f) | 1, 2.
Permittee City | The name of the city, town, or village where the mail is delivered for the permit holder | 122.21, 122.21(j)(6), 122.21(q), 122.28(b)(2)(ii), 403.10(f) | 1, 2.
Permittee State | The U.S. Postal Service abbreviation that represents the state or state equivalent for the U.S. for the permit holder | 122.21, 122.21(j)(6), 122.21(q), 122.28(b)(2)(ii), 403.10(f) | 1, 2.
Permittee Zip Code | The combination of the 5-digit Zone Improvement Plan (ZIP) code and the 4-digit extension code (if available) that represents the geographic segment that is a sub-unit of the ZIP Code assigned by the U.S. Postal Service to a geographic location for the permit holder | 122.21, 122.21(j)(6), 122.21(q), 122.28(b)(2)(ii), 403.10(f) | 1, 2.
Residual Designation Determination Code | Under section 402(p)(2)(E) and (6) and 40 CFR 122.26(a)(9)(i)(C) and (D), the authorized NPDES program or the EPA Regional Administrator may specifically designate stormwater discharges as requiring an NPDES permit. In this `residual designation' process the NPDES permitting authority regulates stormwater discharges based on: (1) Wasteload allocations that are part of “total maximum daily loads” (TMDLs) that address the pollutant(s) of concern in the stormwater discharges [see 40 CFR 122.26(a)(9)(i)(C)]; or (2) the determination that the stormwater discharge, or category of stormwater discharges within a geographic area, contributes to a violation of a water quality standard or is a significant contributor of pollutants to waters of the United States [see 40 CFR 122.26(a)(9)(i)(D)]. This data element is the unique code/description that identifies the main basis for this residual designation determination. This data element only applies to stormwater permits | 122.26(a)(9)(i)(C) and (D) and CWA section 402(p) | 1.
Electronic Reporting Waiver Type | The unique code/description that identifies whether the authorized NPDES program has granted the permittee a waiver from electronic reporting in compliance with this part (1 = temporary waiver; 2 = permanent waiver). This data element should be left blank if the permittee does not have a waiver from electronic reporting in compliance with this part | 123.26, 123.41(a) and CWA section 308 | 1.
Electronic Reporting Waiver Expiration Date | This is the expiration date for a temporary waiver from electronic reporting in compliance with this part. This data element should be left blank if the permittee has a permanent waiver from electronic reporting or if the permittee does not have a waiver from electronic reporting in compliance with this part | 123.26, 123.41(a) and CWA section 308 | 1.
Electronic Submission Type (General Permit Reports) | This is the unique code/description for each general permit report submitted by the facility or entity. Notices, certifications, and waiver requests covered by this data element are listed in Table 1 in this appendix (i.e., NPDES Data Group 2). This data element describes how each submission was electronically collected or processed by the initial recipient [see § 127.2(b)]. For example, these unique codes/descriptions include: (1) NPDES regulated entity submits NPDES program data using an EPA electronic reporting system; (2) NPDES regulated entity submits NPDES program data using an authorized NPDES program electronic reporting system; (3) NPDES regulated entity has temporary waiver from electronic reporting and submits NPDES program data on paper to the authorized NPDES program who then electronically uses manual data entry to electronically process these data; (4) NPDES regulated entity has a permanent waiver from electronic reporting and submits NPDES program data on paper to the authorized NPDES program who then electronically uses manual data entry to electronically process these data; (5) NPDES regulated entity has an episodic waiver from electronic reporting and submits NPDES program data on paper to the authorized NPDES program who then electronically uses manual data entry to electronically process these data; (6) NPDES regulated entity submits NPDES program data on paper in a form that allows the authorized NPDES program to use of automatic identification and data capture technology to electronically process these data; (7) NPDES regulated entity submits NPDES program data using another electronic reporting system (e.g., third-party). This data element can sometimes be system generated (e.g., incorporated into an electronic reporting tool). This data element does not identify the electronic submission type of other reports (NPDES Data Groups = 3 through 10 in Table 1), which is tracked by the “Electronic Submission Type (Compliance Monitoring Activity)” data element | 123.26, 123.41(a) and CWA section 308 | 1.
NPDES Data Group Number | This is the unique code/description that identifies the types of NPDES program data that are required to be reported by the facility. This corresponds to Table 1 in this appendix (e.g., 3 = Discharge Monitoring Report [40 CFR 122.41(l)(4)]). This data element can be system generated. This data element will record each NPDES Data Group that the facility is required to submit. For example, when a POTW is required to submit a Discharge Monitoring Report, Sewage Sludge/Biosolids Annual Program Report, Pretreatment Program Report, and Sewer Overflow/Bypass Event Report, the values for this data element for this facility will be 3, 4, 7, and 9. The following general permit reports will have the following values for this data element: 2a = Notice of Intent to discharge (NOI); 2b = Notice of Termination (NOT); 2c = No Exposure Certification (NOE); and 2d = Low Erosivity Waiver or Other Waiver from Stormwater Controls (LEW) | 122.2, 122.21, 122.21(j)(6), 122.21(q), 122.28(b)(2)(ii), 122.34(g)(3), 122.41(l)(4)(i), 122.41(l)(6) and (7), 122.41(m)(3), 122.42(c), 122.42(e)(4), 123.26, 123.41(a), 403.10, 403.12(e), 403.12(h), 403.12(i), 503.18, 503.28, 503.48 and CWA section 308 | 1.
Narrative Conditions and Permit Schedules Information
[Note: As indicated in the “CWA, Regulatory, or Other Citation” column, these data elements also apply to Significant Industrial Users (SIUs) and Categorical Industrial Users (CIUs) that discharge (including non-domestic wastewater delivered by truck, rail, and dedicated pipe or other means of transportation) to one or more POTWs in states where EPA or the State is the Control Authority].
Permit Narrative Condition Code | The unique code/description that identifies the type of narrative condition | 122.47, 403.10(f) | 1.
Permit Narrative Condition Number | This number uniquely identifies a narrative condition and its elements for a permit | 122.47, 403.10(f) | 1.
Permit Schedule Date | The date on which a permit schedule event is due to be completed and against which compliance will be measured. The date must be provided in YYYY-MM-DD format where YYYY is the year, MM is the month, and DD is the day | 122.47, 403.10(f) | 1.
Permit Schedule Actual Date | The date on which the permittee achieved the schedule event. The date must be provided in YYYY-MM-DD format where YYYY is the year, MM is the month, and DD is the day | 122.47, 403.10(f) | 1.
Required Report Received Date | The date on which the regulatory authority receives a report from the permittee indicating that a scheduled event was completed (e.g., the start of construction) or the date on which the regulatory authority received the required report. The date must be provided in YYYY-MM-DD format where YYYY is the year, MM is the month, and DD is the day | 122.47, 403.10(f) | 1.
Permit Schedule Event Code | The unique code/description indicating the one or more events with which the permittee is scheduled to comply | 122.47, 403.10(f) | 1.
Permitted Feature Information
[Note: These `Permitted Feature' data elements are only required to be submitted for permits that require limits or outfall monitoring for stationary point sources. Additionally, as indicated in the “CWA, Regulatory, or Other Citation” column, some of these data elements apply to Significant Industrial Users (SIUs) and Categorical Industrial Users (CIUs) that discharge (including non-domestic wastewater delivered by truck, rail, and dedicated pipe or other means of transportation) to one or more POTWs in states where EPA or the State is the Control Authority].
Permitted Feature Application Actual Average Flow (MGD) | The average flow that a permitted feature will actually discharge or transmit, in MGD, at the start of its permit term. This data element does not apply to regulated entities that do not discharge (e.g., some biosolids/sewage sludge generators) and entities that only discharge stormwater. This data element may also not apply to some intermittent dischargers | 122.21, 122.28(b)(2)(ii), 403.10(f) | 1, 2.
Permitted Feature Identifier (Permit) | The identifier assigned for each location at which conditions are being applied (e.g., external outfall). This data element also identifies cooling water intake structures | 122.21, 122.28(b)(2)(ii), 403.10(f) | 1, 2.
Permitted Feature Type | The code/description that uniquely identifies the type of permitted feature (e.g. external outfall, sum, intake structure, cooling water intake structure) | 122.21, 122.28(b)(2)(ii), 403.10(f) | 1, 2.
Receiving Waterbody Name for Permitted Feature | The name of the waterbody that is or will likely receive the discharge from each permitted feature | 122.21, 122.28(b)(2)(ii) | 1, 2.
Permitted Feature Longitude | The measure of the angular distance on a meridian east or west of the prime meridian for the permitted feature. The format for this data element is decimal degrees (e.g., -77.029289) and the WGS84 standard coordinate system | 122.21, 122.28(b)(2)(ii) | 1, 2.
Permitted Feature Latitude | The measure of the angular distance on a meridian north or south of the equator for the permitted feature. The format for this data element is decimal degrees (e.g., 38.893829) and the WGS84 standard coordinate system | 122.21, 122.28(b)(2)(ii) | 1, 2.
Limit Set Information
[Note: These ‘Limit Set’ data elements are only required to be submitted for permits that require limits or outfall monitoring for stationary point sources. Additionally, as indicated in the “CWA, Regulatory, or Other Citation” column, these data elements apply to Significant Industrial Users (SIUs) and Categorical Industrial Users (CIUs) that discharge (including non-domestic wastewater delivered by truck, rail, and dedicated pipe or other means of transportation) to one or more POTWs in states where EPA or the State is the Control Authority].
Limit Set Designator | The alphanumeric field that is used to designate a particular grouping of parameters within a limit set | 122.45, 403.10(f) | 1.
Limit Set Type | The unique code/description identifying the type of limit set (e.g., scheduled, unscheduled) | 122.45, 403.10(f) | 1.
Modification Effective Date (Limit Set) | The effective date of the permit modification that updated or created a limit set. The date must be provided in YYYY-MM-DD format where YYYY is the year, MM is the month, and DD is the day | 122.45, 403.10(f) | 1.
Modification Type (Limit Set) | The type of permit modification that updated or created this limit set (e.g., major modification, minor modification, permit authorized change) | 122.45, 403.10(f) | 1.
Initial Monitoring Date | The date on which monitoring starts for the first monitoring period for the limit set. This date will be blank for unscheduled limit sets. The date must be provided in YYYY-MM-DD format where YYYY is the year, MM is the month, and DD is the day | 122.45, 403.10(f) | 1.
Initial DMR Due Date | The date that the first compliance monitoring submission (e.g., DMR) for the limit set is due to the regulatory authority. This date will be blank for unscheduled limit sets. The date must be provided in YYYY-MM-DD format where YYYY is the year, MM is the month, and DD is the day. This data element will also be used to track non-receipt tracking of periodic compliance monitoring data [40 CFR 403.12(e) and (h)] for Significant Industrial Users (SIUs) and Categorical Industrial Users (CIUs) that discharge (including non-domestic wastewater delivered by truck, rail, and dedicated pipe or other means of transportation) to one or more POTWs in states where EPA or the State is the Control Authority) | 122.45, 403.10(f) | 1.
Number of Report Units | The number of months covered in each compliance monitoring period (e.g., monthly = 1, semi-annually = 6, quarterly = 3) | 122.45, 403.10(f) | 1.
Number of Submission Units | The number of months between compliance monitoring submissions (e.g., monthly = 1, semi-annually = 6, quarterly = 3). This data element will be blank for unscheduled limit sets For example, if the permittee was required to submit monthly reports every quarter, the number of report units would be one (i.e., monthly) and the number of submission units would be three (i.e., three months of information in each submission). | 122.45, 403.10(f) | 1.
Limit Set Status | The status of the limit set (e.g., active, inactive). Limit sets will not have violations generated when a limit set is inactive unless an enforcement action limit is present | subpart C of 122, 403.10(f) | 1.
Limit Set Status Start Date | The date that the Limit Set Status started. The date must be provided in YYYY-MM-DD format where YYYY is the year, MM is the month, and DD is the day | 123.45, 403.10(f) | 1.
Limit Information
[Note: These ‘Limit’ data elements are only required to be submitted for permits that require limits or outfall monitoring for stationary point sources. Additionally, as indicated in the “CWA, Regulatory, or Other Citation” column, some of these data elements apply to Significant Industrial Users (SIUs) and Categorical Industrial Users (CIUs) that discharge (including non-domestic wastewater delivered by truck, rail, and dedicated pipe or other means of transportation) to one or more POTWs in states where EPA or the State is the Control Authority].
Monitoring Location Code | The unique code/description of the monitoring location at which sampling should occur for a limit parameter | 122.45, 403.10(f) | 1.
Limit Season Number | Indicates the season of a limit and is used to enter different seasonal limits for the same parameter within a single limit start and end date | 122.45, 403.10(f) | 1.
Limit Start Date | The date on which a limit starts being in effect for a particular parameter in a limit set. The date must be provided in YYYY-MM-DD format where YYYY is the year, MM is the month, and DD is the day | 122.45, 403.10(f) | 1.
Limit End Date | The date on which a limit stops being in effect for a particular parameter in a limit set. The date must be provided in YYYY-MM-DD format where YYYY is the year, MM is the month, and DD is the day | 122.45, 403.10(f) | 1.
Change of Limit Status Indicator | The unique code/description that describes circumstances affecting limits, such as formal enforcement actions or permit modifications | subpart C of 122, 403.10(f) | 1.
Limit Stay Type | The unique identifier of the type of stay applied to a limit (e.g., X, Y, Z), which indicates whether the limits do not appear on the compliance monitoring report (e.g., DMR) at all, are treated as monitor only, or have a stay value in effect during the period of the stay | 122.45, 403.10(f) | 1.
Limit Stay Start Date | The date on which a limit stay begins. The date must be provided in YYYY-MM-DD format where YYYY is the year, MM is the month, and DD is the day | 124.19, 403.10(f) | 1.
Limit Stay End Date | The date on which a limit stay is lifted. The date must be provided in YYYY-MM-DD format where YYYY is the year, MM is the month, and DD is the day | 124.19, 403.10(f) | 1.
Reason for Limit Stay | The text that represents the reason a stay was applied to a permit | 124.19, 403.10(f) | 1.
Stay Limit Value | The numeric limit value imposed during the period of the stay for the limit; if entered, during the stay period, the system will use this limit value for calculating compliance, rather than the actual limit value that was stayed | 124.19, 403.10(f) | 1.
Limit Type | The unique code/description that indicates whether a limit is an enforceable, or alert limit (e.g., action level, benchmark) that does not receive effluent violations | 122.45, 403.10(f) | 1.
Enforcement Action ID | The unique identifier for the enforcement action that imposed the enforcement action limit; this data element helps uniquely tie the limit record to the final order record | 122.45, 403.10(f) | 1.
Final Order ID | The unique identifier for the Final Order that imposed the Enforcement Action limit; this data element ties the limit record to the Final Order record in the database | 122.45, 403.10(f) | 1.
Modification Effective Date | The effective date of the permit modification that created this limit. The date must be provided in YYYY-MM-DD format where YYYY is the year, MM is the month, and DD is the day | 122.62, 403.10(f) | 1.
Modification Type | The type of permit modification that created this limit (e.g. major, minor, permit authorized change) | 122.62, 403.10(f) | 1.
Limit Parameter Code | The unique code/description identifying the parameter being limited and/or monitored | 122.41(j), 403.10(f) | 1.
Limit Months | The months that the limit applies | 122.46, 403.10(f) | 1.
Limit Value Type | The indication of the limit value type (e.g., Quantity 1, Concentration 2) | 122.45(f), 403.10(f) | 1.
Limit Quantity or Concentration Units | The unique code/description representing the unit(s) of measure applicable to quantity or concentration limits as entered by the user | 122.45(f), 403.10(f) | 1.
Statistical Base Code | The unique code/description representing the unit of measure applicable to the limit and compliance monitoring activity (e.g., DMR) values entered by the user (e.g., 30-day average, daily maximum) | 122.45(d), 403.10(f) | 1.
Optional Monitoring Code | The code/description that indicates when monitoring is optional but not required (e.g., DMR Non-Receipt violation generation will be suppressed for optional monitoring) | 122.45, 403.10(f) | 1.
Limit Value Qualifier | The unique code identifying the limit value operator (e.g., “<”, “=”, “>”) | 122.45, 403.10(f) | 1.
Limit Value | The actual limit value number from the Permit or Enforcement Action Final Order | 122.45, 403.10(f) | 1.
Sewage Sludge/Biosolids Information on NPDES Permit Application or Notice of Intent
[Note: As indicated in the “CWA, Regulatory, or Other Citation” column, these data elements apply to Treatment Works Treating Domestic Sewage whose sewage sludge use or disposal practices are regulated by part 503.]
Biosolids/Sewage Sludge Management Facility Type | The unique code/description that identifies whether the facility was issued a permit as a biosolids/sewage sludge generator, processor, or end user (e.g., land application site, surface disposal site, incinerator). For the Sewage Sludge/Biosolids Annual Report this data element is also the unique code/description that identifies an off-site facility or location receives biosolids or sewage sludge from this facility. This data element is also required for the Sewage Sludge/Biosolids Annual Report | 122.21(q), 122.28(b)(2)(ii), 503.18, 503.28, 503.48 | 1, 2, and 4.
Biosolids or Sewage Sludge Treatment Processes (Permit) | The one or more unique codes/descriptions that identifies the biosolids or sewage sludge treatment process or processes at the facility. For example, this may include treatment processes in the following categories: preliminary operations (e.g., sludge grinding and degritting), thickening (concentration), stabilization, anaerobic digestion, aerobic digestion, composting, conditioning, disinfection (e.g., beta ray irradiation, gamma ray irradiation, pasteurization), dewatering (e.g., centrifugation, sludge drying beds, sludge lagoons), heat drying, thermal reduction, and methane or biogas capture and recovery | 122.21(q)(6), 122.28(b)(2)(ii) | 1, 2.
Biosolids or Sewage Sludge Form (Permit) | The one or more unique codes/descriptions that identify the nature of each biosolids and sewage sludge material generated by the facility in terms of whether the material is a biosolid or sewage sludge and whether the material is ultimately conveyed off-site in bulk or in bags. The facility will separately report the form for each biosolids or sewage sludge management practice and pathogen class | 122.21(q)(6), 122.28(b)(2)(ii) | 1, 2.
Biosolids or Sewage Sludge Management Practice (Permit) | The one or more unique codes/descriptions that identify the type of biosolids or sewage sludge management practice or practices (e.g., land application, surface disposal, incineration) used by the facility. The facility will separately report the practice for each different form of biosolids and sewage sludge generated by the facility and pathogen class | 122.21(q)(6), 122.28(b)(2)(ii) | 1, 2.
Biosolids or Sewage Sludge Pathogen Class (Permit) | The one or more unique codes/descriptions that identify the pathogen class or classes (e.g., Class A, Class B, Not Applicable) for biosolids or sewage sludge generated by the facility. The facility will separately report the pathogen class for each biosolids or sewage sludge management practice used by the facility and for each biosolids or sewage sludge form | 122.21(q)(6), 122.28(b)(2)(ii) | 1, 2.
Biosolids or Sewage Sludge Vector Attraction Reduction Options (Permit) | The one or more unique codes/descriptions that identify the option(s) used by the facility for vector attraction reduction. See a listing of these vector attraction reduction options at 40 CFR 503.33(b)(1) through (11). The facility will separately report the vector attraction reduction options for each biosolids or sewage sludge management practice used by the facility and for each biosolids or sewage sludge form as well as by each biosolids or sewage sludge pathogen class | 122.21(q)(6), 122.28(b)(2)(ii) | 1, 2.
Biosolids or Sewage Sludge Pathogen Reduction Options (Permit) | The one or more unique codes/descriptions that identify the option(s) used by the facility to control pathogens (e.g., Class A—Alternative 1, Class A—Alternative 2, Class A—Alternative 3, Class A—Alternative 4, Class A—Alternative 5, Class A—Alternative 6, Class B—Alternative 1, Class B—Alternative 2, Class B—Alternative 3, or pH Adjustment (Domestic Septage). The facility will separately report the pathogen reduction options for each biosolids or sewage sludge management practice used by the facility and by each biosolids or sewage sludge form as well as by each biosolids or sewage sludge pathogen class | 122.21(q)(6), 122.28(b)(2)(ii) | 1, 2.
Biosolids or Sewage Sludge Amount (Permit) | This is the amount (in dry metric tons) of biosolids or sewage sludge applied to the land, prepared for sale or give-away in a bag or other container for application to the land, or placed on an active sewage sludge unit in the preceding 365-day period. This identification will be made for each biosolids or sewage sludge management practice used by the facility and by each biosolids or sewage sludge form as well as by each biosolids or sewage sludge pathogen class | 122.21 (q), 122.28(b)(2)(ii) | 1, 2.
Animal Feeding Operation Information on NPDES Permit Application or Notice of Intent
Facility CAAP Designation | A unique code (e.g., “Yes”, “No”) to indicate whether the facility includes Concentrated Aquatic Animal Production (CAAP) | 122.21(i)(2), 122.24, 122.25, 122.28(b)(2)(ii) | 1, 2.
Facility CAFO Type | The unique code/description that identifies whether the facility includes a small, medium or large Concentrated Animal Feeding Operation (CAFO) | 122.21(i)(1), 122.23, 122.28(b)(2)(ii) | 1, 2.
CAFO Designation Date | The date on which the facility is designated as a small or medium Concentrated Animal Feeding Operation (CAFO). The date must be provided in YYYY-MM-DD format where YYYY is the year, MM is the month, and DD is the day | 122.23 | 1.
CAFO Designation Reason | The reason(s) the State Director or the Regional Administrator used to designate an animal feeding operation as a small or medium CAFO. [Ed note: Large and medium CAFO definitions are in 40 CFR 122.23(b)]. This text field can include the following factors: (1) the size of the AFO and the amount of wastes reaching waters of the United States; (2) the location of the AFO relative to waters of the United States; (3) the means of conveyance of animal wastes and process waste waters into waters of the United States; (4) the slope, vegetation, rainfall, and other factors affecting the likelihood or frequency of discharge of animal wastes manure and process waste waters into waters of the United States; and (5) other relevant factors | 122.23(c) | 1.
CAFO Animal Types | The unique code/description that identifies the animal type(s) at the facility (e.g., beef cattle, broilers, layers, swine weighing 55 pounds or more, swine weighing less than 55 pounds, mature dairy cows, dairy heifers, veal calves, sheep and lambs, horses, ducks, turkeys, other) | 122.21(i)(1)(v), 122.28(b)(2)(ii) | 1, 2.
CAFO Animal Maximum Numbers | The estimated maximum number of each type of animal in open confinement or housed under roof (either partially or totally) which are held at the facility for a total of 45 days or more in a 12 month period | 122.21(i)(1)(v), 122.28(b)(2)(ii) | 1, 2.
CAFO Animal Maximum Numbers in Open Confinement | The estimated maximum number of each type of animal in open confinement which are held at the facility for a total of 45 days or more in a 12 month period | 122.21(i)(1)(v), 122.28(b)(2)(ii) | 1, 2.
CAFO MLPW | The unique code/description that identifies the type of CAFO manure, litter, and process wastewater generated by the facility i.e. in a 12 month period | 122.21(i)(1)(viii), 122.28(b)(2)(ii) | 1, 2.
CAFO MLPW Amounts | The estimated amount of CAFO manure, litter, and process wastewater generated by the facility i.e.in a 12 month period | 122.21(i)(1)(viii), 122.28(b)(2)(ii) | 1, 2.
CAFO MLPW Amounts Units | The unit (e.g., tons, gallons) for the estimated maximum amount of CAFO manure, litter, and process wastewater generated by the facility i.e. in a 12 month period | 122.21(i)(1)(viii), 122.28(b)(2)(ii) | 1, 2.
CAFO MLPW Transferred | The estimated maximum amount of CAFO manure, litter, and process wastewater generated by the facility i.e.in a 12 month period that is transferred to other persons. The units for this data element will be the same as the units for the “CAFO MLPW Amounts” data element | 122.21(i)(1)(ix), 122.28(b)(2)(ii) | 1, 2.
Total Number of Acres Available for Land Application | Total number of acres under the control of the applicant that are available for land application of CAFO manure, litter, and process wastewater | 122.21(i)(1)(vii), 122.28(b)(2)(ii) | 1, 2.
CAFO MLPW Containment and Storage Type | The unique code/description describing the one or more types of CAFO manure, litter, and process wastewater containment and storage (e.g., lagoon, holding pond, evaporation pond, anaerobic lagoon, storage lagoon, evaporation pond, aboveground storage tanks, belowground storage tanks, roofed storage shed, concrete pad, impervious soil pad, other) at the facility | 122.21(i)(1)(vi), 122.28(b)(2)(ii) | 1, 2.
CAFO MLPW Containment and Storage Maximum Capacity Amounts | The estimated maximum capacity of each CAFO manure, litter, and process wastewater containment and storage type at the facility | 122.21(i)(1)(vi), 122.28(b)(2)(ii) | 1, 2.
CAFO MLPW Containment and Storage Maximum Capacity Amounts Unit | The unit for the estimated maximum capacity of each CAFO manure, litter, and process wastewater containment and storage type at the facility (e.g., gallons) | 122.21(i)(1)(vi), 122.28(b)(2)(ii) | 1, 2.
Construction and Industrial Stormwater Information [from the permitting authority derived from the No Exposure Certification, Low Erosivity Waiver, and Other Waiver From Stormwater Controls (see Exhibit 1 to 40 CFR 122.26(b)(15)]
No Exposure Certification Approval Date | This is the date on which the No Exposure Certification (NOE) was authorized by the NPDES permitting authority. Submission of a No Exposure Certification means that the facility does not require NPDES permit authorization for its stormwater discharges due to the existence of a condition of “no exposure.” A condition of no exposure exists at an industrial facility when all industrial materials and activities are protected by a storm resistant shelter to prevent exposure to rain, snow, snowmelt, and/or runoff and the operator complies with all requirements at 40 CFR 122.26(g)(1) through (4). This date is provided by the permitting authority. The date must be provided in YYYY-MM-DD format where YYYY is the year, MM is the month, and DD is the day | 122.26(g) | 1.
Low Erosivity Waiver or Other Waiver From Stormwater Controls Approval Date | The NPDES Stormwater Phase II Rule allows NPDES permitting authorities to accept low erosivity waivers and other waivers from stormwater controls (LEWs) for small construction sites. The waiver process exempts small construction sites (disturbing under five acres) from NPDES permitting requirements when the rainfall erosivity factor is less than five during the period of construction activity as well as other criteria [see Exhibit 1 to 40 CFR 122.26(b)(15)]. This is the date when the NPDES permitting authority granted such waiver, based on information from the entity requesting the waiver; this date is provided by the permitting authority. The date must be provided in YYYY-MM-DD format, where YYYY is the year, MM is the month, and DD is the day | Exhibit 1 to 40 CFR 122.26(b)(15) | 1.
Construction Stormwater Information on NPDES Permit Application, Notice of Intent, or Waiver Request [including construction activity requiring permit coverage under 40 CFR 122.26(b)(14)(x)]
Total Area of the Site | This is an estimate of the total area of the construction site at the time of permit application (in acres). This data element is only required for individual construction stormwater permit applications. Values under 5 acres will be reported to the nearest tenth of an acre or nearest quarter acre. Authorized NPDES programs will have the discretion to choose whether permittees should report to the nearest tenth of an acre or nearest quarter acre for values under 5 acres | 122.26(c)(1)(ii)(B) | 1.
Total Activity Area (Construction) | This is the estimate of the total area of the construction activities at the time of permit application or filing of notice of intent to be covered under a general permit (in acres). Areas of construction activity include areas of clearing, grading, and/or excavation and areas of construction support activity (e.g., concrete or asphalt batch plants, equipment staging yards, material storage areas, excavated materials disposal areas, borrow areas). Values under 5 acres will be reported to the nearest tenth of an acre or nearest quarter acre. Authorized NPDES programs will have the discretion to choose whether permittees should report to the nearest tenth of an acre or nearest quarter acre for values under 5 acres | 122.26, 122.28(b)(2)(ii) | 1, 2.
Post-Construction Total Impervious Area | This is the estimate of total impervious area of the site after the construction addressed in the permit application is completed (in acres). This estimate is made at the time of the permit application. This data element is only required for individual construction stormwater permit applications. Values under 5 acres will be reported to the nearest tenth of an acre or nearest quarter acre. Authorized NPDES programs will have the discretion to choose whether permittees should report to the nearest tenth of an acre or nearest quarter acre for values under 5 acres | 122.26(c)(1)(ii)(E) | 1.
Proposed Stormwater Best Management Practices for Construction Activities | This is the one or more unique codes that list the most important proposed measures, including best management practices, to control pollutants in stormwater discharges from construction activities. This data element includes temporary structural measures (e.g., check dams, construction road stabilization, silt fences), vegetative measures (e.g., mulching, seeding, sodding, straw/hay bale dikes), and permanent structures (e.g., land grading, riprap slope protection, streambank protection). This data element field is only required for individual construction stormwater permit applications | 122.26(c)(1)(ii)(C) | 1.
Post-Construction Stormwater Best Management Practices for Construction Activities | This is the one or more unique codes that list the most important proposed long-term measures and permanent structures to control pollutants in stormwater discharges, which will occur after the completion of construction operations. The codes for this data element include long-term control measures (e.g., cleaning and removal of debris after major storm events, harvesting vegetation when a 50 percent reduction in the original open water surface area occurs, sediment cleanout, repairing embankments, side slopes, and control structures) and permanent structures (e.g., land grading, riprap slope protection, streambank protection, ponds, wetlands, infiltration basins, sand filters, filter strips). This data element is only required for individual construction stormwater permit applications | 122.26(c)(1)(ii)(D) | 1.
Soil and Fill Material Description | This is a text field describes the nature of fill material and existing data describing soils or the quality of the discharge. This data element is only required for individual construction stormwater permit applications | 122.26(c)(1)(ii)(E) | 1.
Runoff Coefficient of the Site (Post-Construction) | This is an estimate of the overall runoff coefficient of the site after the construction addressed in the permit application is completed. This data element is only required for individual construction stormwater permit applications | 122.26(c)(1)(ii)(E) | 1.
Estimated Construction Project Start Date | The estimated start date for the construction project covered by the NPDES permit. The date must be provided in YYYY-MM-DD format where YYYY is the year, MM is the month, and DD is the day | 122.26, 122.28(b)(2)(ii) | 1, 2.
Estimated Construction Project End Date | The estimated end date for the construction project covered by the NPDES permit. The date must be provided in YYYY-MM-DD format where YYYY is the year, MM is the month, and DD is the day | 122.26, 122.28(b)(2)(ii) | 1, 2.
Industrial Stormwater Information on NPDES Permit Application [excluding construction activity requiring permit coverage under 40 CFR 122.26(b)(14)(x)]
Total Surface Area Drained (Industrial) | This is an estimate of the total surface area drained at the facility at the time of permit application (in acres). This data field is only required for individual industrial stormwater permit applications. Values under 5 acres will be reported to the nearest tenth of an acre or nearest quarter acre. Authorized NPDES programs will have the discretion to choose whether permittees should report to the nearest tenth of an acre or nearest quarter acre for values under 5 acres | 122.26(c)(1)(i)(B) | 1.
Total Impervious Surface Area (Industrial) | This is the estimate of the total impervious area at the facility at the time of permit application (in acres). This data element is only required for individual industrial stormwater permit applications. Values under 5 acres will be reported to the nearest tenth of an acre or nearest quarter acre. Authorized NPDES programs will have the discretion to choose whether permittees should report to the nearest tenth of an acre or nearest quarter acre for values under 5 acres | 122.26(c)(1)(i)(B) | 1.
Proposed Stormwater Best Management Practices (Industrial) | This is the one or more codes that identify the structural and non-structural control measures (including treatment) to control pollutants in stormwater discharges from industrial activities. This data element includes long-term measures (e.g., good housekeeping of waste-handling and waste-storage areas, collecting debris and yard material, proper management of vehicle wash and equipment maintenance areas) and permanent structures (e.g., covers, pads, diversion berms or channels, vegetative buffer strips, erosion prevention and sediment control such as land grading, riprap slope protection, streambank protection) to control pollutants in stormwater discharges. This data element is only required for individual industrial stormwater permit applications | 122.26(c)(1)(i)(B) | 1.
Municipal Separate Storm Sewer System (MS4) Information on NPDES Permit Application or Notice of Intent
MS4 Permit Class | The unique code/description that identifies the size of the MS4 permit holder (e.g., Phase I = large or medium MS4s, Phase II = small MS4s) | 122.26, 122.28(b)(2)(ii) | 1, 2.
Unique Identifier for Each Municipality Covered Under MS4 Permit | The unique identifier for each municipality covered under MS4 permit. Use of this identifier allows for greater geographic resolution for the MS4 components being tracked. This unique identifier does not change over time. Use of this unique identifier is similar to how the `Permitted Feature Identifier (Permit)' data element is used to distinguish between permitted features | 122.21(f), 122.26(d) 122.28(b)(2)(ii), 122.34(g)(3), and 122.42(c) | 1, 2, 6.
MS4 Public Education Program | The one or more unique codes/descriptions that identifies the educational materials the permittee intends to distribute or equivalent outreach activities the permittee will implement to inform the target audience about the impacts of stormwater discharges and the steps the public can take to reduce stormwater pollutants | 122.21(f), 122.26(d)(2)(iv)(A)(6), (B)(5) and (6), and (D)(4); 122.28(b)(2)(ii), 122.34(b)(1), 122.34(d)(1)(i) | 1, 2.
MS4 Measurable Goals Associated With Public Education Program | The one or more unique codes/descriptions that identifies measurable goals associated with the public education programs including, as appropriate, the months and years in which the permittee will undertake required actions, including interim milestones and the frequency of the action. This data element only applies to Phase II MS4s | 122.34(d)(1)(ii), 122.28(b)(2)(ii) | 1, 2.
MS4 Public Involvement and Participation Program | The one or more unique codes/descriptions that identifies how the permittee intends to involve the public and at minimum comply with State, Tribal, and local public notice requirements to implement its public involvement and participation program | 122.21(f), 122.26(d)(2)(iv), 122.28(b)(2)(ii), 122.34(b)(2), 122.34(d)(1)(i) | 1, 2.
MS4 Measurable Goals for the Public Involvement and Participation Program | The one or more unique codes/descriptions that identifies the measurable goals associated with the public involvement and participation program including, as appropriate, the months and years in which the permittee will undertake required actions, including interim milestones and the frequency of the action. This data element only applies to Phase II MS4s | 122.28(b)(2)(ii) 122.34(d)(1)(ii) | 1, 2.
MS4 Illicit Discharge Detection and Elimination | The one or more unique codes/descriptions that identify how the permittee will comply with Illicit Discharge Detection and Elimination requirements, including (at a minimum): (1) The status of the permittee's storm sewer system map showing the location of all outfalls and names and locations of all waters of the U.S. that receive discharges from those outfalls; (2) the status of the ordinance or other regulatory mechanism to prohibit non-stormwater discharges into the permittee's MS4; (3) the procedures and actions the permittee takes to enforce the prohibition of non-stormwater discharges to the permittee's MS4; (4) the status of the program that identifies the procedures and actions the permittee will take to detect and address non-stormwater discharges, including illegal dumping, to the permittee's MS4; and (5) the status of procedures and actions the permittee will take to inform public employees, businesses and the general public of hazards associated with illegal discharges and improper disposal of waste | 122.21(f), 122.26(d)(1)(iii)(B), 122.26(d)(2)(i)(B) and (C), 122.26(d)(2)(iv)(B), 122.28(b)(2)(ii), 122.34(b)(3)(ii)(A)-(D), 122.34(d)(1)(i) | 1, 2.
MS4 Measurable Goals Associated With Illicit Discharge Detection and Elimination Program | The one or more unique codes/descriptions that identifies the measurable goals associated with the illicit discharge detection and elimination program, including, as appropriate, the months and years in which the permittee will undertake required actions, including interim milestones and the frequency of the action. This data element only applies to Phase II MS4s | 122.34(d)(1)(ii) | 1, 2.
MS4 Construction Site Stormwater Runoff Control | The one or more unique codes/descriptions that identify how the permittee will comply with the Construction Site Runoff Control requirements, including (at a minimum): (1) status of the ordinance or other regulatory mechanism to require erosion and sediment controls, including sanctions to ensure compliance; (2) status of requirements for construction site operators to implement appropriate erosion and sediment control BMPs and control waste at the construction site that may cause adverse impacts to water quality; (3) status of procedures for site plan review that incorporate consideration of potential water quality impacts; (4) status of procedures for receipt and consideration of information submitted by the public; and (5) status of procedures for site inspection and enforcement of control measures | 122.21(f), 122.26(d)(2)(iv)(D), 122.28(b)(2)(ii), 122.34(b)(4)(ii), 122.34(d)(1)(i) | 1, 2.
MS4 Measurable Goals Associated with the Construction Site Stormwater Runoff Control Program | The one or more unique codes/descriptions that identify the measurable goals associated with the construction program, including, as appropriate, the months and years in which the permittee will undertake required actions, including interim milestones and the frequency of the action. This data element only applies to Phase II MS4s | 122.34(d)(1)(ii) | 1, 2.
MS4 Post-Construction Stormwater Management In New Development And Redevelopment | The one or more unique codes/descriptions that identify how the permittee will comply with the Post-Construction Stormwater Management in New Development and Redevelopment requirements, including (at a minimum): (1) Status of ordinance or other regulatory mechanism to address post-construction runoff from new development and redevelopment projects; (2) how the permittee plans to address stormwater runoff from new development and redevelopment projects that disturb a minimum of greater than or equal to one acre (including if the permittee requires on-site retention of stormwater; and (3) status of a plan to ensure adequate long-term operation and maintenance of BMPs for controlling runoff from new development and redevelopment projects | 122.21(f), 122.26(d)(2)(iv)(A)(2), 122.28(b)(2)(ii), 122.34(b)(5), 122.34(d)(1)(i) | 1, 2.
MS4 Measurable Goals Associated with the Post-Construction: Stormwater Management Program | The one or more unique codes/descriptions that identify the measurable goals associated with the post-construction program, including, as appropriate, the months and years in which the permittee will undertake required actions, including interim milestones and the frequency of the action. This data element only applies to Phase II MS4s | 122.34(d)(1)(ii) | 1, 2.
MS4 Pollution Prevention/Good Housekeeping for Municipal Operations Program | The one or more unique codes/descriptions that identify how the permittee will comply with the Pollution Prevention/Good Housekeeping requirements | 122.21(f), 122.26(d)(2)(iv)(A)(1), (2) and (3), 122.28(b)(2)(ii), 122.34(b)(6)(i), 122.34(d)(1)(i) | 1, 2.
MS4 Additional Measures | The one or more unique codes/descriptions that identify any other additional measures that are required by the permit such as controls to be consistent with the assumptions and requirements of any available wasteload allocation prepared by a state and approved by EPA. This data element is optional if there are no MS4 additional measures | 122.28(b)(2)(ii), 122.34(b), 122.34(d) 122.44(d)(1)(vii)(B) | 1, 2.
POTW Information on NPDES Permit Application or Notice of Intent
Name of Collection System | This is the unique name of each collection system that provides flow to the permittee. This includes unincorporated connector districts and satellite collection systems, which are sanitary sewers owned or operated by another entity that conveys sewage or industrial wastewater to this permittee. This data element applies to POTWs | 122.1(b) and 122.21(j)(1)(iv), 122.28(b)(2)(ii) | 1, 2.
Owner Type of Collection System | The unique code/description that identifies the ownership type for each unique collection system that provides flow to the permittee (e.g., municipality owned, privately owned). This includes unincorporated connector districts and satellite collection systems. This data element applies to POTWs | 122.1(b) and 122.21(j)(1)(iv), 122.28(b)(2)(ii) | 1, 2.
Collection System Identifier | This is the NPDES permit number (“NPDES ID”) for each unique collection system that provides flow to the permittee. If there is no NPDES permit number for the collection system this data element will be a unique identifier for each collection system that provides flow to the permittee. This includes unincorporated connector districts and satellite collection systems. This data element applies to POTWs | 122.1(b) and 122.21(j)(1)(iv), 122.28(b)(2)(ii) | 1, 2.
Population of Collection System | This is the estimated population for each unique collection system that provides flow to the permittee. This includes unincorporated connector districts and satellite collection systems. This data element applies to POTWs | 122.1(b) and 122.21(j)(1)(iv), 122.28(b)(2)(ii) | 1, 2.
Percentage of Collection System That Is a Combined Sewer System | For each unique collection system that provides flow to the permittee, this is the estimated percentage of the collection system that is a combined sewer system. This includes unincorporated connector districts and satellite collection systems. This estimated percentage is calculated separately for each unique collection system that provides flow to the permittee and is based on the service population of each unique collection system. This data element applies to POTWs | 122.1(b) and 122.21(j)(1)(iv) and (vii), 122.28(b)(2)(ii) | 1, 2.
POTW Wastewater Treatment Technology Level Description | This data element describes the level of wastewater treatment technology [e.g., raw discharge (no treatment), primary treatment, secondary wastewater treatment, advanced treatment] used at the facility. This data element only applies to POTWs | 122.21(j)(3)(iii), 122.28(b)(2)(ii) and CWA section 516 | 1, 2.
POTW Wastewater Disinfection Technology | The one or more unique codes/descriptions that describe the types of disinfection technology that are used at the facility (e.g., chlorination, ozonation, ultraviolet disinfection). This data element will also use a code/description to identify if this facility is using dechlorination, which may be required if the facility uses chlorination for disinfection. This data element only applies to POTWs | 122.21(j)(3)(iii), 122.28(b)(2)(ii) | 1, 2.
POTW Wastewater Treatment Technology Unit Operations | The one or more unique codes/descriptions that describe the wastewater treatment technology unit operations (e.g., grit removal, flow equalization, complete mix activated sludge secondary treatment, trickling filter, facultative lagoon, biological nitrification) used at the facility. This data element is required for POTWs that have a design flow capacity equal to or above 10 million gallons per day (MGD) and is optional for POTWs with a design flow capacity below 10 MGD | 122.21(j)(2)(ii)(A), 122.28(b)(2)(ii) and CWA section 516 | 1, 2.
Combined Sewer Overflow Information
[Note: All Phase II and post-Phase II combined sewer system NPDES permittees are required to complete and implement a long-term CSO control plan (LTCP) as described in EPA's Combined Sewer Overflow (CSO) Control Policy (19 April 1994; 59 Federal Register 18688-18698). These data will be updated by the authorized NPDES program on a timely basis as changes occur with the combined sewer system and the LTCP as well as with the POTW's implementation and compliance with the LTCP.]
Long-Term CSO Control Plan Permit Requirements and Compliance | This data element uses a unique code/description that identifies whether the permit requires the permit holder to complete and implement a LTCP and whether the permit holder is in compliance with these permit requirements | 122.41(h), 122.43, 123.41(a) and CWA section 402(q)(1), Combined Sewer Overflow (CSO) Control Policy (59 FR 18688-18698, 19 April 1994) | 1.
Nine Minimum CSO Controls Developed | This data element uses a unique code/description to identify by number each of the nine minimum control measures outlines in the CSO Control Policy that the permit holder has implemented in compliance with the applicable permit and/or enforcement mechanism. These unique codes are: (1) Proper operation and regular maintenance programs for the sewer system and the CSOs; (2) Maximum use of the collection system for storage; (3) Review and modification of pretreatment requirements to assure CSO impacts are minimized; (4) Maximization of flow to the publicly owned treatment works for treatment; (5) Prohibition of CSOs during dry weather; (6) Control of solid and floatable materials in CSOs; (7) Pollution prevention; (8) Public notification to ensure that the public receives adequate notification of CSO occurrences and CSO impacts; and (9) Monitoring to effectively characterize CSO impacts and the efficacy of CSO controls. For example, if the permit holder has only developed the “Maximum use of the collection system for storage” minimum control measure then the permitting authority will record “2” for this data element. Likewise, if the permit holder has developed all nine minimum control measures then permitting authority will record 1, 2, 3, 4, 5, 6, 7, 8, and 9 for this data element | 122.41(h), 122.43, 123.41(a) and CWA section 402(q)(1), Combined Sewer Overflow (CSO) Control Policy (59 FR 18688-18698, 19 April 1994) | 1.
Nine Minimum CSO Controls Implemented | This data element uses a unique code/description to identify by number each of nine minimum control measures outlined in the CSO Control Policy that the permit holder has implemented in compliance with the applicable permit and/or enforcement mechanism. These unique codes are: (1) Proper operation and regular maintenance programs for the sewer system and the CSOs; (2) Maximum use of the collection system for storage; (3) Review and modification of pretreatment requirements to assure CSO impacts are minimized; (4) Maximization of flow to the publicly owned treatment works for treatment; (5) Prohibition of CSOs during dry weather; (6) Control of solid and floatable materials in CSOs; (7) Pollution prevention; (8) Public notification to ensure that the public receives adequate notification of CSO occurrences and CSO impacts; and (9) Monitoring to effectively characterize CSO impacts and the efficacy of CSO controls. For example, if the permit holder has only developed the “Maximum use of the collection system for storage” minimum control measure then the permitting authority will record “2” for this data element. Likewise, if the permit holder has developed all nine minimum control measures then permitting authority will record 1, 2, 3, 4, 5, 6, 7, 8, and 9 for this data element | 122.41(h), 122.43, 123.41(a) and CWA section 402(q)(1), Combined Sewer Overflow (CSO) Control Policy (59 FR 18688-18698, 19 April 1994) | 1.
LTCP Submission and Approval Type | This data element uses a unique code/description to identify whether the most recent version of the LTCP was received and approved by the permitting authority (e.g., most recent version of the LTCP was submitted by permit holder and was approved by the permitting authority, most recent version of the LTCP was submitted by permit holder but has not yet been approved by permitting authority, permit holder is required to submit a revised LTCP but the permitting authority has not yet received the revised LTCP from the permit holder, permit holder has not yet submitted a LTCP) | 122.41(h), 122.43, 123.41(a) and CWA section 402(q)(1), Combined Sewer Overflow (CSO) Control Policy (59 FR 18688-18698, 19 April 1994) | 1.
LTCP Approval Date | This data element identifies the date when the permitting authority approved the most current version of the LTCP. This data element will be updated for each revision to the LTCP. The date must be provided in YYYY-MM-DD format where YYYY is the year, MM is the month, and DD is the day | 122.41(h), 122.43, 123.41(a) and CWA section 402(q)(1), Combined Sewer Overflow (CSO) Control Policy (59 FR 18688-18698, 19 April 1994) | 1.
Enforceable Mechanism and Schedule to Complete LTCP and CSO Controls | This data element uses a unique code/description to identify whether the permit holder is on an enforceable schedule to complete all required LTCP and CSO controls and the type of enforcement mechanism | 122.41(h), 122.43, 123.41(a) and CWA section 402(q)(1), Combined Sewer Overflow (CSO) Control Policy (59 FR 18688-18698, 19 April 1994) | 1.
Actual Date Completed LTCP and CSO Controls | This data element identifies the date by which the permit holder completed construction and implementation of all currently required LTCP and CSO controls. This data element will be updated for each revision to the LTCP and CSO controls. The date must be provided in YYYY-MM-DD format where YYYY is the year, MM is the month, and DD is the day | 122.41(h), 122.43, 123.41(a) and CWA section 402(q)(1), Combined Sewer Overflow (CSO) Control Policy (59 FR 18688-18698, 19 April 1994) | 1.
Approved Post-Construction Compliance Monitoring Program | This data element uses a unique code/description to indicate whether the permit holder is currently implementing an approved post-construction compliance monitoring program | 122.41(h), 122.43, 123.41(a) and CWA section 402(q)(1), Combined Sewer Overflow (CSO) Control Policy (59 FR 18688-18698, 19 April 1994) | 1.
Other CSO Control Measures with Compliance Schedule | This data element uses a unique code/description to identify whether the permit holder has other CSO control measures specified in a compliance schedule, beyond those identified in the nine minimum controls, long-term CSO control plan (LTCP), or a plan for sewer system separation | 122.41(h), 122.43, 123.41(a) and CWA section 402(q)(1), Combined Sewer Overflow (CSO) Control Policy (59 FR 18688-18698, 19 April 1994) | 1.
Pretreatment Information on NPDES Permit Application or Notice of Intent (this includes permit application data required for all new and existing POTWs [40 CFR 122.21(j)(6)]
[Note: These data will be added or updated through the Annual Pretreatment Program Report, see 40 CFR 403.12(i), as needed. It is also important to note that the ‘Associated NPDES ID Number’ identifies the receiving POTW's NPDES permit number for each industrial user.]
Pretreatment Program Required Indicator | The unique code/description that describes whether the permitted municipality is required to develop or implement a pretreatment program (in accordance with 40 CFR 403) | 122.28(b)(2)(ii), 122.44(j) | 1.
Pretreatment Program Approval or Modification Date | The date the pretreatment program was approved or substantially modified. This data element can be system generated by carrying forward the most recent date (approval or modification). The date must be provided in YYYY-MM-DD format where YYYY is the year, MM is the month, and DD is the day | 122.28(b)(2)(ii), 403.8(a) and (b), 403.11 | 1.
Pretreatment Program Modification Type | The unique code describing the type of substantial modification to a POTW Pretreatment Program, which includes the initial start of a pretreatment program | 122.28(b)(2)(ii), 403.8(a) and (b), 403.11, 403.18 | 1.
Industrial User Type | The unique code/description that identifies the type of each industrial user discharging to a POTW [e.g., Significant Industrial User (SIU), Standard Categorical Industrial Users (CIU), Non-Significant Categorical Industrial User (NSCIU), and Middle Tier Categorical Industrial User (MTCIU)]. This data element is at the permit or control mechanism level and is required for each SIU, CIU, NSCIU, and MTCIU. This data element also applies to SIUs and CIUs that discharge non-domestic wastewater by truck, rail, and dedicated pipe or other means of transportation to one or more POTWs | 122.21(j)(6), 122.28(b)(2)(ii), 122.44(j), 403.12(i) | 1, 2, 7.
Significant Industrial User Subject to Local Limits | The unique code (e.g., “Yes”, “No”) that identifies for each Significant Industrial User (SIU) or Categorical Industrial User (CIU) discharging to a POTW (including non-domestic wastewater delivered by truck, rail, and dedicated pipe or other means of transportation) whether the SIU is subject to local limits | 122.21(j)(6), 122.28(b)(2)(ii), 122.44(j), 403.12(i) | 1, 2, 7.
Significant Industrial User Subject to Local Limits More Stringent Than Categorical Standards | The unique code (e.g., “Yes”, “No”) that identifies for each Categorical Industrial User (CIU) discharging to a POTW (including non-domestic wastewater delivered by truck, rail, and dedicated pipe or other means of transportation) whether the CIU is subject to one or more local limits that are more stringent than the applicable categorical standards | 122.21(j)(6), 122.28(b)(2)(ii), 122.44(j), 403.12(i) | 1, 2, 7.
Applicable Categorical Standards | This data element will identify for each Categorical Industrial User (CIU) discharging to a POTW (including non-domestic wastewater delivered by truck, rail, and dedicated pipe or other means of transportation) the applicable categorical standard(s) by its 40 CFR part number (e.g., Metal Finishing—part 433, Electrical and Electronic Components—Part 469). This data element will track the one or more applicable categorical standards even when the CIU is subject to one or more local limits that are more stringent than the applicable categorical standards | 122.21(j)(6), 122.28(b)(2)(ii), 122.44(j), 403.12(i) | 1, 2, 7.
Significant Industrial User Wastewater Flow Rate | This data element will identify for each Significant Industrial User (SIU) or Categorical Industrial User (CIU) that is discharging to a POTW (including non-domestic wastewater delivered by truck, rail, and dedicated pipe or other means of transportation) the estimated maximum monthly average wastewater flow rate (in gallons per day) | 122.21(j)(6), 122.28(b)(2)(ii), 122.44(j) | 1, 2.
Industrial User Causing Problems at POTW | The unique code/description that identifies for each Significant Industrial User (SIU) or Categorical Industrial User (CIU) whether it caused or contributed to any problems (including upset, bypass, interference, pass-through) at a POTW within the past four and one-half calendar years. EPA regulations require the Control Authority to develop and enforce local limits when the discharge from an IU causes or contributes to any problems (including upset, interference, and bypass) at the receiving POTW's effluent discharge or biosolids/sewage sludge management. This data element also applies to SIUs and CIUs that discharge non-domestic wastewater by truck, rail, and dedicated pipe or other means of transportation to one or more POTWs | 122.21(j)(6), 122.28(b)(2)(ii), 122.44(j)(2)(ii), 403.5(c) | 1, 2.
Receiving RCRA Waste | The unique code/description that identifies whether a POTW has received RCRA hazardous waste by truck, rail, or dedicated pipe within the last three calendar years | 122.21(j)(7), 122.28(b)(2)(ii), 122.44(j) | 1, 2.
Receiving Remediation Waste | The unique code/description that identifies whether the POTW has received RCRA or CERLCA waste from off-site remedial activities within the last three calendar years | 122.21(j)(7), 122.44(j) | 1, 2.
Control Authority Identifier | This data element identifies the one or more Control Authorities for each Significant Industrial User (SIU) or Categorical Industrial User (CIU). When the Control Authority is a POTW this data element will use the POTW's NPDES ID. There will also be a unique identifier for each state and EPA Region for SIUs and CIUs when they are the Control Authority | 122.28(b)(2)(ii), 122.44(j) | 1, 2.
Cooling Water Intake Information on NPDES Permit Application or Notice of Intent
Cooling Water Intake Applicable Subpart | The unique code/description that identifies the regulatory subpart the facility is subject to [e.g., 1 = New Facility under 40 CFR part 125, subpart I, 2 = New Offshore Oil and Gas Facility under 40 CFR part 125, subpart N, 3 = Existing Facility under 40 CFR part 125, subpart J, 4 = BPJ Facility under 40 CFR 125.80(c), 40 CFR 125.90(b), 40 CFR 125.130(c), or 40 CFR 401.14] | 122.21(r), 122.28(b)(2)(ii), subparts I, J, and N of 125, 401.14, and CWA section 316(b) | 1, 2.
Design Intake Flow for Cooling Water Intake Structure(s) | Design Intake Flow (DIF) means the value, in units of million gallons per day (MGD), assigned to each cooling water intake structure design that corresponds to the maximum instantaneous rate of flow of water the cooling water intake system is capable of withdrawing from a source waterbody. The facility's DIF may be adjusted to reflect permanent changes to the maximum flow capability of the cooling water intake system to withdraw cooling water, including pumps permanently removed from service, flow limit devices, and physical limitations of the piping. DIF does not include values associated with emergency and fire suppression capacity or redundant pumps (i.e., back-up pumps). For new facilities this is the design maximum flow capacity of the cooling water intake structure. See 40 CFR 125.83 and 125.92. This data element will be reported for each cooling water intake structure, which will have a “Permitted Feature ID.” Specific monitoring protocols and frequency of monitoring will be determined by the Director | 122.21(r), 122.28(b)(2)(ii), 125.80, 125.86, 125.90, 125.92, 125.95, 125.131, 125.136, 401.14, and CWA section 316(b) | 1, 2.
Actual Intake Flow for Cooling Water Intake Structure(s) | This actual flow value, in units of MGD, is intended to represent on-the-ground intake flow for each cooling water intake structure at the facility, as opposed to the DIF, which is based on maximum design flow intake. For existing facility, Actual Intake Flow (AIF) means the average flow rate of water withdrawn on an annual basis by each cooling water intake structure over the past three years. After October 14, 2019, AIF means the average flow rate of water withdrawn on an annual basis by each cooling water intake structure over the previous five years. Actual intake flow is measured at a location within the cooling water intake structure that the Director deems appropriate. The calculation of actual intake flow includes days of zero flow. AIF does not include flows associated with emergency and fire suppression capacity. See 40 CFR 125.92. This data element will be reported for each cooling water intake structure, which will have a “Permitted Feature ID.” Specific monitoring protocols and frequency of monitoring will be determined by the Director | 122.21(r), 122.28(b)(2)(ii), 125.86,125.92(a), 125.95, 125.136, 401.14, and CWA section 316(b) | 1, 2.
Location Type for Cooling Water Intake Structure | The unique code/description that identifies the location and description for each cooling water intake structure [e.g., 1 = shoreline intake description (flushed, recessed), 2 = intake canal, 3 = embayment, bank, or cove, 4 = submerged offshore intake, 5 = near-shore submerged intake, 6 = shoreline submerged intake, 7 = Offshore Velocity Cap (800 foot minimum distance from shoreline), 8 = other]. Each cooling water intake structure will have its own “Permitted Feature ID” | 122.21(r), 122.28(b)(2)(ii), 125.86, 125.95, 125.136, 401.14 and CWA section 316(b) | 1, 2.
Actual Through-Screen Velocity | This is the actual through-screen velocity (in feet/second) of the water intake through the screen for each cooling water intake structure at an existing facility. This is the measured average intake velocity as water passes through the structural components of a screen measured perpendicular to the screen mesh during normal operations. See 40 CFR 125.94. This data element will be reported for each cooling water intake structure, which will have a “Permitted Feature ID.” Specific monitoring protocols and frequency of monitoring will be determined by the Director | 122.21(r), 122.28(b)(2), 125.86, 125.94, 125.95, 125.136, 401.14 and CWA section 316(b) | 1, 2.
Source Water for Cooling Purposes | The unique code/description that describes the one or more source water for cooling purpose for each cooling water intake structure [e.g., 1 = Ocean, 2 = Estuary, 3 = Great Lake, 4 = Fresh River, 5 = Lake/Reservoir, 6 = contract or arrangement with an independent supplier (or multiple suppliers)]. Each cooling water intake structure will have its own “Permitted Feature ID” | 122.21(r), 122.28(b)(2)(ii), 125.86, 125.95, 125.136, 401.14 and CWA section 316(b) | 1, 2.
Cooling Water Intake Structure Chosen Compliance Method | The unique code/description to indicate the one or more compliance method selected for each cooling water intake structure based on EPA's CWA section 316(b) regulations or based on BPJ. For new facilities for example, Track I, Track II, alternative requirements, etc. For existing facilities, which of the 40 CFR 125.94(c) compliance options were chosen and reported as part of 40 CFR 122.21(r)(6), whether the facility has chosen to comply on an intake basis or facility wide, or whether alternative requirements were requested. Facilities have the option to comply on a facility wide or on an intake basis. Each cooling water intake structure will have its own “Permitted Feature ID” | 122.21(r)(6), 122.28(b)(2)(ii), 125.84, 125.85, 125.94, 125.134, 125.135, 401.14 and CWA section 316(b) | 1, 2.
Source Water Baseline Biological Characterization Data: Threatened or Endangered Status | For new and existing facilities, a unique code/description that identifies whether there are Federally-listed threatened or endangered species (or relevant taxa) that might be susceptible to impingement and entrainment at the facility's cooling water intake structures. This unique code/description will also identify whether designated critical habitat is in the vicinity of facility's cooling water intake structure | 122.21(r)(4), 122.28(b)(2), 125.86, 125.95, 125.136, 401.14 and CWA section 316(b) | 1, 2.
CWA section 316(a) Thermal Variance Information on NPDES Permit Application or Notice of Intent
Thermal Variance Request Type | The unique code/description that describes the thermal variance request submitted by the discharger (e.g., 1 = new request, 2 = renewal request) | 125, subpart H and CWA section 316(a) | 1.
Public Notice of Section 316(a) Requests | This is the unique code that describes whether the NPDES permitting authority included the information required under 40 CFR 124.57(a) in the public notice regarding the CWA section 316(a) request | 124.57, 125, subpart H and CWA section 316(a) | 1.
Thermal Variance Granted Date | This is the most recent date when the NPDES permitting authority granted or renewed a CWA section 316(a) variance for the controlling NPDES permit. The date must be provided in YYYY-MM-DD format where YYYY is the year, MM is the month, and DD is the day | 122.28(b)(2)(ii), subpart H of 125 and CWA section 316(a) | 1.
Compliance Monitoring Activity Information (General)
Compliance Monitoring Identifier | The unique identifier for the compliance monitoring activity performed by the authorized NPDES program and EPA (e.g., inspections). This data element can be system generated | 123.26, 123.41(a) and CWA section 308 | 1.
Permitted Feature Identifier (Compliance Monitoring Activity) | The unique identifier for the permitted feature number(s) entered by the user for the inspected or monitored permitted feature(s). This data element will use the same number used by `Permitted Feature Identifier (Permit)' data element for each compliance monitoring activity permitted feature. This will provide a unique link between each compliance monitoring activity permitted feature and the corresponding NPDES permitted feature. This data element can be left blank if the compliance monitoring activity does not involve a permitted feature. For Sewer Overflow/Bypass Event Reports this data element will identify the permitted feature(s), if any, for each Sewer Overflow/Bypass Identifier. The POTW can leave this data element blank on the Sewer Overflow/Bypass Event Report if the sewer overflows are caused by an extreme weather event (e.g., hurricane) that floods the entire sewer system and are too numerous to count. This data element applies to compliance monitoring activities performed by the authorized NPDES program and EPA (e.g., inspections) as well as compliance monitoring reports submitted by the NPDES regulated entity (e.g., DMRs, program reports) | 122.34(g)(3), 122.41(l)(4)(i), 122.41(l)(6) and (7), 122.41(m)(3), 123.26, 123.41(a), 122.42(c), 403.12(e), 403.12(h) and CWA section 308 | 1, 3, 4, 6, 8, and 9.
Electronic Submission Type (Compliance Monitoring Activity) | This is the unique code/description for each report submitted by the NPDES regulated entity. Report submissions covered by the data element are listed in Table 1 in this appendix (i.e., NPDES Data Groups 3 through 10). This data element describes how each submission was electronically collected or processed by the initial recipient [see § 127.2(b)]. For example, these unique codes/descriptions include: (1) NPDES regulated entity submits NPDES program data using an EPA electronic reporting system; (2) NPDES regulated entity submits NPDES program data using an authorized NPDES program electronic reporting system; (3) NPDES regulated entity has temporary waiver from electronic reporting and submits NPDES program data on paper to the authorized NPDES program who then electronically uses manual data entry to electronically process these data; (4) NPDES regulated entity has a permanent waiver from electronic reporting and submits NPDES program data on paper to the authorized NPDES program who then electronically uses manual data entry to electronically process these data; (5) NPDES regulated entity has an episodic waiver from electronic reporting and submits NPDES program data on paper to the authorized NPDES program who then electronically uses manual data entry to electronically process these data; (6) NPDES regulated entity submits NPDES program data on paper in a form that allows the authorized NPDES program to use of automatic identification and data capture technology to electronically process these data; (7) NPDES regulated entity submits NPDES program data using another electronic reporting system (e.g., third-party). This data element can sometimes be system generated (e.g., incorporated into an electronic reporting tool). This data element does not identify the electronic submission type | 123.26, 123.41(a) and CWA section 308 | 1.
| of general permit reports (NPDES Data Group =2 in Table 1), which is tracked by the “Electronic Submission Type (General Permit Reports)” data element. This data element applies to information submitted by NPDES regulated entities and does not apply to compliance monitoring information generated by authorized NPDES programs and EPA (e.g., inspection data)
Compliance Monitoring Activity Information (General Data Generated from Authorized NPDES Programs and EPA)
Compliance Monitoring Activity Actual End Date | The actual date on which the compliance monitoring activity ended. For example, the date of an authorized NPDES program inspection of a facility can be used for this data element. The date must be provided in YYYY-MM-DD format where YYYY is the year, MM is the month, and DD is the day | 123.26, 123.41(a) and CWA section 308 | 1.
Compliance Monitoring Activity | The unique code/description that identifies each compliance monitoring activity taken by the authorized NPDES program (e.g., inspection, investigation, information request, offsite records review) | 123.26, 123.41(a) and CWA section 308 | 1.
Compliance Monitoring Type | The unique code/description that identifies each compliance monitoring activity type taken by a regulatory Agency (e.g., audit, biomonitoring, case development, diagnostic, evaluation, reconnaissance with sampling, reconnaissance without sampling, sampling) | 123.26, 123.41(a) and CWA section 308 | 1.
Biomonitoring Test Type | The unique code/description that identifies the type of biomonitoring inspection method (e.g., acute, chronic, or flow through) and sample type (e.g., grab, composite). This data element supplements the Compliance Monitoring Type data element. This data element only applies to compliance monitoring activities that involve biomonitoring | 123.26, 123.41(a) and CWA section 308 | 1.
Compliance Monitoring Action Reason | The unique code/description that identifies the reason for the initiation of the compliance monitoring activity (e.g., Agency Priority, Citizen Complaint/Tip, Core Program) | 123.26, 123.41(a) and CWA section 308 | 1.
Was this a State, Federal or Joint (State/Federal) Inspection? | This data element identifies if the inspection is a joint inspection by federal, state, tribal, or territorial personnel. Only one value for this data element may be used for each compliance monitoring activity [e.g., State, Federal, Joint (State/Federal)] | 123.26, 123.41(a) and CWA section 308 | 1.
Programs Evaluated | The unique code/description for the one or more programs evaluated or related to the compliance monitoring activity (e.g., NPDES Base Program, Biosolids/Sewage Sludge, Pretreatment, and MS4) | 123.26, 123.41(a) and CWA section 308 | 1.
Compliance Monitoring Activity Information (Program Data Generated from Authorized NPDES Programs and EPA)
Deficiencies Identified Through the Biosolids/Sewage Sludge Compliance Monitoring | This is the unique code/description that that identifies each deficiency in the facility's biosolids and sewage sludge program (40 CFR part 503) for each compliance monitoring activity (e.g., inspections, audits) by the regulatory authority. This data element includes unique codes to identify when the facility failed to comply with any applicable permit requirements or enforcement actions. The values for this data element will distinguish between noncompliance and significant noncompliance (SNC) | 123.26, 123.41(a), 123.45 and CWA section 308 | 1.
Deficiencies Identified Through the MS4 Compliance Monitoring | This is the unique code/description that that identifies each deficiency in the MS4's program to control stormwater pollution for each compliance monitoring activity (e.g., inspections, audits) by the regulatory authority. This data element includes unique codes to identify when the MS4 failed to comply with any applicable permit requirements or enforcement actions. The values for this data element will distinguish between noncompliance and significant noncompliance (SNC) | 123.26, 123.41(a), 123.45 and CWA section 308 | 1.
Deficiencies Identified Through the Pretreatment Compliance Monitoring | This is the unique code/description that that identifies each deficiency in the POTW's authorized pretreatment program for each pretreatment compliance monitoring activity (e.g., inspections, audits) by the regulatory authority. The values for this data element will distinguish between noncompliance and significant noncompliance (SNC). These unique codes include: (1) Failure to enforce against pass through and/or interference; (2) failure to submit required reports within 30 days; (3) failure to meet compliance schedule milestones within 90 days; (4) failure to issue/reissue control mechanisms to 90% of SIUs within 6 months; (5) failure to inspect or sample 80% of SIUs within the past 12 months; and (6) failure to enforce standards and reporting requirements | 123.26, 123.41(a), 123.45, 403.10, and CWA section 308 | 1.
Deficiencies Identified Through the Sewer Overflow/Bypass Compliance Monitoring | This is the unique code/description that that identifies each deficiency in the POTW's control of combined sewer overflows, sanitary sewer overflows, or bypass events for each compliance monitoring activity (e.g., inspections, audits) by the regulatory authority. This data element includes unique codes to identify when a POTW has failed to provide 24-hour notification to the NPDES permitting authority or failed to submit the Sewer Overflow/Bypass Event Report within the required 5-day period. This data element also includes unique codes to identify when the POTW failed to comply with any applicable long-term CSO control plan, permit requirements, or enforcement actions. The values for data element will distinguish between noncompliance and significant noncompliance (SNC) | 122.41(h), 122.41(l)(6) and (7), 122.43, 123.26, 123.41(a), and CWA sections 308 and 402(q)(1) | 1.
Compliance Monitoring Activity Information (AFO/CAFO Program Data Generated from Authorized NPDES Programs and EPA)
Animal Types (Inspection) | The unique code/description that identifies the animal type(s) at the facility at the time of inspection (e.g., beef cattle, broilers, layers, swine weighing 55 pounds or more, swine weighing less than 55 pounds, mature dairy cows, dairy heifers, veal calves, sheep and lambs, horses, ducks, turkeys, other) | 122.23, 123.26, 123.41(a), and CWA section 308 | 1.
Animal Numbers (Inspection) | The number of each type of animal in open confinement or housed under roof (either partially or totally) which are held at the facility at the time of inspection | 122.23, 123.26, 123.41(a) and CWA section 308 | 1.
Animal Numbers in Open Confinement (Inspection) | The number of each type of animal in open confinement which are held at the facility at the time of inspection | 122.23, 123.26, 123.41(a) and CWA section 308 | 1.
MLPW Containment and Storage Type (Inspection) | The one or more types of containment and storage (e.g., anaerobic lagoon, roofed storage shed, storage ponds, underfloor pits, above ground storage tanks, below ground storage tanks, concrete pad, impervious soil pad, other) at the facility at the time of inspection | 122.23, 123.26, 123.41(a) and CWA section 308 | 1.
MLPW Containment and Storage Type Within Design Capacity (Inspection) | The one or more unique codes/descriptions that identifies whether or not the facility is operating within the design capacity for each type of containment and storage used by the facility for MLPW at the time of inspection | 122.23, 123.26, 123.41(a) and CWA section 308 | 1.
AFO/CAFO Unauthorized Discharges (Inspection) | A unique code (e.g., “Yes”, “No”) that indicates whether there evidence of unauthorized discharge(s) of pollutants from the facility's production area and/or land application area(s) to a water of the U.S. | 122.23, 123.26, 123.41(a) and CWA section 308 | 1.
Permit Requirements Implementation (Inspection) | The unique code/description that identifies whether or not the facility is properly implementing its NPDES permit requirements, including the applicable Nutrient Management Plan (NMP) or other nutrient management planning, at the time of inspection | 122.23, 123.26, 123.41(a) and CWA section 308 | 1.
Compliance Monitoring Activity Information (Discharge Monitoring Report, and Pretreatment Periodic Compliance Reports for Significant Industrial Users (SIUs) and Categorical Industrial Users (CIUs) when EPA or the State is the Control Authority) [Note: Authorized NPDES programs will identify in the applicable NPDES permits will identify whether MS4 regulated entities are required to submit DMRs.]
Limit Set Designator (Compliance Monitoring Activity) | The unique identifier tying the compliance monitoring activity (e.g., DMR submission) to the corresponding Limit Set record | 122.41(l)(4)(i), 123.26, 123.41(a), 403.12(e), 403.12(h) | 3, 6, 8.
Parameter Code (Compliance Monitoring Activity) | The unique code/description identifying the parameter reported on the compliance monitoring activity (e.g., DMR submission) | 122.41(l)(4)(i), 123.26, 123.41(a), 403.12(e), 403.12(h) | 3, 6, 8.
Monitoring Location Code (Compliance Monitoring Activity) | The unique code/description that identifies the monitoring location at which the sampling occurred for a compliance monitoring activity parameter (e.g., DMR submission) | 122.41(l)(4)(i), 123.26, 123.41(a), 403.12(e), 403.12(h) | 3, 6, 8.
Limit Season Number (Compliance Monitoring Activity) | The unique identifier tying the compliance monitoring activity (e.g., DMR submission) to the Limit Season Number of the corresponding limit. This data element is necessary as a parameter can have different seasonal limits within a single limit start and end date | 122.41(l)(4)(i), 123.26, 123.41(a), 403.12(e), 403.12(h) | 3, 6, 8.
Monitoring Period End Date (Compliance Monitoring Activity) | The monitoring period end date for the values covered by the compliance monitoring activity (e.g., DMR submission). The date must be provided in YYYY-MM-DD format where YYYY is the year, MM is the month, and DD is the day | 122.41(l)(4)(i), 123.26, 123.41(a), 403.12(e), 403.12(h) | 3, 6, 8.
No Data Indicator (NODI) (Compliance Monitoring Activity) | The unique code/description that indicates the reason that “No Discharge” or “No Data” was reported on the compliance monitoring activity (e.g., DMR submission) (e.g., B = Below Detection Limit, C = No Discharge) | 122.41(l)(4)(i), 123.26, 123.41(a), 403.12(e), 403.12(h) | 3, 6, 8.
Value (Compliance Monitoring Activity) | The number value reported on the compliance monitoring activity (e.g., DMR form) | 122.41(l)(4)(i), 123.26, 123.41(a), 403.12(e), 403.12(h) | 3, 6, 8.
Quantity or Concentration Units (Compliance Monitoring Activity) | The unique code/description that identifies the one or more units of measure that are applicable to quantity or concentration limits and measurements as entered on the compliance monitoring activity (e.g., DMR submission). This field is optional if the units are the same as the limit units | 122.41(l)(4)(i), 123.26, 123.41(a), 403.12(e), 403.12(h) | 3, 6, 8.
Value Received Date (Compliance Monitoring Activity) | The date the compliance monitoring value was received by the regulatory authority (e.g., DMR submission). The date must be provided in YYYY-MM-DD format where YYYY is the year, MM is the month, and DD is the day | 122.41(l)(4)(i), 123.26, 123.41(a), 403.12(e), 403.12(h) | 1.
Value Type (Compliance Monitoring Activity) | The unique code/description identifying a value type (e.g., Quantity 1, Quantity 2, Concentration 1, Concentration 2, Concentration 3) on a compliance monitoring activity (e.g., DMR submission) | 122.41(l)(4)(i), 123.26, 123.41(a), 403.12(e), 403.12(h) | 3, 6, 8.
Value Qualifier (Compliance Monitoring Activity) | The unique code identifying the qualifier for the reported value (e.g., “<”, “=”, “>”) on a compliance monitoring activity (e.g., DMR submission). This field is optional if the qualifier is “=” | 122.41(l)(4)(i), 123.26, 123.41(a), 403.12(e), 403.12(h) | 3, 6, 8.
Compliance Monitoring Activity Information (Periodic Program Reports)
Program Report Received Date | The date the program report was received. The date must be provided in YYYY-MM-DD format where YYYY is the year, MM is the month, and DD is the day | These are data elements that are common to reports required in parts 122, 123, 403, and 503 | 1.
Program Report Event ID | The unique identifier for each program report submission. This will provide for unique tracking of program report submissions. This data element can be system generated | These are data elements that are common to reports required in parts 122, 123, 403, and 503 | 1.
Start Date of Reporting Period (Program Report) | The start date of the reporting period for the program report. The date must be provided in YYYY-MM-DD format where YYYY is the year, MM is the month, and DD is the day. For the Sewer Overflow/Bypass Event Report this is the start or best estimate of the start date for each Sewer Overflow/Bypass Identifier | These are data elements that are common to reports required in parts 122, 123, 403, and 503 | 4, 5, 6, 7, 9, 10.
End Date of Reporting Period (Program Report) | The end date of the reporting period for the program report. The date must be provided in YYYY-MM-DD format where YYYY is the year, MM is the month, and DD is the day. For the Sewer Overflow/Bypass Event Report this is the end or best estimate of the end date for each Sewer Overflow/Bypass Identifier | These are data elements that are common to reports required in parts 122, 123, 403, and 503 | 4, 5, 6, 7, 9, 10.
NPDES Data Group Number (Program Report) | This data element identifies the NPDES Data Group for each program report submission. This corresponds to Table 1 in this appendix {e.g., 7 = Pretreatment Program Reports [40 CFR 403.12(i)]}.This data element also applies to Significant Industrial User Compliance Reports in Municipalities Without Approved Pretreatment Programs [40 CFR 403.12(e) and (h)], which is NPDES Data Group Number 8 (Table 1 in this appendix). This can be a system generated data element | These are data elements that are common to reports required in parts 122, 123, 403, and 503 | 4 through 10.
Compliance Monitoring Activity Information (Data Elements Specific to Sewage Sludge/Biosolids Annual Program Reports)
Biosolids or Sewage Sludge Treatment Processes | The one or more unique codes/descriptions that identify the biosolids or sewage sludge treatment process or processes at the facility. For example, this data element uses codes to identify treatment processes in the following categories: preliminary operations (e.g., sludge grinding and degritting), thickening (concentration), stabilization, anaerobic digestion, aerobic digestion, composting, conditioning, disinfection (e.g., beta ray irradiation, gamma ray irradiation, pasteurization), dewatering (e.g., centrifugation, sludge drying beds, sludge lagoons), heat drying, thermal reduction, and methane or biogas capture and recovery | 503.18, 503.28, 503.48 | 4.
Biosolids or Sewage Sludge Analytical Methods | The one or more unique codes/descriptions that identify each of the analytic methods used by the facility to analyze enteric viruses, fecal coliforms, helminth ova, Salmonella sp., and other regulated parameters. For example, EPA requires facilities to monitor for the certain parameters, which are listed in Tables 1, 2, 3, and 4 at 40 CFR 503. 13 and Tables 1 and 2 at 40 CFR 503.23. This data element stores each analytic methods used by the facility only once for each annual report (not for each parameter measurement) | 503.8(b), 503.18, 503.28, 503.48 | 4.
Biosolids or Sewage Sludge Form | The one or more unique codes/descriptions that identify the nature of each biosolids and sewage sludge material generated by the facility in terms of whether the material is a biosolid or sewage sludge and whether the material is ultimately conveyed off-site in bulk or in bags. The facility will separately report the form for each biosolids or sewage sludge management practice or practices used by the facility and pathogen class | 503.18, 503.28, 503.48 | 4.
Biosolids or Sewage Sludge Management Practice | The one or more unique codes/descriptions that identify the type of biosolids or sewage sludge management practice or practices (e.g., land application, surface disposal, incineration) used by the facility. The facility will separately report the management practice for each biosolids or sewage sludge form and pathogen class. This data element will also identify the management practices used by surface disposal site owners/operators (see 40 CFR 503.24) | 503.18, 503.28, 503.48 | 4.
Biosolids or Sewage Sludge Pathogen Class | The one or more unique codes/descriptions that identify the pathogen class or classes [e.g., Class A, Class B, Not Applicable (Incineration)] for biosolids or sewage sludge generated by the facility. The facility will separately report the pathogen class for each biosolids or sewage sludge management practice used by the facility and by each biosolids or sewage sludge form | 503.18, 503.28, 503.48 | 4.
Biosolids or Sewage Sludge Amount (Program Report) | This is the amount (in dry metric tons) of biosolids or sewage sludge applied to the land, prepared for sale or give-away in a bag or other container for application to the land, or placed on an active sewage sludge unit. This identification will be made for each biosolids or sewage sludge management practice used by the facility and by each biosolids or sewage sludge form as well as by each biosolids or sewage sludge pathogen class | 503.18, 503.28, 503.48 | 4.
Biosolids or Sewage Sludge Pathogen Reduction Options | The one or more unique codes/descriptions that identify the options used by the facility to control pathogens (e.g., Class A—Alternative 1, Class A—Alternative 2, Class A—Alternative 3, Class A—Alternative 4, Class A—Alternative 5, Class A—Alternative 6, Class B—Alternative 1, Class B—Alternative 2, Class B—Alternative 3, or pH Adjustment (Domestic Septage). The facility will separately report the pathogen reduction options for each biosolids or sewage sludge management practice used by the facility and by each biosolids or sewage sludge form as well as by each biosolids or sewage sludge pathogen class | 503.18, 503.28, 503.48 | 4.
Biosolids or Sewage Sludge Vector Attraction Reduction Options | The one or more unique codes/descriptions that identify the options used by the facility for vector attraction reduction. See a listing of these vector attraction reduction options at 40 CFR 503.33(b)(1) through (11). The facility will separately report the vector attraction reduction options for each biosolids or sewage sludge management practice used by the facility and by each biosolids or sewage sludge form as well as by each biosolids or sewage sludge pathogen class | 503.18, 503.28, 503.48 | 4.
Biosolids or Sewage Sludge Monitored Parameter | This is the biosolids or sewage sludge parameter that is monitored by the facility. If there is more than one class, then the facility will separately report each monitored parameter for each biosolids or sewage sludge management practice used by the facility and by each biosolids or sewage sludge form. EPA requires facilities to monitor for the certain parameters, which are listed in Tables 1, 2, 3, and 4 at 40 CFR 503. 13 and Tables 1 and 2 at 40 CFR 503.23, pathogens (e.g., fecal coliform, Salmonella sp., enteric viruses, helminth ova), and vector attraction reduction parameters (e.g., specific oxygen uptake rate, and total, fixed, and volatile solids) | 503.18, 503.28, 503.48 | 4.
Biosolids or Sewage Sludge Monitored Parameter Value | This is the value of the Biosolids or Sewage Sludge Monitored Parameter | 503.18, 503.28, 503.48 | 4.
Biosolids or Sewage Sludge Monitored Parameter Units | This is the measurement unit (e.g., mg/kg) associated with the Biosolids or Sewage Sludge Monitored Parameter Value | 503.18, 503.28, 503.48 | 4.
Biosolids or Sewage Sludge Monitored Parameter End Date | This is the end date of the monthly monitoring period for the biosolids or sewage sludge sampling (e.g., 1/31/2015 for biosolids or sewage sludge monitoring data in January 2015). This data element is used to track the frequency of biosolids or sewage sludge monitoring in the reporting period (e.g., annual, quarterly, bi-monthly, or monthly). For example, see Table 1 of 40 CFR 503.16 (Land Application), Table 1 of 40 CFR 503.26 (Surface Disposal) | 503.18, 503.28, 503.48 | 4.
Biosolids or Sewage Sludge—Surface Disposal Maximum Allowable Pollutant Concentration | This data element is applicable to facilities that use an active surface disposal sites (e.g., monofills, surface impoundments, lagoons, waste piles, dedicated disposal sites, and dedicated beneficial use sites) without a liner. This data element identifies the maximum allowable pollutant concentration for each of the three pollutants: Arsenic, chromium, and nickel (in units of mg/kg). This data element will use Tables 1 and 2 of 40 CFR 503.23 or the procedures identified in 40 CFR 503.23(b) | 503.23, 503.28 | 4.
Biosolids or Sewage Sludge—Land Application or Surface Disposal Deficiencies | This data element is applicable to facilities that use land application and/or an active surface disposal site (e.g., monofills, surface impoundments, lagoons, waste piles, dedicated disposal sites, and dedicated beneficial use sites). This data element uses one or more unique codes/descriptions to identify all deficiencies in the biosolids or sewage sludge program within the reporting period. For example, this data element uses a unique code/description to identify when a biosolids or sewage sludge pollutant concentration exceed a ceiling concentration (e.g., Table 1 of 40 CFR 503.13 for facilities utilizing land application). This data element also uses a unique code/description to identify when the facility failed to properly collect and analyze its biosolids or sewage sludge in accordance with the approved analytical methods (including appropriate method holding times). This data element also uses a unique code/description to identify deficiencies with pathogen reduction and/or vector attraction reduction. For facilities that use an active surface disposal site this data element will use a unique code/description to identify any deficiencies in meeting the applicable surface disposal requirements [see 40 CFR 503.24(a) through (n)] | 503.18, 503.28 | 4.
Compliance Monitoring Activity Information (Data Elements Specific to CAFO Annual Program Reports)
CAFO Animal Types (Program Report) | The unique code/description that identifies the permittee's applicable animal sector(s) in the previous 12 months. This includes (but not limited to) beef cattle, broilers, layers, swine weighing 55 pounds or more, swine weighing less than 55 pounds, mature dairy cows, dairy heifers, veal calves, sheep and lambs, horses, ducks, and turkeys | 122.42(e)(4)(i) | 5.
CAFO Animal Maximum Number (Program Report) | The estimated maximum number of each type of animal in open confinement or housed under roof (either partially or totally) which are held at the facility for a total of 45 days or more in the previous 12 months | 122.42(e)(4)(i) | 5.
CAFO Animal Maximum Number in Open Confinement (Program Report) | The estimated maximum number of each type of animal in open confinement which are held at the facility for a total of 45 days or more in the previous 12 months | 122.42(e)(4)(i) | 5.
CAFO MLPW (Program Report) | The unique code/description that identifies the type of CAFO manure, litter, and process wastewater generated by the facility i.e. in the previous 12 months | 122.42(e)(4)(ii) | 5.
CAFO MLPW Amounts (Program Report) | The estimated total amount of CAFO manure, litter, and process wastewater generated by the facility in the previous 12 months | 122.42(e)(4)(ii) | 5.
CAFO MLPW Amounts Units (Program Report) | The unit (e.g., tons, gallons) for the estimated total amount of CAFO manure, litter, and process wastewater generated by the facility i.e.in the previous 12 months | 122.42(e)(4)(ii) | 5.
CAFO MLPW Transferred (Program Report) | The estimated total amount of CAFO manure, litter, and process wastewater generated by the facility i.e. in the previous 12 months that is transferred to other persons. The units for this data element will be the same as the units for the “CAFO MLPW Amounts (Program Report)” data element | 122.42(e)(4)(iii) | 5.
Total Number of Acres for Land Application Covered by the Nutrient Management Plan (Program Report) | Total number of acres for land application covered by the current nutrient management plan | 122.42(e)(4)(iv) | 5.
Total Number of Acres Used for Land Application (Program Report) | The total number of acres under control of the CAFO and used for land application in the previous 12 months | 122.42(e)(4)(v) | 5.
Discharge Type (Program Report) | The unique code/description that identifies for each discharge from the permittee's production area in the previous 12 month whether a 25-year, 24-hour rainfall event was the cause for the discharge. These data are optional if permittee uses a Discharge Monitoring Report (DMR) to provide the permitting authority with information on their discharges | 122.42(e)(4)(vi), 412 | 5.
Discovery Dates of Discharges from Production Area (Program Report) | The date of each discharge from the permittee's production area in the previous 12 months. The date must be provided in YYYY-MM-DD format where YYYY is the year, MM is the month, and DD is the day. These data are optional if permittee uses a Discharge Monitoring Report (DMR) to provide the permitting authority with information on their discharges | 122.42(e)(4)(vi) | 5.
Duration of Discharges from Production Area (Program Report) | The estimated duration time (in hours) of each discharge from the permittee's production area in the previous 12 months. These data are optional if permittee uses a Discharge Monitoring Report (DMR) to provide the permitting authority with information on their discharges | 122.42(e)(4)(vi) | 5.
Approximate Volume of Discharge from Production Area (Program Report) | The approximate volume (in gallons) of each discharge from the permittee's production area in the previous 12 months. These data are optional if permittee uses a Discharge Monitoring Report (DMR) to provide the permitting authority with information on their discharges | 122.42(e)(4)(vi) | 5.
Whether NMP Approved or Developed by Certified Planner (Program Report) | The unique code/description that identifies whether the current version of the NMP was approved or developed by a certified nutrient management planner | 122.42(e)(4)(vii) | 5.
CAFO MLPW Nitrogen Content (Program Report) | The nitrogen content of CAFO manure, litter, and process wastewater used or generated by the facility i.e. in the previous 12 months | 122.42(e)(4)(viii) | 5.
CAFO MLPW Phosphorus Content (Program Report) | The phosphorus content of CAFO manure, litter, and process wastewater used or generated by the facility i.e. in the previous 12 months | 122.42(e)(4)(viii) | 5.
CAFO MLPW Nitrogen or Phosphorus Units (Program Report) | The unit(s) (e.g., lbs/tons, lbs/1,000-gallons) for the nitrogen and phosphorus content of CAFO manure, litter, and process wastewater used or generated by the facility i.e. in the previous 12 months | 122.42(e)(4)(viii) | 5.
CAFO MLPW Nitrogen or Phosphorus Form (Program Report) | The form (e.g., total nitrogen, ammonium-nitrogen, total phosphorus) for the nitrogen and phosphorus content of CAFO manure, litter, and process wastewater used or generated by the facility i.e.in the previous 12 months | 122.42(e)(4)(viii) | 5.
Field Identification Number (Program Report) | A unique field number to which CAFO MLPW was applied in the previous 12 months. This data element will be used when the term “for each field” is used in the CAFO Annual Program Report | 122.42(e)(4)(viii) | 5.
Actual Crop(s) Planted for Each Field (Program Report) | Actual crop(s) planted for each field | 122.42(e)(4)(viii) | 5.
Actual Crop Yield(s) for Each Field (Program Report) | Actual crop yield(s) for each field | 122.42(e)(4)(viii) | 5.
Actual Crop Yield(s) for Each Field Units (Program Report) | The unit(s) for the actual crop yield(s) for each field (e.g., bushels per acre) | 122.42(e)(4)(viii) | 5.
Method for Calculating Maximum Amounts of Manure, Litter, and Process Wastewater (Program Report) | The unique code/description that identifies whether the CAFO used the Linear Approach [40 CFR 122.42(e)(5)(i)] or the Narrative Rate Approach [40 CFR 122.42(e)(5)(ii)] | 122.42(e)(4)(viii) | 5.
CAFO MLPW Land Application For Each Field (Program Report) | The unique code/description that identifies for each field the type of CAFO manure, litter, and process wastewater i.e. in the previous 12 months and used for land application | 122.42(e)(4)(viii) | 5.
CAFO MLPW Land Application Maximum Amount For Each Field (Program Report) | The maximum amount of CAFO manure, litter, and process wastewater for each field in the previous 12 months and used for land application. The maximum amounts of CAFO manure, litter, and process wastewater is calculated in accordance with procedures in the Linear Approach [40 CFR 122.42(e)(5)(i)(B)] or the Narrative Rate Approach [40 CFR 122.42(e)(5)(ii)(D)] | 122.42(e)(4)(viii) | 5.
CAFO MLPW Land Application Actual Amount For Each Field (Program Report) | The actual amount of CAFO manure, litter, and process wastewater for each field in the previous 12 months and used for land application | 122.42(e)(4)(viii) | 5.
CAFO MLPW Land Application For Each Field Unit (Program Report) | The unit (e.g., tons, gallons) for the maximum and actual amount of CAFO manure, litter, and process wastewater for each field in the previous 12 months and used for land application | 122.42(e)(4)(viii) | 5.
Nitrogen Soil Test Measurement (Narrative Rate Approach) (Program Report) | For each field used for land application, the results of the most recent soil nitrogen analysis for any soil test taken in the preceding 12 months (i.e., amount of nitrogen in the soil). This data element is only applicable to facilities using the Narrative Rate Approach as described in 40 CFR 122.42(e)(5)(ii) | 122.42(e)(4)(viii) | 5.
Phosphorus Soil Test Measurement (Narrative Rate Approach) (Program Report) | For each field used for land application, the results of the most recent soil phosphorus analysis for any soil test taken in the preceding 12 months (i.e., amount of phosphorus in the soil). This data element is only applicable to facilities using the Narrative Rate Approach as described in 40 CFR 122.42(e)(5)(ii) | 122.42(e)(4)(viii) | 5.
Soil Test Measurement Form (Narrative Rate Approach) (Program Report) | The form (e.g., total nitrogen, ammonium-nitrogen, total phosphorus) for each soil test measurement. This data element is only applicable to facilities using the Narrative Rate Approach as described in 40 CFR 122.42(e)(5)(ii) | 122.42(e)(4)(viii) | 5.
Soil Test Measurement Unit(s) (Narrative Rate Approach) (Program Report) | The unit(s) for the amounts of nitrogen and/or phosphorus for any soil test results. This data element is only applicable to facilities using the Narrative Rate Approach, as described in 40 CFR 122.42(e)(5)(ii) | 122.42(e)(4)(viii) | 5.
Nitrogen Amount of Any Supplemental Fertilizer Applied (Program Report) | For each field used for land application, provide the amount of nitrogen in supplemental fertilizer applied in the previous 12 months. This data element is only applicable to facilities using the Narrative Rate Approach as described in 40 CFR 122.42(e)(5)(ii) | 122.42(e)(4)(viii) | 5.
Phosphorus Amount of Any Supplemental Fertilizer Applied (Program Report) | For each field used for land application, provide the amount of phosphorus in supplemental fertilizer applied in the previous 12 months. This data element is only applicable to facilities that are using the Narrative Rate Approach as described in 40 CFR 122.42(e)(5)(ii) | 122.42(e)(4)(viii) | 5.
Supplemental Fertilizer Applied Units (Program Report) | The unit(s) for the amount(s) of nitrogen and/or phosphorus in any supplemental fertilizer applied in the previous 12 months (e.g., ppm, pounds per acre). This data element is only applicable to facilities using the Narrative Rate Approach, as described in 40 CFR 122.42(e)(5)(ii) | 122.42(e)(4)(viii) | 5.
Compliance Monitoring Activity Information (Data Elements Specific to Municipal Separate Storm Sewer System Program Reports)
[Note: The MS4 permit may require one report for each unique governmental entity or one report per permit].
MS4 Reliance on Other Government Entities Status | This is a unique code (e.g., “Yes”, “No”) that identifies whether the permittee relies on another unique governmental entity to satisfy any of the permit requirements | 122.26(d)(2)(vii), 122.34(g)(3)(v) | 6.
MS4 Reliance on Other Government Entities: Permit Component Status | For each MS4 permit component this data element identifies the responsible government entity. This data element uses the `Unique Identifier for Each Municipality Covered Under MS4 Permit' data element. Use of this identifier allows for greater geographic resolution for the MS4 components being tracked. This unique identifier does not change over time. The number identifies the entity taking responsibility for complying with each MS4 permit component | 122.34(g)(3)(i) and (v), 122.35(a) and 122.42(c) | 6.
MS4 Permit Components Descriptions and Measurable Goals | The one or more codes/descriptions that identify for each unique municipality all of the permitted components and measurable goals that are included in the MS4 permit. For Phase II MS4s, these components will be pre-populated from the BMPs each Phase II MS4 permittee indicated it will implement in its NOI or permit application. The groupings of these MS4 components will include public education and outreach on stormwater impacts; public involvement/participation; illicit discharge detection and elimination; construction site stormwater runoff; post-construction stormwater management in new development and redevelopment; and pollution prevention/good housekeeping for municipal operations | 122.34(g)(3) and 122.42(c) | 6.
Changes to MS4 Permit Components and Measurable Goals | The one or more codes/descriptions that describe for each unique municipality any changes made to MS4 permit components (e.g., BMPs) during the reporting period | 122.34(g)(3)(iv) and 122.42(c) | 6.
Status of Compliance with each Minimum Control Measure | The unique code (e.g., “Yes”, “No”) that identifies if the permittee has completed each measureable goal associated with each MS4 permit component | 122.34(g)(3) and 122.42(c) | 6.
Progress and Summary of Results with Each Minimum Control Measure | This is a text summary describing the permittee's compliance and progress toward meeting each measurable goal including a summary of results for each unique municipality | 122.34(g)(3) and 122.42(c) | 6.
MS4 Enforcement Action Type | For each unique municipality covered under a Phase I MS4 permit, this data element identifies the one or more types of enforcement actions taken during the past reporting period (e.g., notice of violations, stop work orders, administration orders, administrative fines, civil penalties, criminal actions). The unique municipality covered under the MS4 permit will identify “No Authority” for this data element if the municipality does not have the authority to conduct enforcement actions. This data element is optional for Phase II MS4s | 122.34(g)(3) and 122.42(c) | 6.
MS4 Enforcement Action Number | For each unique municipality covered under a Phase II MS4 permit and for each MS4 Enforcement Action Type, this data element identifies the number of enforcement actions taken by responsible MS4 Municipal Enforcement Agency. The unique municipality covered under the MS4 permit will identify “No Authority” for this data element if the municipality does not have the authority to conduct enforcement actions. For Phase II MS4s this data element will be the total number of enforcement actions taken during the reporting period | 122.34(g)(3) and 122.42(c) | 6.
MS4 Municipality Enforcement Agency | For each unique municipality covered under the MS4 permit and for each MS4 Enforcement Action Type, this data element identifies the corresponding MS4 Municipal Enforcement Agency by its unique municipality number (“Unique Identifier for Each Municipality Covered Under MS4 Permit”). This data element is only required for permittees that have co-permittees under their unique MS4 permit | 122.34(g)(3) and 122.42(c) | 6.
MS4 Industrial Stormwater Control | The one or more unique codes/descriptions that identify how the MS4 permittee will comply with industrial stormwater control requirements, including (at a minimum): (1) Status of the ordinance or other regulatory mechanism to control the contribution of pollutants by stormwater discharges associated with industrial activity, including authority to carry out all inspection, surveillance and monitoring procedures necessary to determine compliance and noncompliance, and including sanctions to ensure compliance; (2) status of the MS4 permittee industrial stormwater inventory, which identifies facilities with industrial activities and assesses the quality of the stormwater discharged from each facility with an industrial activity; (3) status of program to monitor and control pollutants in stormwater discharges from municipal landfills, hazardous waste treatment, disposal and recovery facilities, industrial facilities that are subject to Toxics Release Inventory (TRI) reporting requirements (Emergency Planning and Community Right-To-Know Act Section 313), and industrial facilities that are contributing a substantial pollutant loading to the MS4; and (4) status of monitoring program for discharges associated with industrial facilities. This data element is optional for Phase II MS4s | 40 CFR 122.26(d)(2)(i)(A, B, C, E, and F) and 40 CFR 122.26(d)(2)(ii) and (iv)(A)(5) and (iv)(C), 122.42(c) | 6.
Compliance Monitoring Activity Information (Data Elements Specific to Pretreatment Program Reports, SIU Periodic Compliance Reports in Municipalities without an Approved Pretreatment Program)
[Note: These data elements do not apply to the development, evaluation, or compliance monitoring activities supporting wastewater surcharge rates.]
SNC Published | A unique code (e.g., “Yes”, “No”) that identifies for each Significant Industrial User (SIU) and Non-Significant Categorical Industrial Users (NSCIU) in SNC whether the Control Authority published a public notice within the reporting period | 403.8(f)(2)(viii), 403.12(i)(2) | 7.
SNC with Pretreatment Enforceable Compliance Schedule Status | The unique code/description that identifies for each Significant Industrial User (SIU) and Non-Significant Categorical Industrial User (NSCIU) in SNC whether the industrial user in SNC is subject to one or more enforceable compliance schedules within the reporting period | 403.8(f)(2)(viii), 403.12(i)(2) | 7.
Local Limits Adoption Date | This is the most recent date on which the Control Authority adopted new local limits within the reporting period. The date must be provided in YYYY-MM-DD format where YYYY is the year, MM is the month, and DD is the day. The Control Authority can leave this data element blank on the Pretreatment Program Report if the Control Authority did not adopt any new local limits within the reporting period | 122.44(j)(2)(ii), 403.5(c), 403.8(f)(4) and (5), 403.12(i)(4) | 7.
Local Limits Evaluation Date | This is the most recent date on which the Control Authority completed an evaluation on the potential need for local limits within the reporting period. The date must be provided in YYYY-MM-DD format where YYYY is the year, MM is the month, and DD is the day. The Control Authority can leave this data element blank on the Pretreatment Program Report if the Control Authority did not evaluate any local limits within the reporting period | 122.44(j)(2)(ii), 403.5(c), 403.8(f)(4) and (5), 403.12(i)(4), 403.8(f)(4) | 7.
Local Limits Pollutants | This is the list of the pollutants for which the Control Authority adopted local limits. The Control Authority will only need to enter each pollutant once no matter how many treatment works are managed by the Control Authority. The Control Authority can leave this data element blank on the Pretreatment Program Reports if the Control Authority did not change the pollutants for which the Control Authority derived local limits | 403.5(c), 403.12(i)(4) | 7.
POTW Discharge Contamination Indicator (Program Report) | The one or more unique codes/descriptions that identify any problems (e.g., pass-through, interference, violation of NPDES permit limits) with the receiving POTW's effluent discharge within the reporting period. See 40 CFR 403.3(k) and (p). EPA regulations require the Control Authority to develop and enforce local limits when the discharge from an IU causes or contributes to any problems at the receiving POTW | 403.8(f), 403.12(i) | 7.
POTW Biosolids or Sewage Sludge Contamination Indicator (Program Report) | The one or more unique codes/descriptions that identify any problems (e.g., interference with the use or disposal of biosolids or sewage sludge, violation of NPDES permit requirements or EPA's regulations at 40 CFR part 503) with the receiving POTW's biosolids or sewage sludge within the reporting period. See 40 CFR 403.3(k). EPA regulations require any Control Authority that must develop a Pretreatment Program also to develop and enforce local limits to ensure that the discharge from an IU does not cause or contribute a disruption of biosolids' use or disposal at the receiving POTW | 403.8(f), 403.12(i) | 7.
Industrial User Control Mechanism Status | A unique code/description that identifies whether the Industrial User is subject to an effective Control Mechanism within the reporting period | 403.3(k), 403.5(c), 403.8(f), 403.12(i) | 7.
Industrial User Control Mechanism Effective Date | The date when the active Control Mechanism for the Industrial User became effective. The date must be provided in YYYY-MM-DD format where YYYY is the year, MM is the month, and DD is the day | 403.8(f)(1)(iii)(B)(1), 403.12(i) | 7.
Industrial User Control Mechanism Expiration Date | The date when the active Control Mechanism for the Industrial User will expire. The date must be provided in YYYY-MM-DD format where YYYY is the year, MM is the month, and DD is the day | 403.8(f), 403.12(i) | 7.
SNC With Pretreatment Standards or Limits (Program Report) | This data element will identify for each Significant Industrial User (SIU) and Non-Significant Categorical Industrial User (NSCIU) whether the IU was in Significant Non-Compliance (SNC) with any pretreatment standard or local limits applicable to the industrial user's discharge within the reporting period | 403.8(f), 403.12(i) | 7.
SNC With Pretreatment Standards or Limits Pollutants (Program Report) | This data element will identify for each Significant Industrial User (SIU) and Non-Significant Categorical Industrial User (NSCIU) the pollutants that related to the industrial user's Significant Non-Compliance (SNC) status with any applicable pretreatment standard or local limits within the reporting period | 403.8(f), 403.12(i) | 7.
SNC With Reporting Requirements (Program Report) | This data element will identify for each Significant Industrial User (SIU) and Non-Significant Categorical Industrial User (NSCIU) whether the IU was in Significant Non-Compliance (SNC) with reporting requirements (including baseline monitoring reports, notice of potential problems, periodic self-monitoring reports, notice of change in Industrial User discharge, hazardous waste notification and BMP certification) within the reporting period | 123.26, 123.41(a), 123.45, 403.8(f), 403.10, 403.12(i) | 1, 7.
SNC with Other Control Mechanism Requirements (Program Report) | This data element will identify for each Significant Industrial User (SIU) and Non-Significant Categorical Industrial User (NSCIU) whether the IU was in Significant Non-Compliance (SNC) with any other control mechanism requirements within the reporting period. This data element does not include instances of SNC that relate to the industrial user's applicable discharge standards or local limits or reporting requirements | 123.26, 123.41(a), 123.45, 403.8(f), 403.10, 403.12(i) | 1, 7.
Listing of Months in SNC | This data element will identify for each Significant Industrial User (SIU) and Non-Significant Categorical Industrial User (NSCIU) the month or months the IU is in SNC within the reporting period. These data must be provided in YYYY-MM format where YYYY is the year and MM is the month | 123.26, 123.41(a), 123.45, 403.8(f), 403.10, 403.12(i) | 1, 7.
Number of Industrial User Inspections by Control Authority | This data element will identify for each Significant Industrial User (SIU) the number of inspections conducted by the Control Authority within the reporting period | 403.8(f), 403.12(i) | 7.
Number of Industrial User Sampling Events by Control Authority | This data element will identify for each Significant Industrial User (SIU) the number of complete sampling events conducted by the Control Authority within the reporting period | 403.8(f), 403.12(i) | 7.
Number of Required Industrial User Self-Monitoring Events | This data element will identify for each Significant Industrial User (SIU) the number of required self-monitoring sampling events within the reporting period that must be reported to the Control Authority | 403.8(f), 403.12(i) | 7.
Actual Number of Industrial User Self-Monitoring Events | This data element will identify for each Significant Industrial User (SIU) the actual number of self-monitoring sampling events within the reporting period submitted to the Control Authority | 403.8(f), 403.12(i) | 7.
Types of Industrial User Enforcement Action | This data element will identify for each Significant Industrial User (SIU) the type(s) of formal enforcement action(s) (e.g., formal notices of violation or equivalent actions, administrative orders, civil suits, criminal suits) issued by the Control Authority within the reporting period. The Control Authority can also optionally use this data element to track informal actions that they issued within the reporting period | 403.8(f), 403.12(i) | 7.
Number of Industrial User Enforcement Actions | This data element will identify for each Significant Industrial User (SIU) and for each type of enforcement action the total number of formal enforcement actions issued by the Control Authority within the reporting period. The Control Authority can also optionally use this data element to track informal actions that they issued within the reporting period | 403.8(f), 403.12(i) | 7.
Industrial User Cash Civil Penalty Amount Assessed | For civil judicial Enforcement Actions, the dollar amount of the penalty assessed against each Significant Industrial User (SIU) and Non-Significant Categorical Industrial User (NSCIU) within the reporting period as specified in the final entered Consent Decree or Court Order. For Administrative Enforcement Actions, it is the dollar amount of the penalty assessed in the Consent/Final Order | CWA section 309 | 7.
Industrial User Cash Civil Penalty Amount Collected | For civil judicial Enforcement Actions, the dollar amount of the penalty collected from each Significant Industrial User (SIU) and Non-Significant Categorical Industrial User (NSCIU) within the reporting period. For Administrative Enforcement Actions, it is the dollar amount collected of the penalty assessed in the Consent/Final Order | CWA section 309 | 7.
Industrial User POTW Discharge Contamination Indicator (Program Report) | The one or more unique codes/descriptions that identify for each Significant Industrial User (SIU) and Non-Significant Categorical Industrial User (NSCIU) whether the Industrial User caused or contributed to any problems (e.g., pass-through, interference, violation of NPDES permit limits) with the receiving POTW's effluent discharge in the previous reporting period. See 40 CFR 403.3(k) and (p). EPA regulations require the Control Authority to develop and enforce local limits when the discharge from an IU causes or contributes to any problems e.g.at the receiving POTW | 123.26, 123.41(a), 123.45, 403.5(c), 403.8(f), 403.10, 403.12(i) | 1, 7.
Industrial User Biosolids or Sewage Sludge Contamination Indicator (Program Report) | The one or more unique codes/descriptions that identify for each Significant Industrial User (SIU) and Non-Significant Categorical Industrial User (NSCIU) whether the Industrial User caused or contributed to any problems (e.g., interference with the use or disposal of biosolids or sewage sludge, violation of NPDES permit requirements or EPA's regulations at 40 CFR part 503) with the receiving POTW's biosolids or sewage sludge in the previous reporting period. See 40 CFR 403.3(k). EPA regulations require the Control Authority to develop and enforce local limits when the discharge from an IU causes or contributes to any problems e.g.at the receiving POTW | 123.26, 123.41(a), 123.45, 403.5(c), 403.8(f), 403.10, 403.12(i) | 1, 7.
Industrial User Wastewater Flow Rate (Program Report) | This data element will identify for each Significant Industrial User (SIU) and Non-Significant Categorical Industrial User (NSCIU) the maximum monthly average wastewater flow rate (in gallons per day) in the previous reporting period | 403.8(f), 403.12(e), 403.12(h), 403.12(i) | 7, 8.
Middle-Tier Significant Industrial User Reduced Reporting Status | The unique code/description that identifies for each Middle-Tier Significant Industrial User (MTSIU) whether the Control Authority has granted reduced reporting requirements in accordance with 40 CFR 403.12(e)(3) | 123.26, 123.41(a), 123.45, 403.10, 403.12(e)(3), 403.12(i)(2) | 1, 7.
Non-Significant Categorical Industrial User (NSCIU) Certification Submitted to Control Authority | The unique code/description that identifies for each Non-Significant Categorical Industrial User (NSCIU) whether the facility has reported its required annual compliance certification to the Control Authority within the reporting period | 123.26, 123.41(a), 123.45, 403.10, 403.12(i)(2), 403.12(q) | 1, 7.
Notification of Changed Discharge Submission | The unique code (e.g., “Yes”, “No”) that identifies for each Significant Industrial User (SIU) and Non-Significant Categorical Industrial User (NSCIU) whether the Industrial User submitted a notification within the reporting period to the Control Authority of a substantial change in the volume or character of pollutants in their discharge, including the listing or characteristic hazardous wastes for which the Industrial User previously submitted notice | 403.8(f), 403.12 (i), 403.12(j) | 1, 7.
Compliance Monitoring Activity Information (Data Elements Specific to Sewer Overflow/Bypass Event Reports)
[Note: These data elements apply to sewer overflows and bypass events at POTWs. These data elements do not apply to industrial facilities. This report uses the `Permitted Feature Identifier (Compliance Monitoring Activity)' data element to identify the location of each sewer overflow or bypass at a permitted feature. Each bypass location should be permitted and have an identifier in the `Permitted Feature Identifier (Permit)' data element. This report will also identify the location of each sewer overflow at an unpermitted feature.]
Sewer Overflow/Bypass Identifier | This data element will allow the reporting of multiple sewer overflows or bypasses on one report. Each individualized sewer overflow or bypass will be given a unique identifier (e.g., 1, 2, 3, and so on) for each Sewer Overflow/Bypass Event Report. This field can be system generated to accommodate one or more individual sewer overflows or bypasses. If the sewer overflows are caused by an extreme weather event (e.g., hurricane) that floods the entire sewer system the POTW can use this data element to indicate that the number of sewer overflows cannot be tabulated as they are too numerous to count | 122.41(l)(4), (6), and (7) and 122.41(m)(3) | 3, 9.
Sewer Overflow Longitude for Unpermitted Feature (Sewer Overflow/Bypass Event Report) | This data element is required for each Sewer Overflow/Bypass Identifier without a corresponding identifier in the `Permitted Feature Identifier (Permit)' data element, which is reported on the NPDES permit application or Notice of Intent for NPDES permit coverage. This data element is the measure of the angular distance on a meridian east or west of the prime meridian for the sewer overflow location. The format for this data element is decimal degrees (e.g., −77.029289) and the WGS84 standard coordinate system. The `Permitted Feature Identifier (Compliance Monitoring Activity)' data element is used to identify the location of each sewer overflow at a permitted feature. If the sewer overflow is associated with a private residence the longitude of the nearest collection system structure (e.g., manhole) can be used for this data element to the extent that reporting is required. The POTW can leave this data element blank on the Sewer Overflow/Bypass Event Report if the sewer overflows are caused by an extreme weather event (e.g., hurricane) that floods the entire sewer system and are too numerous to count. This data element can also be system generated if the Sewer Overflow/Bypass Event Report collects the street location of the sewer overflow and the street location can be used to generate an accurate longitude value. (Note: “Post Office Box” addresses and “Rural Route” addresses are generally not geocodable) | 122.41(l)(4), (6), and (7) | 3, 9.
Sewer Overflow Latitude for Unpermitted Feature (Sewer Overflow/Bypass Event Report) | This data element is required for each Sewer Overflow/Bypass Identifier without a corresponding identifier in the `Permitted Feature Identifier (Permit)' data element, which is reported on the NPDES permit application or Notice of Intent for NPDES permit coverage. This data element is the measure of the angular distance on a meridian north or south of the equator for the sewer overflow location. The format for this data element is decimal degrees (e.g., -77.029289) and the WGS84 standard coordinate system. The Permitted Feature Identifier (Compliance Monitoring Activity) data element is used to identify the location of each sewer overflow at a permitted feature. If the sewer overflow is associated with a private residence the latitude of the nearest collection system structure (e.g., manhole) can be used for this data element to the extent that reporting is required. The POTW can leave this data element blank on the Sewer Overflow/Bypass Event Report if the sewer overflows are caused by an extreme weather event (e.g., hurricane) that floods the entire sewer system and are too numerous to count. This data element can also be system generated if the Sewer Overflow/Bypass Event Report collects the street location of the sewer overflow and the street location can be used to generate an accurate longitude value. (Note: “Post Office Box” addresses and “Rural Route” addresses are generally not geocodable) | 122.41(l)(4), (6), and (7) | 3, 9.
Type of Sewer Overflow/Bypass (Sewer Overflow/Bypass Event Report) | A unique code/description that identifies the type of sewer overflow or bypass (e.g., CSO or SSO from the POTW's collection system, anticipated bypass from the treatment works, unanticipated bypass from the treatment works) for each Sewer Overflow/Bypass Identifier. For bypass events the permittee will also use this data element to identify if any NPDES effluent limitations were violated as a result of the bypass | 122.41(l)(4), (6), and (7) and 122.41(m)(3) | 3, 9.
Type of Sewer Overflow/Bypass Structure | A unique code/description that identifies the type of sewer overflow or bypass structure (e.g., manhole, CSO outfall) for each Sewer Overflow/Bypass Identifier. The POTW can leave this data element blank on the Sewer Overflow/Bypass Event Report if the sewer overflows are caused by an extreme weather event (e.g., hurricane) that floods the entire sewer system and are too numerous to count | 122.41(l)(4), (6), and (7) and 122.41(m)(3) | 3, 9.
Sewer Overflow/Bypass Cause | The one or more unique codes/descriptions that best represent the likely cause of the sewer overflow or bypass (e.g., broken pipe, fats/oil/grease, mechanical failure, pump station electrical failure, wet weather, vandalism) for each Sewer Overflow/Bypass Identifier. | 122.41(l)(4), (6), and (7) and 122.41(m)(3) | 3, 9
Duration of Sewer Overflow/Bypass (hours) (Sewer Overflow/Bypass Event Report) | Estimated duration of the sewer overflow or bypass (in hours) for each Sewer Overflow/Bypass Identifier. If the discharge has not been corrected, this is the best professional judgment from the sewer owner or in the case of a bypass, the treatment plant owner, of the time the sewer overflow or bypass is expected to continue. The POTW can leave this data element blank on the Sewer Overflow/Bypass Event Report if the sewer overflows are caused by an extreme weather event (e.g., hurricane) that floods the entire sewer system and are too numerous to count | 122.41(l)(4), (6), and (7) and 122.41(m)(3) | 3, 9.
Sewer Overflow/Bypass Discharge Volume (gallons) (Sewer Overflow/Bypass Event Report) | Best professional judgment from the sewer owner on the estimated number of gallons of sewer overflow or bypass for each Sewer Overflow/Bypass Identifier. If the discharge has not been corrected, this is the best professional judgment from the sewer owner or in the case of a bypass, the treatment plant owner, of the volume of overflow or bypass prior to cessation. The POTW can leave this data element blank on the Sewer Overflow/Bypass Event Report if the sewer overflows are caused by an extreme weather event (e.g., hurricane) that floods the entire sewer system and are too numerous to count | 122.41(l)(4), (6), and (7) and 122.41(m)(3) | 3, 9.
Receiving Waterbody Name for Unpermitted Feature (Sewer Overflow/Bypass Event Report) | This data element identifies the receiving waterbody name for each Sewer Overflow/Bypass Identifier that does not have a corresponding value in the `Permitted Feature Identifier (Permit)' data element. This data element will use the best professional judgment of the sewer owner to identify the name of the waterbody that is or will likely receive the discharge from each Sewer Overflow/Bypass Identifier. The POTW can leave this data element blank on the Sewer Overflow/Bypass Event Report if the sewer overflows are caused by an extreme weather event (e.g., hurricane) that floods the entire sewer system and are too numerous to count | 122.41(l)(4), (6), and (7) | 3, 9.
Wet Weather Occurrence for Sewer Overflow/Bypass Status | The unique code (e.g., “Yes”, “No”) that represents the best professional judgment of the sewer owner, or in the case of a bypass, the treatment plant owner, regarding whether the sewer overflow or bypass, by Sewer Overflow/Bypass Identifier, occurred during wet weather | 122.41(l)(4), (6), and (7) and 122.41(m)(3) | 3, 9.
Corrective Actions Taken or Planned for Sewer Overflow/Bypass (Sewer Overflow/Bypass Event Report) | The unique code/description that describes the steps taken or planned to reduce, eliminate, and prevent reoccurrence of future sewer overflows or bypasses for each Sewer Overflow/Bypass Identifier and the related impacts to health and the environment. This data element can be used to identify the portion of the sewer overflow or bypass that was contained and recovered prior to any discharge to waters of the U.S. This data element will also identify if any monitoring of the receiving waterbody was done during and/or after the sewer overflow or bypass to gauge the potential impact to health and the environment. The POTW can leave this data element blank on the Sewer Overflow/Bypass Event Report if the sewer overflows are caused by an extreme weather event (e.g., hurricane) that floods the entire sewer system and are too numerous to count | 122.41(l)(4), (6), and (7) and 122.41(m)(3) | 3, 9.
Type of Potential Impact of Sewer Overflow/Bypass (Sewer Overflow/Bypass Event Report) | The unique code/description that describes the type of potential health or environmental impact(s) (e.g., beach closure) for each Sewer Overflow/Bypass Identifier. Under 40 CFR 122.41(l)(6), “the permittee shall report any noncompliance which may endanger health or the environment.” This data element provides information regarding the nature of such potential endangerment. The POTW can leave this data element blank on the Sewer Overflow/Bypass Event Report if the sewer overflows are caused by an extreme weather event (e.g., hurricane) that floods the entire sewer system and are too numerous to count | 122.41(l)(4), (6), and (7) and 122.41(m)(3) | 3, 9.
Compliance Monitoring Activity Information (Data Elements Specific to CWA section 316(b) Annual Reports)
[Note: Where the Director requires additional measures to protect Federally-listed threatened or endangered species or critical habitat pursuant to 40 CFR 125.94(g), the Director shall require reporting associated with those measures [see 40 CFR 125.97(g)]. The following data elements correspond to this reporting requirement. These data elements are only required for facilities that are required to report on their additional measures to protect Federally-listed threatened or endangered species or critical habitat.]
CWA Section 316(b) Biological Monitoring—Species Name (Program Report) | For existing facilities, a listing of each Federally-listed threatened or endangered species (or relevant taxa) for all life stages that might be susceptible to impingement and entrainment at the facility's cooling water intake structure(s). Specific monitoring protocols and frequency of monitoring will be determined by the Director | 125.96, 125.97(g), 125.98, 125.138(b), 401.14 and CWA section 316(b) | 10.
CWA Section 316(b) Biological Monitoring—Species Number (Program Report) | For existing facilities, the number of each Federally-listed threatened or endangered species (or relevant taxa) that might be susceptible to impingement and entrainment at the facility's cooling water intake structure(s). Specific monitoring protocols and frequency of monitoring will be determined by the Director | 125.96, 125.97(g), 125.98, 125.138(b), 401.14 and CWA section 316(b) | 10.
CWA Section 316(b) Biological Monitoring—Threatened or Endangered Status (Program Report) | For existing facilities, a unique code/description that identifies for each Federally-listed threatened or endangered species (or relevant taxa) whether the species is threatened, endangered, or is an otherwise protected species that might be susceptible to impingement and entrainment at the facility's cooling water intake structure(s). Specific monitoring protocols and frequency of monitoring will be determined by the Director | 125.96, 125.97(g), 125.98, 125.138(b), 401.14 and CWA section 316(b) | 10.
CWA Section 316(b) Biological Monitoring—Species Impinged and Entrained (Program Report) | For existing facilities, the number of each Federally-listed threatened or endangered species (or relevant taxa) impinged and entrained per year by the facility's cooling water intake structure(s). Specific monitoring protocols and frequency of monitoring will be determined by the Director | 125.96, 125.97(g), 125.98, 125.138(b), 401.14 and CWA section 316(b) | 10.
CWA Section 316(b) Biological Monitoring—Applicable Measures to Protect Designated Critical Habitat (Program Report) | For existing facilities, a text summary of the measures taken by the permittee to protect designated critical habitat in the vicinity of impingement and entrainment at the facility's cooling water intake structure(s) | 125.96, 125.97(g), 125.98, 125.138(b), 401.14 and CWA section 316(b) | 10.
Information Common to Violations, Enforcement Actions, and Final Orders
[Note: Single Event Violation (SEV) data elements are mandatory for construction stormwater inspections that identify CWA violations that result in a regulatory authority taking a formal enforcement action. SEV data elements are optional for other construction stormwater inspections.]
Violation Code | The unique code/description that identifies each type of violation that has occurred at the facility (e.g., D80 = Required Monitoring DMR Value Non-Receipt, E90 = Effluent Violation, C20 = Schedule Event Achieved Late). This includes single event violations (SEVs) and violations that are system generated based upon DMRs, schedules, etc | 123.45 and CWA section 309 | 1.
Violation Date | This is the date of the violation, which varies depending on the type of violation. The date must be provided in YYYY-MM-DD format where YYYY is the year, MM is the month, and DD is the day. This data element may be system generated and does not apply to single event violation dates | 123.45 and CWA section 309 | 1.
Violation Information
Agency Identifying the Single Event Violation (SEV) | The unique code/description that identifies the agency that identified the single event violation (SEV) | 123.26, 123.41(a), 123.45 | 1.
Single Event Violation Start Date | The date the single event violation (SEV) began. If the SEV occurred on one date, this data element is optional as this date can be system generated to equal “Single Event Violation End Date” when left blank. The date must be provided in YYYY-MM-DD format where YYYY is the year, MM is the month, and DD is the day | 123.26, 123.41(a), 123.45 | 1.
Single Event Violation End Date | The date the single event violation (SEV) ended. This field will be left blank to denote an ongoing or unresolved SEV. The date must be provided in YYYY-MM-DD format where YYYY is the year, MM is the month, and DD is the day | 123.26, 123.41(a), 123.45 | 1.
RNC Detection Code | The unique code/description that identifies the type of reportable noncompliance (RNC) detected by the regulatory authority | 123.26, 123.41(a), 123.45 | 1.
RNC Detection Date | The date that reportable noncompliance (RNC) was detected. This date may vary according to the type of violation detected. The date must be provided in YYYY-MM-DD format where YYYY is the year, MM is the month, and DD is the day | 123.26, 123.41(a), 123.45 | 1.
RNC Resolution Code | The unique code/description that identifies the reportable noncompliance (RNC) status (e.g., noncompliant, resolved pending, waiting resolution, resolved) for each violation. This data element can be entered manually or system generated | 123.26, 123.41(a), 123.45 | 1.
RNC Resolution Date | The date reportable noncompliance (RNC) was marked to its current resolution status. This data element is entered manually. The date must be provided in YYYY-MM-DD format where YYYY is the year, MM is the month, and DD is the day | 123.26, 123.41(a), 123.45 | 1.
Enforcement Action Information
[Note: NPDES authorized programs will only need to share criminal action information with EPA when the criminal case is concluded.]
Enforcement Action Identifier | The unique identifier for each enforcement action. For EPA enforcement actions, this field will be have three components, each separated by a hyphen (e.g., 04-2014-4509). These three components are: (1) the EPA Region responsible for the enforcement action as identified by the EPA Region code (e.g., 04); (2) the four-digit fiscal year during which the enforcement action is initiated (e.g., 2014); and (3) a four-digit, user-assigned sequence number between 0001 and 9999 (e.g., 4509). States will be able to use this same structure, or they will be able to use a different structure of their choosing provided that the first two characters of the identifier constitute the state code (e.g., Alabama = “AL”) | 123.27, 123.41(a), and CWA section 309 | 1.
Enforcement Action Forum | This identifies the forum of the formal enforcement action (e.g., administrative formal, judicial). This can be system generated | 123.27, 123.41(a), and CWA section 309 | 1.
Enforcement Action Type | The unique code/description that identifies the type for each formal or informal enforcement action. This code/description identifies, for example, whether the enforcement action is a civil judicial referral, a notice of violation, an administrative penalty order, administrative order, or criminal prosecution | 123.27, 123.41(a), and CWA section 309 | 1.
Programs Violated (Enforcement Action) | The unique code/description that identifies each program (e.g., pretreatment, biosolids/sewage sludge, MS4s, Core NPDES program) associated with each enforcement activity | 123.27, 123.41(a), and CWA section 309 | 1.
Enforcement Action Sub-activity Type | A unique code/description that identifies the type for each sub-activity associated with each enforcement activity (e.g., COMPS = compliance achieved, MECDJ = motion to enforce consent agreement, AHRG = administrative hearing, AMNCA = amended complaint). Some of these sub-activities are system required and some can be system generated. Data on sub-activities that are not milestones are optional | 123.27, 123.41(a), and CWA section 309 | 1.
Enforcement Action Sub-activity Completion Date | The date on which the sub-activity was completed. This data element is required for each sub-activity provided. The date must be provided in YYYY-MM-DD format where YYYY is the year, MM is the month, and DD is the day. Some of these dates can be system generated | 123.27, 123.41(a), and CWA section 309 | 1.
Final Order Information
[Note: These data elements are linked to the “Enforcement Action Identifier”. NPDES authorized programs will only need to share criminal action information with EPA when the criminal case is concluded.]
Final Order Identifier | The unique identifier for each final order. This data element can be system generated | 123.27, 123.41(a), and CWA section 309 | 1.
Final Order Type | A unique code that identifies the legal process used by the authorized NPDES program to settle the enforcement action (e.g., administrative compliance order, an administrative penalty order, consent decree, Federal facility agreement, criminal conviction or plea agreement) | 123.27, 123.41(a), and CWA section 309 | 1.
Final Order Issued/Entered Date | For a judicial enforcement action this is the date the Clerk of the Court stamps the document after it is signed by the presiding Judge. For an administrative formal enforcement action this is the date the Final Order was issued. For a criminal enforcement action, this is the date the sentence was imposed. The date must be provided in YYYY-MM-DD format where YYYY is the year, MM is the month, and DD is the day | 123.27, 123.41(a), and CWA section 309 | 1.
NPDES Closed Date | The date of closure for each NPDES final order. The date must be provided in YYYY-MM-DD format where YYYY is the year, MM is the month, and DD is the day | 123.27, 123.41(a), and CWA section 309 | 1.
Penalty Information
[Note: These data elements are linked to the “Enforcement Action Identifier”. NPDES authorized programs will only need to share criminal action information with EPA when the criminal case is concluded.]
Penalty Amount Assessed | For civil judicial enforcement actions, the dollar amount of the penalty assessed against the defendant(s) as specified in the final entered Consent Decree or Court Order. For administrative enforcement actions, it is the dollar amount of the penalty assessed in the Consent Decree or Final Order. For criminal enforcement actions, it is the dollar amount of the fine agreed to by the defendant or sentenced by the Court and should include fields for prison time, probation, home confinement or monitoring periods, restitution, and special assessments | 123.27, 123.41(a), and CWA section 309 | 1.
Penalty Amount Collected | For civil judicial enforcement actions, the dollar amount of the penalty collected from the defendant(s). For administrative enforcement actions, it is the dollar amount collected of the penalty assessed in the Consent Decree or Final Order. For criminal enforcement actions, it is the dollar amount of the fine paid by the defendant as well as restitution and special assessments | 123.27, 123.41(a), and CWA section 309 | 1.
Supplemental Environmental Project Identifier | The unique identifier for each supplemental environmental project. This data element can be system generated | 123.27, 123.41(a), and CWA section 309 | 1.
Supplemental Environmental Project Amount | The assessed cost, in dollars, of the one or more of the defendant's Supplemental Environmental Projects (SEPs). This is the dollar amount that is assessed either in addition to civil penalties or in lieu of civil penalties. This data element is only required if there is a SEP and may be entered at a later date when the data is available | 123.27, 123.41(a), and CWA section 309 | 1.
Supplemental Environmental Project Description | This text field summarizes the Supplemental Environmental Projects (SEPs) that the respondent has completed in response to an enforcement action. This data element is only required if there is a SEP and may be entered at a later date when the data is available | 123.27, 123.41(a), and CWA section 309 | 1.
Compliance Schedule Information
[Note: These data elements are linked to the “Enforcement Action Identifier”.]
Compliance Schedule Number | This number that in combination with the Compliance Schedule Type and NPDES ID uniquely identifies a compliance schedule | 123.27, 123.41(a), and CWA section 309 | 1.
Compliance Schedule Type | The unique code/description that identifies the type of compliance schedule (e.g., an administrative formal action = “A”, a judicial action = “J”) | 123.27, 123.41(a), and CWA section 309 | 1.
Compliance Schedule Description | The unique code/description that identifies each type of condition or requirement (e.g., best management practices plan development) for the compliance schedule | 123.27, 123.41(a), and CWA section 309 | 1.
Compliance Schedule Event Code | The unique code/description that identifies each event that is added within a compliance schedule | 123.27, 123.41(a), and CWA section 309 | 1.
Compliance Schedule Due Date | The date the compliance schedule event is scheduled to be completed (i.e., the due date). The date must be provided in YYYY-MM-DD format where YYYY is the year, MM is the month, and DD is the day | 123.27, 123.41(a), and CWA section 309 | 1.
Compliance Schedule Actual Date | The actual date on which the compliance schedule event was completed or achieved. The date must be provided in YYYY-MM-DD format where YYYY is the year, MM is the month, and DD is the day | 123.27, 123.41(a), and CWA section 309 | 1.
Compliance Schedule Report Received Date | The date the regulatory agency received the report required by the compliance schedule report. The date must be provided in YYYY-MM-DD format where YYYY is the year, MM is the month, and DD is the day | 123.27, 123.41(a), and CWA section 309 | 1.

Notes:

(1) The NPDES program authority may pre-populate these data elements and other data elements (e.g., Federal Registry System ID) in the NPDES electronic reporting systems in order to create efficiencies and standardization. For example, the NPDES program authority may configure their electronic reporting system to automatically generate NPDES IDs for control mechanisms for new facilities reported on a Pretreatment Program Report [40 CFR 403.12(i)]. Additionally, the NPDES program authority can decide whether to allow NPDES regulated entities to override these pre-populated data.

(2) The data elements in this table conform to EPA's policy regarding the application requirements for renewal or reissuance of NPDES permits for discharges from municipal separate storm sewer systems (see 61 FR 41698; 6 August 1996).

(3) The data elements in this table are also supported by the Office Management and Budget approved permit applications and forms for the NPDES program.

(4) These data will allow EPA and the NPDES program authority to link facilities, compliance monitoring activities, compliance determinations, and enforcement actions. For example, these data will provide several ways to make the following linkages: linking violations to enforcement actions and final orders; linking single event violations and compliance monitoring activities; linking program reports to DMRs; linking program reports to compliance monitoring activities; and linking enforcement activities and compliance monitoring activities.

PART 403—GENERAL PRETREATMENT REGULATIONS FOR EXISTING AND NEW SOURCES OF POLLUTION

24. The authority citation for part 403 continues to read as follows:

Authority: 33 U.S.C. 1251 et seq.

25. Amend § 403.10 by adding paragraph (f)(2)(viii) to read as follows:

§ 403.10 Development and submission of NPDES State pretreatment programs.

* * * * *

(f) * * *

(2) * * *

(viii) Regularly notify all Control Authorities of electronic submission requirements of 40 CFR part 127.

* * * * *

26. Amend § 403.12 by revising paragraphs (e)(1), (h), and (i) introductory text to read as follows:

§ 403.12 Reporting requirements for POTW's and industrial users.

* * * * *

(e) * * *

(1) Any Industrial User subject to a categorical Pretreatment Standard (except a Non-Significant Categorical User as defined in § 403.3(v)(2)), after the compliance date of such Pretreatment Standard, or, in the case of a New Source, after commencement of the discharge into the POTW, shall submit to the Control Authority during the months of June and December, unless required more frequently in the Pretreatment Standard or by the Control Authority or the Approval Authority, a report indicating the nature and concentration of pollutants in the effluent which are limited by such categorical Pretreatment Standards. In addition, this report shall include a record of measured or estimated average and maximum daily flows for the reporting period for the Discharge reported in paragraph (b)(4) of this section except that the Control Authority may require more detailed reporting of flows. In cases where the Pretreatment Standard requires compliance with a Best Management Practice (or pollution prevention alternative), the User shall submit documentation required by the Control Authority or the Pretreatment Standard necessary to determine the compliance status of the User. At the discretion of the Control Authority and in consideration of such factors as local high or low flow rates, holidays, budget cycles, etc., the Control Authority may modify the months during which the above reports are to be submitted. For Industrial Users for which EPA or the authorized state, tribe, or territory is the Control Authority, as of December 21, 2020 all reports submitted in compliance with this section must be submitted electronically by the industrial user to the Control Authority or initial recipient, as defined in 40 CFR 127.2(b), in compliance with this section and 40 CFR part 3 (including, in all cases, subpart D to part 3), 40 CFR 122.22, and 40 CFR part 127. Part 127 is not intended to undo existing requirements for electronic reporting. Prior to this date, and independent of part 127, the Industrial Users for which EPA or the authorized state, tribe, or territory is the Control Authority may be required to report electronically if specified by a particular control mechanism or if required to do so by state law.

* * * * *

(h) Reporting requirements for Industrial Users not subject to categorical Pretreatment Standards. The Control Authority must require appropriate reporting from those Industrial Users with Discharges that are not subject to categorical Pretreatment Standards. Significant Non-categorical Industrial Users must submit to the Control Authority at least once every six months (on dates specified by the Control Authority) a description of the nature, concentration, and flow of the pollutants required to be reported by the Control Authority. In cases where a local limit requires compliance with a Best Management Practice or pollution prevention alternative, the User must submit documentation required by the Control Authority to determine the compliance status of the User. These reports must be based on sampling and analysis performed in the period covered by the report, and in accordance with the techniques described in part 136 of this chapter and amendments thereto. This sampling and analysis may be performed by the Control Authority in lieu of the significant non-categorical Industrial User. For Industrial Users for which EPA or the authorized state, tribe, or territory is the Control Authority, as of December 21, 2020 all reports submitted in compliance with this section must be submitted electronically by the industrial user to the Control Authority or initial recipient, as defined in 40 CFR 127.2(b), in compliance with this section and 40 CFR part 3 (including, in all cases, subpart D to part 3), 40 CFR 122.22, and 40 CFR part 127. Part 127 is not intended to undo existing requirements for electronic reporting. Prior to this date, and independent of part 127, the Industrial Users for which EPA or the authorized state, tribe, or territory is the Control Authority may be required to report electronically if specified by a particular control mechanism or if required to do so by state law.

(i) Annual POTW reports. POTWs with approved Pretreatment Programs shall provide the Approval Authority with a report that briefly describes the POTW's program activities, including activities of all participating agencies, if more than one jurisdiction is involved in the local program. The report required by this section shall be submitted no later than one year after approval of the POTW's Pretreatment Program, and at least annually thereafter, and must include, at a minimum, the applicable required data in appendix A to 40 CFR part 127. The report required by this section must also include a summary of changes to the POTW's pretreatment program that have not been previously reported to the Approval Authority and any other relevant information requested by the Approval Authority. As of December 21, 2020 all annual reports submitted in compliance with this section must be submitted electronically by the POTW Pretreatment Program to the Approval Authority or initial recipient, as defined in 40 CFR 127.2(b), in compliance with this section and 40 CFR part 3 (including, in all cases, subpart D to part 3), 40 CFR 122.22, and 40 CFR part 127. Part 127 is not intended to undo existing requirements for electronic reporting. Prior to this date, and independent of part 127, the Approval Authority may also require POTW Pretreatment Programs to electronically submit annual reports under this section if specified by a particular permit or if required to do so by state law.

* * * * *

PART 501—STATE SLUDGE MANAGEMENT PROGRAM REGULATIONS

27. The authority citation for part 501 continues to read as follows:

Authority: 33 U.S.C. 1251 et seq.

28. Revise § 501.21 to read as follows:

§ 501.21 Program reporting to EPA.

As of December 21, 2020, state sludge management programs must comply with 40 CFR part 3 and 40 CFR part 127 (including the applicable required data elements in appendix A to part 127).

PART 503—STANDARDS FOR THE USE OR DISPOSAL OF SEWAGE SLUDGE

29. The authority citation for part 503 continues to read as follows:

Authority: Sections 405 (d) and (e) of the Clean Water Act, as amended by Pub. L. 95-217, sec. 54(d), 91 Stat. 1591 (33 U.S.C. 1345 (d) and (e)); and Pub. L. 100-4, title IV, sec. 406(a), (b), 101 Stat., 71, 72 (33 U.S.C. 1251 et seq.).

30. Amend § 503.18 by revising paragraph (a) introductory text to read as follows:

§ 503.18 Reporting.

(a) Class I sludge management facilities, POTWs (as defined in § 501.2 of this chapter) with a design flow rate equal to or greater than one million gallons per day, and POTWs that serve 10,000 people or more shall submit a report on February 19 of each year. As of December 21, 2016 all reports submitted in compliance with this section must be submitted electronically by the operator to EPA when the Regional Administrator is the Director in compliance with this section and 40 CFR part 3 (including, in all cases, subpart D to part 3), 40 CFR 122.22, and 40 CFR part 127. As of December 21, 2020 all reports submitted in compliance with this section must be submitted electronically in compliance with this section and 40 CFR part 3 (including, in all cases, subpart D to part 3), 40 CFR 122.22, and 40 CFR part 127. Part 127 is not intended to undo existing requirements for electronic reporting. Prior to the start dates for electronic reporting (see Table 1 in 40 CFR 127.16), the Director may also require operators to electronically submit annual reports under this section if required to do so by state law.

* * * * *

31. Revise § 503.28 to read as follows:

§ 503.28 Reporting.

Class I sludge management facilities, POTWs (as defined in 40 CFR 501.2) with a design flow rate equal to or greater than one million gallons per day, and POTWs that serve 10,000 people or more shall submit a report on February 19 of each year. As of December 21, 2016 all reports submitted in compliance with this section must be submitted electronically by the operator to EPA when the Regional Administrator is the Director in compliance with this section and 40 CFR part 3 (including, in all cases, subpart D to part 3), 40 CFR 122.22, and 40 CFR part 127. As of December 21, 2020 all reports submitted in compliance with this section must be submitted electronically in compliance with this section and 40 CFR part 3 (including, in all cases, subpart D to part 3), 40 CFR 122.22, and 40 CFR part 127. Part 127 is not intended to undo existing requirements for electronic reporting. Prior to the start dates for electronic reporting (see Table 1 in 40 CFR 127.16), the Director may also require operators to electronically submit annual reports under this section if required to do so by state law.

32. Revise § 503.48 to read as follows:

§ 503.48 Reporting.

Class I sludge management facilities, POTWs (as defined in § 501.2 of this chapter) with a design flow rate equal to or greater than one million gallons per day, and POTWs that serve a population of 10,000 people or greater shall submit a report on February 19 of each year. As of December 21, 2016 all reports submitted in compliance with this section must be submitted electronically by the operator to EPA when the Regional Administrator is the Director in compliance with this section and 40 CFR part 3 (including, in all cases, subpart D to part 3), 40 CFR 122.22, and 40 CFR part 127. As of December 21, 2020 all reports submitted in compliance with this section must be submitted electronically in compliance with this section and 40 CFR part 3 (including, in all cases, subpart D to part 3), 40 CFR 122.22, and 40 CFR part 127. Part 127 is not intended to undo existing requirements for electronic reporting. Prior to the start dates for electronic reporting (see Table 1 in 40 CFR 127.16), the Director may also require operators to electronically submit annual reports under this section if required to do so by state law.

[FR Doc. 2015-24954 Filed 10-21-15; 8:45 am]

BILLING CODE 6560-50-P